FEDERAL COMMUNICATIONS COMMISSION

47 CFR Ch. I

Unified Agenda of Federal Regulatory and Deregulatory Actions—Spring 2011

AGENCY: Federal Communications Commission.

ACTION: Semiannual regulatory agenda.

SUMMARY: Twice a year, in spring and fall, the Commission publishes in the Federal Register a list in the Unified Agenda of those major items and other significant proceedings under development or review that pertain to the Regulatory Flexibility Act. See 5 U.S.C. 602. The Unified Agenda also provides the Code of Federal Regulations citations and legal authorities that govern these proceedings.

ADDRESSES: Federal Communications Commission, 445 12th Street SW., Washington, DC 20554.

FOR FURTHER INFORMATION CONTACT: Maura McGowan, Telecommunications Specialist, Federal Communications Commission, 445 12th Street SW., Washington, DC 20554; (202) 418-0990.

SUPPLEMENTARY INFORMATION:

Unified Agenda of Major and Other Significant Proceedings

The Commission encourages public participation in its rulemaking process. To help keep the public informed of significant rulemaking proceedings, the Commission has prepared a list of important proceedings now in progress. The General Services Administration publishes the Unified Agenda in the Federal Register in the spring and fall of each year.

The following terms may be helpful in understanding the status of the proceedings included in this report:

Docket Number—assigned to a proceeding if the Commission has issued either a Notice of Proposed Rulemaking or a Notice of Inquiry concerning the matter under consideration. The Commission has used docket numbers since January 1, 1978. Docket numbers consist of the last two digits of the calendar year in which the docket was established plus a sequential number that begins at 1 with the first docket initiated during a calendar year (e.g., Docket No. 96-1 or Docket No. 99-1). The abbreviation for the responsible bureau usually precedes the docket number, as in “MM Docket No. 96-222,” which indicates that the responsible bureau is the Mass Media Bureau (now the Media Bureau). A docket number consisting of only five digits (e.g., Docket No. 29622) indicates that the docket was established before January 1, 1978.

Notice of Inquiry (NOI)—issued by the Commission when it is seeking information on a broad subject or trying to generate ideas on a given topic. A comment period is specified during which all interested parties may submit comments.

Notice of Proposed Rulemaking (NPRM)—issued by the Commission when it is proposing a specific change to Commission rules and regulations. Before any changes are actually made, interested parties may submit written comments on the proposed revisions.

Further Notice of Proposed Rulemaking (FNPRM)—issued by the Commission when additional comment in the proceeding is sought.

Memorandum Opinion and Order (MO&O)—issued by the Commission to deny a petition for rulemaking, conclude an inquiry, modify a decision, or address a petition for reconsideration of a decision.

Rulemaking (RM) Number—assigned to a proceeding after the appropriate bureau or office has reviewed a petition for rulemaking, but before the Commission has taken action on the petition.

Report and Order (R&O)—issued by the Commission to state a new or amended rule or state that the Commission rules and regulations will not be revised.

Marlene H. Dortch,
Secretary, Federal Communications Commission.

Consumer and Governmental Affairs Bureau—Long-Term Actions
Sequence No. | Title | Regulation Identifier No.
331 | Policies and Rules Governing Interstate Pay-Per-Call and Other Information Services Pursuant to the Telecommunications Act of 1996 (CC Docket Nos. 96-146, 93-22) | 3060-AG42
332 | Implementation of the Subscriber Selection Changes Provision of the Telecommunications Act of 1996 (CC Docket No. 94-129) | 3060-AG46
333 | Implementation of the Telecommunications Act of 1996; Access to Telecommunications Service, Telecommunications Equipment, and Customer Premises Equipment by Persons With Disabilities | 3060-AG58
334 | Telecommunications Relay Services, the Americans With Disabilities Act of 1990, and the Telecommunications Act of 1996 (CC Docket No. 90-571) | 3060-AG75
335 | Rules and Regulations Implementing the Telephone Consumer Protection Act (TCPA) of 1991 (CG Docket No. 02-278) | 3060-AI14
336 | Rules and Regulations Implementing Section 225 of the Communications Act (Telecommunications Relay Service) (CG Docket No. 03-123) | 3060-AI15
337 | Rules and Regulations Implementing the Controlling the Assault of Non-Solicited Pornography and Marketing Act of 2003 (CG Docket No. 04-53) | 3060-AI20
338 | Rules and Regulations Implementing Minimum Customer Account Record Exchange (CARE) Obligations on All Local and Interexchange Carriers (CG Docket No. 02-386) | 3060-AI58
339 | Consumer Information and Disclosure and Truth in Billing and Billing Format | 3060-AI61
340 | Closed Captioning of Video Programming (Section 610 Review) | 3060-AI72
341 | Accessibility of Programming Providing Emergency Information | 3060-AI75
342 | Empowering Consumers to Avoid Bill Shock, Consumer Information and Disclosure; CG Docket No. 10-207, CG Docket No. 09-158 | 3060-AJ51

Office of Engineering and Technology—Long-Term Actions
Sequence No. | Title | Regulation Identifier No.
343 | New Advanced Wireless Services (ET Docket No. 00-258) | 3060-AH65
344 | Exposure to Radiofrequency Electromagnetic Fields | 3060-AI17
345 | Unlicensed Operation in the TV Broadcast Bands (ET Docket No. 04-186) | 3060-AI52
346 | Unlicensed Devices and Equipment Approval (ET Docket No. 03-201) | 3060-AI54
347 | Fixed and Mobile Services in the Mobile Satellite Service (ET Docket No. 10-142) | 3060-AJ46
348 | Innovation in the Broadcast Television Bands; ET Docket No. 10-235 | 3060-AJ57
349 | Radio Experimentation and Market Trials Under Part 5 of the Commission's Rules and Streamlining Other Related Rules; ET Docket No. 10-236 | 3060-AJ62

Office of Engineering and Technology—Completed Actions
Sequence No. | Title | Regulation Identifier No.
350 | Revision of the Rules Regarding Ultra-Wideband Transmission | 3060-AH47

International Bureau—Long-Term Actions
Sequence No. | Title | Regulation Identifier No.
351 | Establishment of Rules and Policies for the Digital Audio Radio Satellite Service in the 2310-2360 MHz Frequency Band (IB Docket No. 95-91; GEN Docket No. 90-357) | 3060-AF93
352 | Allocation and Designation of Spectrum in the 36.0-43.5 GHz Band | 3060-AH23
353 | Space Station Licensing Reform (IB Docket No. 02-34) | 3060-AH98
354 | Mitigation of Orbital Debris (IB Docket No. 02-54) | 3060-AI06
355 | Amendment of the Commission's Rules (IB Docket No. 04-47) | 3060-AI41
356 | Reporting Requirements for U.S. Providers of International Telecommunications Services (IB Docket No. 04-112) | 3060-AI42
357 | Review of the Spectrum Sharing Plan Among Non-Geostationary Satellite Orbit Mobile Satellite Service Systems in the 1.6/2.4 GHz Bands (IB Docket No. 02-364) | 3060-AI44
358 | Amendment of the Commission's Rules To Allocate Spectrum and Adopt Service Rules and Procedures To Govern the Use of Vehicle-Mounted Earth Stations (IB Docket No. 07-101) | 3060-AI90

International Bureau—Completed Actions
Sequence No. | Title | Regulation Identifier No.
359 | Streamlining the Commission's Rules and Regulations for Satellite Application and Licensing Procedures (IB Docket No. 95-117) | 3060-AD70
360 | Streamlining Earth Station Licensing Rules (IB Docket No. 00-248) | 3060-AH60

Media Bureau—Long-Term Actions
Sequence No. | Title | Regulation Identifier No.
361 | Cable Television Rate Regulation | 3060-AF41
362 | Cable Television Rate Regulation: Cost of Service | 3060-AF48
363 | Cable Home Wiring | 3060-AG02
364 | Competitive Availability of Navigation Devices (CS Docket No. 97-80) | 3060-AG28
365 | Digital Audio Broadcasting Systems (MM Docket No. 99-325) | 3060-AH40
366 | Second Periodic Review of Rules and Policies Affecting the Conversion to DTV | 3060-AH54
367 | Revision of EEO Rules and Policies (MM Docket No. 98-204) | 3060-AH95
368 | Broadcast Multiple and Cross-Ownership Limits | 3060-AH97
369 | Establishment of Rules for Digital Low Power Television, Television Translator, and Television Booster Stations (MB Docket No. 03-185) | 3060-AI38
370 | Joint Sales Agreements in Local Television Markets (MB Docket No. 04-256) | 3060-AI55
371 | Revision of Procedures Governing Amendments to FM Table of Allotments and Changes of Community of License in the Radio Broadcast Services (MB Docket No. 05-210) | 3060-AI63
372 | Digital Television Distributed Transmission System Technologies (MB Docket No. 05-312) | 3060-AI68
373 | Implementation of the Cable Communications Policy Act of 1984 as Amended by the Cable Television Consumer Protection and Competition Act of 1992 (MB Docket No. 05-311) | 3060-AI69
374 | Program Access Rules—Sunset of Exclusive Contracts Prohibition and Examination of Programming Tying Arrangements (MB Docket Nos. 07-29, 07-198) | 3060-AI87
375 | Third Periodic Review of the Commission's Rules and Policies Affecting the Conversion to Digital Television (MB Docket No. 07-91) | 3060-AI89
376 | Broadcast Localism (MB Docket No. 04-233) | 3060-AJ04
377 | Creating a Low Power Radio Service (MM Docket No. 99-25) | 3060-AJ07
378 | Sponsorship Identification Rules and Embedded Advertising (MB Docket No. 08-90) | 3060-AJ10
379 | An Inquiry Into the Commission's Policies and Rules Regarding AM Radio Service Directional Antenna Performance Verification (MM Docket No. 93-177) | 3060-AJ17
380 | Amendment of Parts 73 and 74 of the Commission's Rules To Establish Rules for Replacement Digital Low Power Television Translator Stations (MB Docket No. 08-253) | 3060-AJ18
381 | Policies To Promote Rural Radio Service and To Streamline Allotment and Assignment Procedures (MB Docket No. 09-52) | 3060-AJ23
382 | Promoting Diversification of Ownership in the Broadcast Services (MB Docket No. 07-294) | 3060-AJ27
383 | Implementation of Section 203 of the Satellite Television Extension and Localism Act of 2010 (STELA) (MB Docket No. 10-148) | 3060-AJ43

Media Bureau—Completed Actions
Sequence No. | Title | Regulation Identifier No.
384 | Direct Broadcast Public Interest Obligations (MM Docket No. 93-25) | 3060-AH59

Office of Managing Director—Long-Term Actions
Sequence No. | Title | Regulation Identifier No.
385 | Assessment and Collection of Regulatory Fees | 3060-AI79
386 | Amendment of Part 1 of the Commission's Rules, Concerning Practice and Procedure, Amendment of CORES Registration System; MD Docket No. 10-234 | 3060-AJ54

Public Safety and Homeland Security Bureau—Long-Term Actions
Sequence No. | Title | Regulation Identifier No.
387 | Revision of the Rules To Ensure Compatibility With Enhanced 911 Emergency Calling Systems | 3060-AG34
388 | Enhanced 911 Services for Wireline | 3060-AG60
389 | In the Matter of the Communications Assistance for Law Enforcement Act | 3060-AG74
390 | Development of Operational, Technical, and Spectrum Requirements for Public Safety Communications Requirements | 3060-AG85
391 | 1998 Biennial Regulatory Review—Review of Accounts Settlement in Maritime Mobile and Maritime Mobile-Satellite Radio Services (IB Docket No. 98-96) | 3060-AH30
392 | Implementation of 911 Act | 3060-AH90
393 | Commission Rules Concerning Disruptions to Communications | 3060-AI22
394 | E911 Requirements for IP-Enabled Service Providers | 3060-AI62
395 | Recommendations of the Independent Panel Reviewing the Impact of Hurricane Katrina on Communications Networks | 3060-AI78
396 | Stolen Vehicle Recovery System (SVRS) | 3060-AJ01
397 | Commercial Mobile Alert System | 3060-AJ03
398 | Emergency Alert System | 3060-AJ33
399 | Wireless E911 Location Accuracy Requirements; PS Docket No. 07-114 | 3060-AJ52

Wireless Telecommunications Bureau—Long-Term Actions
Sequence No. | Title | Regulation Identifier No.
400 | Implementation of the Communications Act, Amendment of the Commission's Rules—Broadband PCS Competitive Bidding and the Commercial Mobile Radio Service Spectrum Cap | 3060-AG21
401 | Service Rules for the 746 to 764 and 776 to 794 MHz Bands, and Revisions to the Commission's Rules | 3060-AH32
402 | Amendment of Parts 13 and 80 of the Commission's Rules Governing Maritime Communications | 3060-AH55
403 | Competitive Bidding Procedures | 3060-AH57
404 | Reexamination of Roaming Obligations of Commercial Mobile Radio Service Providers | 3060-AH83
405 | Facilitating the Provision of Spectrum-Based Services to Rural Areas | 3060-AI31
406 | Improving Public Safety Communications in the 800 MHz Band Industrial/Land Transportation and Business Channels | 3060-AI34
407 | Review of Part 87 of the Commission's Rules Concerning Aviation (WT Docket No. 01-289) | 3060-AI35
408 | Implementation of the Commercial Spectrum Enhancement Act (CSEA) and Modernization of the Commission's Competitive Bidding Rules and Procedures (WT Docket No. 05-211) | 3060-AI88
409 | Facilitating the Provision of Fixed and Mobile Broadband Access, Educational and Other Advanced Services in the 2150-2162 and 2500-2690 MHz Bands | 3060-AJ12
410 | Amendment of the Rules Regarding Maritime Automatic Identification Systems (WT Docket No. 04-344) | 3060-AJ16
411 | Service Rules for Advanced Wireless Services in the 2155-2175 MHz Band | 3060-AJ19
412 | Service Rules for Advanced Wireless Services in the 1915 to 1920 MHz, 1995 to 2000 MHz, 2020 to 2025 MHz, and 2175 to 2180 MHz Bands | 3060-AJ20
413 | Rules Authorizing the Operation of Low Power Auxiliary Stations in the 698-806 MHz Band, WT Docket No. 08-166; Public Interest Spectrum Coalition, Petition for Rulemaking Regarding Low Power Auxiliary | 3060-AJ21
414 | Amendment of the Commission's Rules To Improve Public Safety Communications in the 800 MHz Band, and To Consolidate the 800 MHz and 900 MHz Business and Industrial/Land Transportation Pool Channels | 3060-AJ22
415 | Amendment of Part 101 to Accommodate 30 MHz Channels in the 6525-6875 MHz Band and Provide Conditional Authorization on Channels in the 21.8-22.0 and 23.0-23.2 GHz Band (WT Docket No. 04-114) | 3060-AJ28
416 | In the Matter of Service Rules for the 698 to 746, 747 to 762 and 777 to 792 MHz Bands | 3060-AJ35
417 | National Environmental Act Compliance for Proposed Tower Registrations; In the Matter of Effects on Migratory Birds | 3060-AJ36
418 | Amendment of Part 90 of the Commission's Rules | 3060-AJ37
419 | Amendment of Part 101 of the Commission's Rules for Microwave Use and Broadcast Auxiliary Service Flexibility | 3060-AJ47
420 | 2004 and 2006 Biennial Regulatory Reviews—Streamlining and Other Revisions of the Commission's Rules Governing Construction, Marking, and Lighting of Antenna Structures | 3060-AJ50
421 | Universal Service Reform Mobility Fund (WT Docket No. 10-208) | 3060-AJ58
422 | Fixed and Mobile Services in the Mobile Satellite Service Bands at 1525-1559 MHz and 1626.5-1660.5 MHz, 1610-1626.5 MHz and 2483.5-2500 MHz, and 2000-2020 MHz and 2180-2200 MHz | 3060-AJ59

Wireless Telecommunications Bureau—Completed Actions
Sequence No. | Title | Regulation Identifier No.
423 | 2000 Biennial Regulatory Review Spectrum Aggregation Limits for Commercial Mobile Radio Services | 3060-AH81
424 | In the Matter of Promoting Efficient Use of Spectrum Through Elimination of Barriers to the Development of Secondary Markets | 3060-AH82

Wireline Competition BUREAU—Long-Term Actions
Sequence No. | Title | Regulation Identifier No.
425 | Implementation of the Universal Service Portions of the 1996 Telecommunications Act | 3060-AF85
426 | Telecommunications Carriers' Use of Customer Proprietary Network Information and Other Customer Information | 3060-AG43
427 | Implementation of the Local Competition Provisions of the Telecommunications Act of 1996 | 3060-AG50
428 | Local Telephone Networks That LECs Must Make Available to Competitors | 3060-AH44
429 | 2000 Biennial Regulatory Review—Telecommunications Service Quality Reporting Requirements | 3060-AH72
430 | Access Charge Reform and Universal Service Reform | 3060-AH74
431 | Numbering Resource Optimization | 3060-AH80
432 | National Exchange Carrier Association Petition | 3060-AI47
433 | IP-Enabled Services | 3060-AI48
434 | Consumer Protection in the Broadband Era | 3060-AI73
435 | Establishing Just and Reasonable Rates for Local Exchange Carriers (WC Docket No. 07-135) | 3060-AJ02
436 | Jurisdictional Separations | 3060-AJ06
437 | Service Quality, Customer Satisfaction, Infrastructure and Operating Data Gathering (WC Docket Nos. 08-190, 07-139, 07-204, 07-273, 07-21) | 3060-AJ14
438 | Form 477; Development of Nationwide Broadband Data To Evaluate Reasonable and Timely Deployment of Advanced Services to All Americans | 3060-AJ15
439 | Preserving the Open Internet; Broadband Industry Practices | 3060-AJ30
440 | Local Number Portability Porting Interval and Validation Requirements (WC Docket No 07-244) | 3060-AJ32
441 | Electronic Tariff Filing System (ETFS); WC Docket No. 10-141 | 3060-AJ41

Wireline Competition Bureau—Completed Actions
Sequence No. | Title | Regulation Identifier No.
442 | Implementation of NET 911 Improvement Act | 3060-AJ09
443 | Petition To Establish Procedural Requirements To Govern Proceedings for Forbearance Under Section 10 of the Communications Act of 1934, as Amended (WC Docket No.07-267) | 3060-AJ31

FEDERAL COMMUNICATIONS COMMISSION (FCC)

Consumer and Governmental Affairs Bureau

Long-Term Actions

331. Policies and Rules Governing Interstate Pay-Per-Call and Other Information Services Pursuant to the Telecommunications Act of 1996 (CC Docket Nos. 96-146, 93-22)

Legal Authority: 47 U.S.C. 228

Abstract: The Commission received comments on proposed rules designed to implement the 1996 Telecommunications Act with respect to information services to prevent abusive and deceptive practices by entities that might try to circumvent the statutory requirements. The proposed rules address generally the use of dialing sequences other than the 900 service access code to provide information services. The Commission issued an NPRM on these issues July 16, 2004.

Timetable:

Action | Date | FR Cite
NPRM | 07/26/96 | 61 FR 39107
Order | 07/26/96 | 61 FR 39084
NPRM Comment Period End | 09/16/96 |
Notice to Refresh Record | 03/27/03 | 68 FR 14939
Comment Period End | 05/27/03 |
NPRM | 10/15/04 | 69 FR 61184
Next Action Undetermined |  |

Regulatory Flexibility Analysis Required: Yes.

Agency Contact: Colleen Heitkamp, Chief, Consumer Policy Div., Federal Communications Commission, Consumer & Governmental Affairs Bureau, 445 12th Street SW, Washington, DC 20554, Phone: 202 418-0974, E-mail: colleen.heitkamp@fcc.gov.

RIN: 3060-AG42

332. Implementation of the Subscriber Selection Changes Provision of the Telecommunications Act of 1996 (CC Docket No. 94-129)

Legal Authority: 47 U.S.C. 154; 47 U.S.C. 201; 47 U.S.C. 258

Abstract: In December 1998, the Commission established new rules and policies implementing section 258 of the Communications Act of 1934, as amended by the Telecommunications Act of 1996, which makes it unlawful for any telecommunications carrier to “submit or execute a change in a subscriber's selection of a provider of telecommunications exchange service or telephone toll service except in accordance with such verification procedures as the Commission shall prescribe.” The rules provide, among other things, that any telecommunications carrier that violates such verification procedures and that collects charges for telephone exchange service or telephone toll service from a subscriber shall be liable to the carrier previously selected by the subscriber in an amount equal to 150 percent of all charges paid by the subscriber after such violation. In April 2000, the Commission modified the slamming liability rules by giving victims of slamming adequate redress, ensuring that carriers that slam do not profit from their fraud, and allowing States to act as the primary administrator of slamming complaints. In May 2001, the Commission adopted streamlined procedures for the carrier-to-carrier sale or transfer of customer bases.

In February 2003, the Commission adopted a Reconsideration Order and Second FNPRM. The Reconsideration Order addresses, amongst other things, the requirement that a carrier's sales agent drop-off a carrier change request phone call once the customer has been connected to an independent third party verifier, and the applicability of our slamming rules to local exchange carriers. In the Second FNPRM, the Commission sought comment on rule modifications with respect to third party verifications.

On January 4, 2008, the Commission released an Order that confirmed that a LEC that is executing a carrier change on behalf of another carrier may not re-verify whether the person listed on the change order is actually authorized to do so.

On January 9, 2008, the Commission released a Fourth Report and Order that modified the slamming rules regarding the content of independent third party verifications of a consumer's intent to switch carriers.

Timetable:

Action | Date | FR Cite
MO&O on Recon and FNPRM | 08/14/97 | 62 FR 43493
FNPRM Comment Period End | 09/30/97 |
Second R&O and Second FNPRM | 02/16/99 | 64 FR 7745
First Order on Recon | 04/13/00 | 65 FR 47678
Third R&O and Second Order on Recon | 11/08/00 | 65 FR 66934
Third FNPRM | 01/29/01 | 66 FR 8093
Order | 03/01/01 | 66 FR 12877
First R&O and Fourth R&O | 06/06/01 | 66 FR 30334
Second FNPRM | 03/17/03 | 68 FR 19176
Third Order on Recon | 03/17/03 | 68 FR 19152
Second FNPRM Comment Period End | 06/17/03 |
First Order on Recon & Fourth Order on Recon | 03/15/05 | 70 FR 12605
Fifth Order on Recon | 03/23/05 | 70 FR 14567
Order | 02/04/08 | 73 FR 6444
Fourth R&O | 03/12/08 | 73 FR 13144
Next Action Undetermined |  |

Regulatory Flexibility Analysis Required: Yes.

Agency Contact: Nancy Stevenson, Deputy Chief, Consumer Policy Div., Federal Communications Commission, Consumer and Governmental Affairs Bureau, 445 12th Street, SW., Washington, DC 20554, Phone: 202 418-7039, Fax: 202 418-0236, E-mail: nancy.stevenson@fcc.gov.

RIN: 3060-AG46

333. Implementation of the Telecommunications Act of 1996; Access to Telecommunications Service, Telecommunications Equipment, and Customer Premises Equipment by Persons With Disabilities

Legal Authority: 47 U.S.C. 255; 47 U.S.C. 251(a)(2)

Abstract: These proceedings implement the provisions of sections 255 and 251(a)(2) of the Communications Act and related sections of the Telecommunications Act of 1996 regarding the accessibility of telecommunications equipment and services to persons with disabilities.

Timetable:

Action | Date | FR Cite
R&O | 08/14/96 | 61 FR 42181
NOI | 09/26/96 | 61 FR 50465
NPRM | 05/22/98 | 63 FR 28456
R&O | 11/19/99 | 64 FR 63235
Further NOI | 11/19/99 | 64 FR 63277
Public Notice | 01/07/02 | 67 FR 678
R&O | 08/06/07 | 72 FR 43546
NPRM | 11/21/07 | 72 FR 65494
R&O | 05/07/08 | 73 FR 25566
R&O | 06/12/08 | 73 FR 33324
Public Notice | 08/01/08 | 73 FR 45008
Policy Statement and 2nd R&O | 09/08/10 | 75 FR 54508
FNPRM | 09/08/10 | 75 FR 54564
Final Rule Announcement of Effective Date | 12/14/10 | 75 FR 77781
Next Action Undetermined |  |

Regulatory Flexibility Analysis Required: Yes.

Agency Contact: Cheryl J. King, Deputy Chief, Disability Rights Office, Federal Communications Commission, Consumer and Governmental Affairs Bureau, 445 12th Street, SW., Washington, DC 20554, Phone: 202 418-2284, TDD Phone: 202 418-0416, Fax: 202 418-0037, E-mail: cheryl.king@fcc.gov.

RIN: 3060-AG58

334. Telecommunications Relay Services, the Americans With Disabilities Act of 1990, and the Telecommunications Act of 1996 (CC Docket No. 90-571)

Legal Authority: 47 U.S.C. 151; 47 U.S.C. 154; 47 U.S.C. 225

Abstract: This item addresses the requirement that telecommunications relay services be capable of handling any type of call normally provided by common carriers.

Timetable:

Action | Date | FR Cite
NPRM | 12/04/90 | 55 FR 50037
R&O and Request for Comments | 08/01/91 | 56 FR 36729
Order on Recon & Second R&O | 03/03/93 | 58 FR 12175
FNPRM | 03/30/93 | 58 FR 12204
MO&O | 11/28/95 | 60 FR 58626
Order | 09/08/97 | 62 FR 47152
Second NPRM | 04/05/01 | 66 FR 18059
Fifth R&O | 02/07/03 | 68 FR 6352
Fifth R&O (Correction) | 02/24/03 | 68 FR 8553
Public Notice | 08/27/04 | 69 FR 52694
Petitions for Recon of Fifth R&O Denied | 09/01/04 | 69 FR 53346
Next Action Undetermined |  |

Regulatory Flexibility Analysis Required: Yes.

Agency Contact: Karen Peltz Strauss, Deputy Chief, Consumer and Governmental Affairs Bureau, Federal Communications Commission, 445 12th Street, SW., Washington, DC 20554, Phone: 202 418-2388, E-mail: karen.strauss@fcc.gov.

RIN: 3060-AG75

335. Rules and Regulations Implementing the Telephone Consumer Protection Act (TCPA) of 1991 (CG Docket No. 02-278)

Legal Authority: 47 U.S.C. 227

Abstract: On July 3, 2003, the Commission released a Report and Order establishing, along with the FTC, a national do-not-call registry. The Commission's Report and Order also adopted rules on the use of predictive dialers, the transmission of caller ID information by telemarketers, and the sending of unsolicited fax advertisements.

On September 21, 2004, the Commission released an Order amending existing safe harbor rules for telemarketers subject to the do-not-call registry to require such telemarketers to access the do-not-call list every 31 days, rather than every 3 months.

On April 5, 2006, the Commission adopted a Report and Order and Third Order on Reconsideration amending its facsimile advertising rules to implement the Junk Fax Protection Act of 2005. On October 14, 2008, the Commission released an Order on Reconsideration addressing certain issues raised in petitions for reconsideration and/or clarification of the Report and Order and Third Order on Reconsideration.

On January 4, 2008, the Commission released a Declaratory Ruling, clarifying that autodialed and prerecorded message calls to wireless numbers that are provided by the called party to a creditor in connection with an existing debt are permissible as calls made with the “prior express consent” of the called party.

Following a December 4, 2007 NPRM, on June 17, 2008, the Commission released a Report and Order amending its rules to require sellers and/or telemarketers to honor registrations with the National Do-Not-Call Registry indefinitely, unless the registration is cancelled by the consumer or the number is removed by the database administrator.

On January 22, 2010, the Commission released an NPRM proposing to require sellers and telemarketers to obtain express written consent from recipients before making prerecorded telemarketing calls, commonly known as “robocalls,” even when the caller has an established business relationship with the consumer. The proposals also, among other things, would require that prerecorded telemarketing calls include an automated, interactive mechanism by which a consumer may “opt out” of receiving future prerecorded messages from a seller or telemarketer.

Timetable:

Action | Date | FR Cite
NPRM | 10/08/02 | 67 FR 62667
FNPRM | 04/03/03 | 68 FR 16250
Order | 07/25/03 | 68 FR 44144
Order Effective | 08/25/03 |
Order on Recon | 08/25/03 | 68 FR 50978
Order | 10/14/03 | 68 FR 59130
FNPRM | 03/31/04 | 69 FR 16873
Order | 10/08/04 | 69 FR 60311
Order | 10/28/04 | 69 FR 62816
Order on Recon | 04/13/05 | 70 FR 19330
Order | 06/30/05 | 70 FR 37705
NPRM | 12/19/05 | 70 FR 75102
Public Notice | 04/26/06 | 71 FR 24634
Order | 05/03/06 | 71 FR 25967
NPRM | 12/14/07 | 72 FR 71099
Declaratory Ruling | 02/01/08 | 73 FR 6041
R&O | 07/14/08 | 73 FR 40183
Order on Recon | 10/30/08 | 73 FR 64556
NPRM | 03/22/10 | 75 FR 13471
Next Action Undetermined |  |

Regulatory Flexibility Analysis Required: Yes.

Agency Contact: Kurt Schroeder, Deputy Chief, Consumer Policy Div., Federal Communications Commission, Consumer and Governmental Affairs Bureau, 445 12th Street SW., Washington, DC 20554, Phone: 202 632-0966, E-mail: kurt.schroeder@fcc.gov.

RIN: 3060-AI14

336. Rules and Regulations Implementing Section 225 of the Communications Act (Telecommunications Relay Service) (CG Docket No. 03-123)

Legal Authority: 47 U.S.C. 151; 47 U.S.C. 154; 47 U.S.C. 225

Abstract: This proceeding established a new docket flowing from the previous telecommunications relay service (TRS) history, CC Docket No. 98-67. This proceeding continues the Commission's inquiry into improving the quality of TRS and furthering the goal of functional equivalency, consistent with Congress' mandate that TRS regulations encourage the use of existing technology and not discourage or impair the development of new technology. In this docket, the Commission explores ways to improve emergency preparedness for TRS facilities and services, new TRS technologies, public access to information and outreach, and issues related to payments from the Interstate TRS Fund.

Timetable:

Action | Date | FR Cite
NPRM | 08/25/03 | 68 FR 50993
R&O, Order on Recon | 09/01/04 | 69 FR 53346
FNPRM | 09/01/04 | 69 FR 53382
Public Notice | 02/17/05 | 70 FR 8034
Declaratory Ruling/Interpretation | 02/25/05 | 70 FR 9239
Public Notice | 03/07/05 | 70 FR 10930
Order | 03/23/05 | 70 FR 14568
Public Notice/Announcement of Date | 04/06/05 | 70 FR 17334
Order | 07/01/05 | 70 FR 38134
Order on Recon | 08/31/05 | 70 FR 51643
R&O | 08/31/05 | 70 FR 51649
Order | 09/14/05 | 70 FR 54294
Order | 09/14/05 | 70 FR 54298
Public Notice | 10/12/05 | 70 FR 59346
R&O/Order on Recon | 12/23/05 | 70 FR 76208
Order | 12/28/05 | 70 FR 76712
Order | 12/29/05 | 70 FR 77052
NPRM | 02/01/06 | 71 FR 5221
Declaratory Ruling/Clarification | 05/31/06 | 71 FR 30818
FNPRM | 05/31/06 | 71 FR 30848
FNPRM | 06/01/06 | 71 FR 31131
Declaratory Ruling/Dismissal of Petition | 06/21/06 | 71 FR 35553
Clarification | 06/28/06 | 71 FR 36690
Declaratory Ruling on Recon | 07/06/06 | 71 FR 38268
Order on Recon | 08/16/06 | 71 FR 47141
MO&O | 08/16/06 | 71 FR 47145
Clarification | 08/23/06 | 71 FR 49380
FNPRM | 09/13/06 | 71 FR 54009
Final Rule; Clarification | 02/14/07 | 72 FR 6960
Order | 03/14/07 | 72 FR 11789
R&O | 08/06/07 | 72 FR 43546
Public Notice | 08/16/07 | 72 FR 46060
Order | 11/01/07 | 72 FR 61813
Public Notice | 01/04/08 | 73 FR 863
R&O/Declaratory Ruling | 01/17/08 | 73 FR 3197
Order | 02/19/08 | 73 FR 9031
Order | 04/21/08 | 73 FR 21347
R&O | 04/21/08 | 73 FR 21252
Order | 04/23/08 | 73 FR 21843
Public Notice | 04/30/08 | 73 FR 23361
Order | 05/15/08 | 73 FR 28057
Declaratory Ruling | 07/08/08 | 73 FR 38928
FNPRM | 07/18/08 | 73 FR 41307
R&O | 07/18/08 | 73 FR 41286
Public Notice | 08/01/08 | 73 FR 45006
Public Notice | 08/05/08 | 73 FR 45354
Public Notice | 10/10/08 | 73 FR 60172
Order | 10/23/08 | 73 FR 63078
2nd R&O and Order on Recon | 12/30/08 | 73 FR 79683
Order | 05/06/09 | 74 FR 20892
Public Notice | 05/07/09 | 74 FR 21364
NPRM | 05/21/09 | 74 FR 23815
Public Notice | 05/21/09 | 74 FR 23859
Public Notice | 06/12/09 | 74 FR 28046
Order | 07/29/09 | 74 FR 37624
Public Notice | 08/07/09 | 74 FR 39699
Order | 09/18/09 | 74 FR 47894
Order | 10/26/09 | 74 FR 54913
Public Notice | 05/12/10 | 75 FR 26701
Order Denying Stay Motion (Release Date) | 07/09/10 |
Order | 08/13/10 | 75 FR 49491
Order | 09/03/10 | 75 FR 54040
NPRM | 11/02/10 | 75 FR 67333
Next Action Undetermined |  |

Regulatory Flexibility Analysis Required: Yes.

Agency Contact: Karen Peltz Strauss, Deputy Chief, Consumer and Governmental Affairs Bureau, Federal Communications Commission, 445 12th Street SW., Washington, DC 20554, Phone: 202 418-2388, E-mail: karen.strauss@fcc.gov.

RIN: 3060-AI15

337. Rules and Regulations Implementing the Controlling the Assault of Non-Solicited Pornography and Marketing Act of 2003 (CG Docket No. 04-53)

Legal Authority: 15 U.S.C. 7706; 15 U.S.C. 7712; Pub. L. 108-187

Abstract: The Commission has adopted rules to protect consumers from unwanted electronic mobile service messages to implement the Controlling the Assault of Non-Solicited Pornography and Marketing Act of 2003.

Timetable:

Action | Date | FR Cite
NPRM | 03/31/04 | 69 FR 16873
NPRM Comment Period End | 05/17/04
Order | 09/16/04 | 69 FR 55765
Order | 06/15/05 | 70 FR 34665
Order on Recon (Release Date) | 03/22/07
Next Action Undetermined

Regulatory Flexibility Analysis Required: Yes.

Agency Contact: Kurt Schroeder, Deputy Chief, Consumer Policy Div., Federal Communications Commission, Consumer and Governmental Affairs Bureau, 445 12th Street SW., Washington, DC 20554, Phone: 202 632-0966, E-mail: kurt.schroeder@fcc.gov.

RIN: 3060-AI20

338. Rules and Regulations Implementing Minimum Customer Account Record Exchange (CARE) Obligations on All Local and Interexchange Carriers (CG Docket No. 02-386)

Legal Authority: 47 U.S.C. 151; 47 U.S.C. 154; 47 U.S.C. 201 and 202; 47 U.S.C. 303(r)

Abstract: On December 20, 2002, the Commission issued a Public Notice directing interested parties to file comments on issues raised in a petition filed with the Commission by Americatel Corporation and on a separate petition filed by AT&T, Sprint, and MCI. The petitions asked the Commission to address problems relating to the exchange of customer account records between local and long distance telephone service providers. On March 25, 2004, the Commission released a Notice of Proposed Rulemaking (NPRM) in CG Docket No. 02-386 seeking further comment on the two petitions and seeking comment as to whether to replace the current voluntary industry process for the exchange of customer account information between local and long distance service providers with mandatory, minimum standards applicable to all such providers.

On February 25, 2005, the Commission released a Report and Order and Further Notice of Proposed Rulemaking in CG Docket No. 02-386. The Report and Order adopted final rules governing the exchange of customer account information between local and long distance telephone service providers. The Commission adopted these rules to help to ensure that consumers' phone service bills are accurate and that their carrier selection requests are honored and executed without undue delay. In the Further Notice of Proposed Rulemaking (FNPRM), the Commission sought comment on the need for rules governing the exchange of customer account information between local telephone service providers.

On April 15, 2005, and June 15, 2005, a coalition of local and long distance carriers proposed minor modifications and clarifications to section 64.4002 of the Commission's CARE rules. On August 29, 2005, the Commission released a public notice requesting comment on the coalition's proposed clarifications and modifications. Notice of the proposed changes was published in the Federal Register on September 7, 2005 (70 FR 53137). The comment cycle established by the August 29 public notice closed October 3, 2005.

On September 13, 2006, the Commission released an Order on Reconsideration adopting the clarifications and technical corrections to the Report and Order, as proposed by the coalition of carriers.

On December 21, 2007, the Commission released a Report and Order declining to adopt mandatory data exchange requirements between local exchange carriers.

Timetable:

Action | Date | FR Cite
NPRM | 04/19/04 | 69 FR 20845
NPRM Comment Period End | 06/18/04
R&O and FNPRM | 06/02/05 | 70 FR 32258
FNPRM Comment Period End | 08/01/05
Public Notice | 08/29/05 | 70 FR 53137
Public Notice Comment Period End | 10/03/05
Order on Recon | 12/13/06 | 71 FR 74819
R&O | 01/08/08 | 73 FR 1297
Next Action Undetermined

Regulatory Flexibility Analysis Required: Yes.

Agency Contact: Nancy Stevenson, Deputy Chief, Consumer Policy Div., Federal Communications Commission, Consumer and Governmental Affairs Bureau, 445 12th Street SW., Washington, DC 20554, Phone: 202 418-7039, Fax: 202 418-0236, E-mail: nancy.stevenson@fcc.gov.

RIN: 3060-AI58

339. Consumer Information and Disclosure and Truth in Billing and Billing Format

Legal Authority: 47 U.S.C. 201; 47 U.S.C. 258

Abstract: In 1999, the Commission adopted truth-in-billing rules to address concerns that there is consumer confusion relating to billing for telecommunications services. On March 18, 2005, the Commission released an Order and FNPRM to further facilitate the ability of telephone consumers to make informed choices among competitive service offerings.

On August 28, 2009, the Commission released a Notice of Inquiry which asks questions about information available to consumers at all stages of the purchasing process for all communications services, including (1) choosing a provider; (2) choosing a service plan; (3) managing use of the service plan; and (4) deciding whether and when to switch an existing provider or plan.

On December 14, 2010, the Commission released a Notice of Proposed Rulemaking proposing rules that would require mobile service providers to provide usage alerts and information that will assist consumers in avoiding unexpected charges on their bills.

Timetable:

Action | Date | FR Cite
FNPRM | 05/25/05 | 70 FR 30044
R&O | 05/25/05 | 70 FR 29979
NOI | 08/28/09
Public Notice | 05/20/10 | 75 FR 28249
Public Notice | 06/11/10 | 75 FR 33303
NPRM | 11/26/10 | 75 FR 72773
NPRM Comment Period End | 12/27/10
Next Action Undetermined

Regulatory Flexibility Analysis Required: Yes.

Agency Contact: Richard D. Smith, Special Counsel, Federal Communications Commission, Consumer and Governmental Affairs Bureau, 445 12th Street SW., Washington, DC 20554, Phone: 717 338-2797, Fax: 717 338-2574, E-mail: richard.smith@fcc.gov.

RIN: 3060-AI61

340. Closed Captioning of Video Programming (Section 610 Review)

Legal Authority: 47 U.S.C. 613

Abstract: The Commission's closed captioning rules are designed to make video programming more accessible to deaf and hard of hearing Americans. This proceeding resolves some issues regarding the Commission's closed captioning rules that were raised for comment in 2005, and also seeks comment on how a certain exemption from the closed captioning rules should be applied to digital multicast broadcast channels.

Timetable:

Action | Date | FR Cite
NPRM | 02/03/97 | 62 FR 4959
R&O | 09/16/97 | 62 FR 48487
Order on Recon | 10/28/98 | 63 FR 55959
NPRM | 09/26/05 | 70 FR 56150
Order and Declaratory Ruling | 01/13/09 | 74 FR 1594
NPRM | 01/13/09 | 74 FR 1654
Final Rule Announcement of Effective Date | 02/19/10 | 75 FR 7370
Order | 02/19/10 | 75 FR 7368
Order Suspending Effective Date | 02/19/10 | 75 FR 7369
Final Rule Correction | 09/11/09 | 74 FR 46703
Waiver Order | 10/04/10 | 75 FR 61101
Public Notice | 11/17/10 | 75 FR 70168
Next Action Undetermined

Regulatory Flexibility Analysis Required: Yes.

Agency Contact: Eliot Greenwald, Consumer & Governmental Affairs Bureau, Federal Communications Commission, 445 12th Street SW., Washington, DC 20554, Phone: 202 418-2235, E-mail: eliot.greenwald@fcc.gov.

RIN: 3060-AI72

341. Accessibility of Programming Providing Emergency Information

Legal Authority: 47 U.S.C. 613

Abstract: In this proceeding, the Commission adopted rules detailing how video programming distributors must make emergency information accessible to persons with hearing and visual disabilities.

Timetable:

Action | Date | FR Cite
FNPRM | 01/21/98 | 63 FR 3070
NPRM | 12/01/99 | 64 FR 67236
NPRM Correction | 12/22/99 | 64 FR 71712
Second R&O | 05/09/00 | 65 FR 26757
R&O | 09/11/00 | 65 FR 54805
Next Action Undetermined

Regulatory Flexibility Analysis Required: Yes.

Agency Contact: Eliot Greenwald, Consumer & Governmental Affairs Bureau, Federal Communications Commission, 445 12th Street SW., Washington, DC 20554, Phone: 202 418-2235, E-mail: eliot.greenwald@fcc.gov.

RIN: 3060-AI75

342. • Empowering Consumers to Avoid Bill Shock, Consumer Information and Disclosure; CG Docket No. 10-207, CG Docket No. 09-158

Legal Authority: 47 U.S.C. 201; 47 U.S.C. 303; 47 U.S.C. 332

Abstract: On October 14, 2010, the Commission released a Notice of Proposed Rulemaking which proposes rule that would require mobile service providers to provide usage alerts and information that will assist consumers in avoiding unexpected charges on their bills.

Timetable:

Action | Date | FR Cite
Public Notice | 05/20/10 | 75 FR 28249
NPRM | 11/26/10 | 75 FR 72773
NPRM Comment Period End | 12/27/10
Next Action Undetermined

Regulatory Flexibility Analysis Required: Yes.

Agency Contact: Richard D. Smith, Special Counsel, Federal Communications Commission, Consumer and Governmental Affairs Bureau, 445 12th Street SW., Washington, DC 20554, Phone: 717 338-2797, Fax: 717 338-2574, E-mail: richard.smith@fcc.gov.

RIN: 3060-AJ51

FEDERAL COMMUNICATIONS COMMISSION (FCC)

Office of Engineering and Technology

Long-Term Actions

343. New Advanced Wireless Services (ET Docket No. 00-258)

Legal Authority: 47 U.S.C. 154(i); 47 U.S.C. 157(a); 47 U.S.C. 303(c); 47 U.S.C. 303(f); 47 U.S.C. 303(g); 47 U.S.C. 303(r)

Abstract: This proceeding explores the possible uses of frequency bands below 3 GHz to support the introduction of new advanced wireless services, including third generations as well as future generations of wireless systems. Advanced wireless systems could provide for a wide range of voice data and broadband services over a variety of mobile and fixed networks.

The Third Notice of Proposed Rulemaking discusses the frequency bands that are still under consideration in this proceeding and invites additional comments on their disposition. Specifically, it addresses the Unlicensed Personal Communications Service (UPCS) band at 1910-1930 MHz, the Multipoint Distribution Service (MDS) spectrum at 2155-2160/62 MHz bands, the Emerging Technology spectrum, at 2160-2165 MHz, and the bands reallocated from MSS 91990-2000 MHz, 2020-2025 MHz, and 2165-2180 MHz. We seek comment on these bands with respect to using them for paired or unpaired Advance Wireless Service (AWS) operations or as relocation spectrum for existing services.

The 7th Report and Order facilitates the introduction of Advanced Wireless Service (AWS) in the band 1710-1755 MHz—an integral part of a 90 MHz spectrum allocation recently reallocated to allow for such new and innovative wireless services. We largely adopt the proposals set forth in our recent AWS Fourth NPRM in this proceeding that are designed to clear the 1710-1755 MHz band of incumbent Federal Government operations that would otherwise impede the development of new nationwide AWS services. These actions are consistent with previous actions in this proceeding and with the United States Department of Commerce, National Telecommunications and Information Administration (NTIA) 2002 Viability Assessment, which addressed relocation and reaccommodation options for Federal Government operations in the band.

The 8th Report and Order reallocated the 2155-2160 MHz band for Fixed and Mobile services and designates the 2155-2175 MHz band for Advanced Wireless Service (AWS) use. This proceeding continues the Commission's ongoing efforts to promote spectrum utilization and efficiency with regard to the provision of new services, including Advanced Wireless Services.

The Order requires Broadband Radio Service (BRS) licensees in the 2150-2160/62 MHz band to provide information on the construction status and operational parameters of each incumbent BRS system that would be the subject of relocation.

The Notice of Proposed Rule Making requested comments on the specific relocation procedures applicable to Broadband Radio Service (BRS) operations in the 2150-2160/62 MHz band, which the Commission recently decided will be relocated to the newly restructured 2495-2690 MHz band. The Commission also requested comments on the specific relocation procedures applicable to Fixed Microwave Service (FS) operations in the 2160-2175 MHz band.

The Office of Engineering and Technology (OET) and the Wireless Telecommunications Bureau (WTB) set forth the specific data that Broadband Radio Service (BRS) licensees in the 2150-2160/62 MHz band must file along with the deadline date and procedures for filing this data on the Commission's Universal Licensing System (ULS). The data will assist in determining future AWS licensee's relocation obligations.

The 9th Report and Order established procedures for the relocation of Broadband Radio Service (BRS) operations from the 2150-2160/62 MHz band, as well as for the relocation of Fixed Microwave Service (FS) operations from the 2160-2175 MHz band, and modified existing relocation procedures for the 2110-2150 MHz and 2175-2180 MHz bands. It also established cost-sharing rules to identify the reimbursement obligations for Advanced Wireless Service (AWS) and Mobile Satellite Service (MSS) entrants benefiting from the relocation of incumbent FS operations in the 2110-2150 MHz and 2160-2200 MHz bands and AWS entrants benefiting from the relocation of BRS incumbents in the 2150-2160/62 MHz band. The Commission continues its ongoing efforts to promote spectrum utilization and efficiency with regard to the provision of new services, including AWS. The Order dismisses a petition for reconsideration filed by the Wireless Communications Association International, Inc. (WCA) as moot.

Two petitions for Reconsideration were filed in response to the 9th Report and Order.

Timetable:

Action | Date | FR Cite
NPRM | 01/23/01 | 66 FR 7438
NPRM Comment Period End | 03/09/01
Final Report | 04/11/01 | 66 FR 18740
FNPRM | 09/13/01 | 66 FR 47618
MO&O | 09/13/01 | 66 FR 47591
First R&O | 10/25/01 | 66 FR 53973
Petition for Recon | 11/02/01 | 66 FR 55666
Second R&O | 01/24/03 | 68 FR 3455
Third NPRM | 03/13/03 | 68 FR 12015
Seventh R&O | 12/29/04 | 69 FR 7793
Petition for Recon | 04/13/05 | 70 FR 19469
Eighth R&O | 10/26/05 | 70 FR 61742
Order | 10/26/05 | 70 FR 61742
NPRM | 10/26/05 | 70 FR 61752
Public Notice | 12/14/05 | 70 FR 74011
Ninth R&O and Order | 05/24/06 | 71 FR 29818
Petition for Recon | 07/19/06 | 71 FR 41022
Next Action Undetermined

Regulatory Flexibility Analysis Required: Yes.

Agency Contact: Rodney Small, Economist, Federal Communications Commission, Office of Engineering and Technology, 445 12th Street SW., Washington, DC 20554, Phone: 202 418-2452, Fax: 202 418-1944, E-mail: rodney.small@fcc.gov.

RIN: 3060-AH65

344. Exposure to Radiofrequency Electromagnetic Fields

Legal Authority: 47 U.S.C. 151; 47 U.S.C. 302 and 303; 47 U.S.C. 309(j); 47 U.S.C. 336

Abstract: The Notice of Proposed Rulemaking (NPRM) proposed amendments to the FCC rules relating to compliance of transmitters and facilities with guidelines for human exposure to radio frequency (RF) energy.

Timetable:

Action | Date | FR Cite
NPRM | 09/08/03 | 68 FR 52879
NPRM Comment Period End | 12/08/03
Next Action Undetermined

Regulatory Flexibility Analysis Required: Yes.

Agency Contact: Ira Keltz, Electronics Engineer, Federal Communications Commission, Office of Engineering and Technology, 445 12th Street SW., Washington, DC 20554, Phone: 202 418-0616, Fax: 202 418-1944, E-mail: ikeltz@fcc.gov.

RIN: 3060-AI17

345. Unlicensed Operation in the TV Broadcast Bands (ET Docket No. 04-186)

Legal Authority: 47 U.S.C. 154(i); 47 U.S.C. 302; 47 U.S.C. 303(e) and 303(f); 47 U.S.C. 303(r); 47 U.S.C. 307

Abstract: The Commission adopted rules to allow unlicensed radio transmitters to operate in the broadcast television spectrum at locations where that spectrum is not being used by licensed services (this unused TV spectrum is often termed “white spaces”). This action will make a significant amount of spectrum available for new and innovative products and services, including broadband data and other services for businesses and consumers. The actions taken are a conservative first step that includes many safeguards to prevent harmful interference to incumbent communications services. Moreover, the Commission will closely oversee the development and introduction of these devices to the market and will take whatever actions may be necessary to avoid, and if necessary correct, any interference that may occur.

The Second Memorandum Opinion and Order finalizes rules to make the unused spectrum in the TV bands available for unlicensed broadband wireless devices. This particular spectrum has excellent propagation characteristics that allow signals to reach farther and penetrate walls and other structures. Access to this spectrum could enable more powerful public Internet connections—super Wi-Fi hot spots—with extended range, fewer dead spots, and improved individual speeds as a result of reduced congestion on existing networks. This type of “opportunistic use” of spectrum has great potential for enabling access to other spectrum bands and improving spectrum efficiency. The Commission's actions here are expected to spur investment and innovation in applications and devices that will be used not only in the TV band but eventually in other frequency bands as well.

Timetable:

Action | Date | FR Cite
NPRM | 06/18/04 | 69 FR 34103
First R&O | 11/17/06 | 71 FR 66876
FNPRM | 11/17/06 | 71 FR 66897
R&O and MO&O | 02/17/09 | 74 FR 7314
Petitions for Reconsideration | 04/13/09 | 74 FR 16870
Second MO&O | 12/06/10 | 75 FR 75814
Next Action Undetermined

Regulatory Flexibility Analysis Required: Yes.

Agency Contact: Hugh Van Tuyl, Electronics Engineer, Federal Communications Commission, Office of Engineering and Technology, 445 12th Street SW., Washington, DC 20554, Phone: 202 418-7506, Fax: 202 418-1944, E-mail: hugh.vantuyl@fcc.gov.

RIN: 3060-AI52

346. Unlicensed Devices and Equipment Approval (ET Docket No. 03-201)

Legal Authority: 47 U.S.C. 154; 47 U.S.C. 302(a); 47 U.S.C. 303; 47 U.S.C. 306

Abstract: The Notice of Proposed Rulemaking (NPRM) proposed to update section 15.247 of the rules to allow the use of more efficient antenna technologies with unlicensed devices.

The Report and Order updates several technical rules for unlicensed radiofrequency devices in part 15 of the Commission's rules. The rule changes will allow device manufacturers to develop expanded applications for unlicensed devices and will allow unlicensed device operators, including Wireless Internet Service providers greater flexibility to modify or substitute parts as long as the overall system operation is unchanged. The changes are part of an ongoing process of updating our rules to promote more efficient sharing of spectrum used by unlicensed devices and remove unnecessary regulations that inhibit such sharing. The Commission received one petition for reconsideration in this proceeding.

The Second Report and Order amended the Commission's rules to provide for more efficient equipment authorization of both existing modular transmitter devices and emerging partitioned (or “split”) modular transmitter devices. These rule changes will benefit manufacturers by allowing greater flexibility in certifying equipment and providing relief from the need to obtain a new equipment authorization each time the same transmitter is installed in a different final product. The rule changes will also enable manufacturers to develop more flexible and more advanced unlicensed transmitter technologies. The Commission further found that modular transmitter devices authorized in accordance with the revised equipment authorization procedures will not pose any increased risk of interference to other radio operations.

The Further NPRM, seeks comment on whether there is a need to require unlicensed transmitters operating in the 915 MHz band under sections 15.247 and 15.249 of the rules to comply with a spectrum etiquette requirement, and the impact that requiring an etiquette would have on the development and operation of unlicensed 915 MHz devices operating under those rule sections. The Commission also seeks comment on the particular etiquette suggested by Cellnet that would require digitally modulated spread spectrum transmitters operating in the 915 MHz band under section 15.247 of the rules to operate at less than the 1-watt maximum power if they are continuously silent less than 90 percent of the time within a 0.4 second interval. This etiquette would require that the maximum permitted power level decrease in accordance with a specified formula as the silent interval between transmission decreases. The Commission further seeks comment on alternatives to the etiquette suggested by Cellnet.

The Memorandum Opinion and Order dismissed two petitions for reconsideration of the rules adopted in the Report and Order, 69 FR 54027, September 7, 2004, in this proceeding. It dismissed a petition for reconsideration filed by Warren C. Havens and Telesaurus Holdings GB LLC (Havens) requesting that the Commission suspend the rule changes adopted for unlicensed devices in the 902-928 MHz (915 MHz) band until such time as it completes a formal inquiry with regard to the potential effect of such changes to Location and Monitoring Service (LMS) licensees in the band. The Commission also dismissed a petition for reconsideration filed by Cellnet Technology (Cellnet) requesting that the Commission adopt spectrum sharing requirements in the unlicensed bands, for example, a “spectrum etiquette,” particularly in the 915 MHz band.

Timetable:

Action | Date | FR Cite
NPRM | 09/17/03 | 68 FR 68823
NPRM Comment Period End | 01/09/04
R&O | 09/07/04 | 69 FR 54027
Petition for Recon | 11/19/04 | 69 FR 67736
Petition for Recon | 02/15/05 | 70 FR 7737
Second R&O | 05/23/07 | 72 FR 28889
FNPRM | 08/01/07 | 72 FR 42011
FNPRM Comment Period End | 10/15/07
MO&O | 08/01/07 | 72 FR 41937
Next Action Undetermined

Regulatory Flexibility Analysis Required: Yes.

Agency Contact: Hugh Van Tuyl, Electronics Engineer, Federal Communications Commission, Office of Engineering and Technology, 445 12th Street SW., Washington, DC 20554, Phone: 202 418-7506, Fax: 202 418-1944, E-mail: hugh.vantuyl@fcc.gov.

RIN: 3060-AI54

347. Fixed and Mobile Services in the Mobile Satellite Service (ET Docket No. 10-142)

Legal Authority: 47 U.S.C. 154(i) and 301; 47 U.S.C. 303(c) and 303(f); 47 U.S.C. 303(r) and 303(y); 47 U.S.C. 310

Abstract: The Notice of Proposed Rule Making proposes to take a number of actions to further the provision of terrestrial broadband services in the MSS bands. In the 2 GHz MSS band, the Commission proposes to add co-primary Fixed and Mobile allocations to the existing Mobile-Satellite allocation. This will lay the groundwork for providing additional flexibility in use of the 2 GHz spectrum in the future. The Commission also proposes to apply the terrestrial secondary market spectrum leasing rules and procedures to transactions involving terrestrial use of the MSS spectrum in the 2 GHz, Big LEO, and L-bands in order to create greater certainty and regulatory parity with bands licensed for terrestrial broadband service.

The Commission also asks, in a Notice of Inquiry, about approaches for creating opportunities for full use of the 2 GHz band for stand-alone terrestrial uses. The Commission requests comment on ways to promote innovation and investment throughout the MSS bands while also ensuring market-wide mobile satellite capability to serve important needs like disaster recovery and rural access.

Timetable:

Action | Date | FR Cite
NPRM | 08/16/10 | 75 FR 49871
NPRM Comment Period End | 09/15/10
Reply Comment Period End | 09/30/10
Next Action Undetermined

Regulatory Flexibility Analysis Required: Yes.

Agency Contact: Nicholas Oros, Electronics Engineer, Federal Communications Commission, 445 12th Street SW., Washington, DC 20554, Phone: 202 418-0636, E-mail: nicholas.oros@fcc.gov.

RIN: 3060-AJ46

348. • Innovation in the Broadcast Television Bands; ET Docket No. 10-235

Legal Authority: 47 U.S.C. 154(i); 47 U.S.C. 301; 47 U.S.C. 302; 47 U.S.C. 303(e); 47 U.S.C. 303(f); 47 U.S.C. 303(r)

Abstract: The Commission initiated this proceeding to further its ongoing commitment to addressing America's growing demand for wireless broadband services, spur ongoing innovation and investment in mobile and ensure that America keeps pace with the global wireless revolution, by making a significant amount of new spectrum available for broadband. The approach proposed is consistent with the goal set forth in the National Broadband Plan (the Plan) to repropose up to 120 megahertz from the broadcast television bands for new wireless broadband uses through, in part, voluntary contributions of spectrum to an incentive auction. Reallocation of this spectrum as proposed will provide the necessary flexibility for meeting the requirements of these new applications.

Timetable:

Action | Date | FR Cite
NPRM | 02/01/11 | 76 FR 5521
NPRM Comment Period End | 03/18/11
Next Action Undetermined

Regulatory Flexibility Analysis Required: Yes.

Agency Contact: Alan Stillwell, Deputy Chief, OET, Federal Communications Commission, Office of Engineering and Technology, 445 12th Street SW., Washington, DC 20554, Phone: 202 418-2925, E-mail: alan.stillwell@fcc.gov.

RIN: 3060-AJ57

349. • Radio Experimentation and Market Trials Under Part 5 of the Commission's Rules and Streamlining Other Related Rules; ET Docket No. 10-236

Legal Authority: 47 U.S.C. 154(i); 47 U.S.C. 301 and 303

Abstract: The Commission initiated this proceeding to promote innovation and efficiency in spectrum use in the Experimental Radio Service (ERS). For many years, the ERS has provided fertile ground for testing innovative ideas that have led to new services and new devices for all sectors of the economy. The Commission proposes to leverage the power of experimental radio licensing to accelerate the rate at which these ideas transform from prototypes to consumer devices and services. Its goal is to inspire researchers to dream, discover and deliver the innovations that push the boundaries of the broadband ecosystem. The resulting advancements in devices and services available to the American public and greater spectrum efficiency over the long term will promote economic growth, global competitiveness, and a better way of life for all America

Timetable:

Action | Date | FR Cite
NPRM | 02/08/11 | 76 FR 6928
NPRM Comment Period End | 03/10/11
Next Action Undetermined

Regulatory Flexibility Analysis Required: Yes.

Agency Contact: James Burtle, Chief, Experimental Licensing Branch, Federal Communications Commission, 445 12th Street SW, Washington, DC 20554, Phone: 202 418-2445, E-mail: james.burtle@fcc.gov.

RIN: 3060-AJ62

FEDERAL COMMUNICATIONS COMMISSION (FCC)

Office of Engineering and Technology

Completed Actions

350. Revision of the Rules Regarding Ultra-Wideband Transmission

Legal Authority: 47 U.S.C. 154; 47 U.S.C. 302 to 304; 47 U.S.C. 307; 47 U.S.C. 544A

Abstract: The First Report and Order amends the Commission's rules to permit the marketing and operation of certain types of new products incorporating Ultra-Wideband (UWB) technology. UWB devices operate by employing very narrow or short duration pulses that result in very large or wideband transmission bandwidths. UWB technology holds great promise for a vast array of new applications that we believe will provide significant benefits for public safety, businesses and consumers. With appropriate technical standards, UWB devices can operate using spectrum occupied by existing radio services without causing interference, thereby permitting scarce spectrum resources to be used more efficiently.

The Memorandum Opinion and Order responded to fourteen petitions for reconsideration that were filed in response to the regulations for unlicensed ultra-wideband (UWB) operations. In general, this document does not make any significant changes to the existing UWB parameters as the Commission is reluctant to do so until it has more experience with UWB devices. The Commission believes that any major changes to the rules for existing UWB product categories at this early stage would be disruptive to current industry product development efforts.

The Further Notice of Proposed Rulemaking proposed new rules to address issues raised by some of the petitions for reconsideration that were outside the scope of the proceeding. New rules were proposed to address issues regarding the operation of low pulse repetition frequency UWB systems, including vehicular radars, in the 3.1-10.6 GHz band; and the operation frequency hopping vehicular radars in the 22-29 GHz band as UWB devices. The Commission also proposed new rules that would establish new peak power limits for wideband part 15 devices that do not operate as UWB devices and proposed to eliminate the definition of a UWB device.

The Second Report and Order and Second Memorandum Opinion and Order responds to two petitions for reconsideration that were filed in response to the Commission's decision to establish regulations for unlicensed UWB operation. It also responds to the rulemaking proposals contained in the Memorandum Opinion and Order and Further Notice of Proposed Rulemaking in this docket. The order establishes new rules for wideband unlicensed devices operating in the 5925-7250 MHz, 16.2-17.7 GHz, and 22.12-29 GHz bands.

The Third Memorandum Opinion and Order and Memorandum Opinion and Order reaffirmed certain rules and procedures for ultra-wideband (“UWB”) devices that operate on an unlicensed basis of the Commission's rules. This action terminates the Ultra-Wideband Transmission Systems proceeding and thus provides certainty for the continued development of UWB equipment, including ground penetrating radars for underground imaging, through wall imaging systems, short-range high capacity data links, and other applications. This action terminates this proceeding.

Timetable:

Action | Date | FR Cite
NPRM | 06/14/00 | 65 FR 37332
NPRM Comment Period End | 10/12/00
First R&O | 05/16/02 | 67 FR 34852
MO&O | 04/22/03 | 68 FR 19746
FNPRM | 04/22/03 | 68 FR 19773
Second R&O and Second MO&O | 02/09/05 | 70 FR 6771
Third MO&O and MO&O | 10/12/10 | 75 FR 62477

Regulatory Flexibility Analysis Required: Yes.

Agency Contact: John Reed, Electronics Engineer, Federal Communications Commission, Office of Engineering and Technology, 445 12th Street, SW., Washington, DC 20554, Phone: 202 418-2455, Fax: 202 418-1944, E-mail: jreed@fcc.gov.

RIN: 3060-AH47

FEDERAL COMMUNICATIONS COMMISSION (FCC)

International Bureau

Long-Term Actions

351. Establishment of Rules and Policies for the Digital Audio Radio Satellite Service in the 2310-2360 MHZ Frequency Band (IB Docket No. 95-91; GEN Docket No. 90-357)

Legal Authority: 47 U.S.C. 151; 47 U.S.C. 151(i); 47 U.S.C. 154(j); 47 U.S.C. 157; 47 U.S.C. 309(j)

Abstract: In 1997, the Commission adopted service rules for the satellite digital audio radio service (SDARS) in the 2320-2345 MHz frequency band and sought further comment on proposed rules governing the use of complementary SDARS terrestrial repeaters. The Commission released a second further notice of proposed rulemaking in January 2008, to consider new proposals for rules to govern terrestrial repeaters operations. The Commission released a Second Report and Order on May 20, 2010, which adopted rules governing the operation of SDARS terrestrial repeaters, including establishing a blanket licensing regime for repeaters operating up to 12 kilowatts average equivalent isotropically radiated power.

Timetable:

Action | Date | FR Cite
NPRM | 06/15/95 | 60 FR 35166
R&O | 03/11/97 | 62 FR 11083
FNPRM | 04/18/97 | 62 FR 19095
Second FNPRM | 01/15/08 | 73 FR 2437
FNPRM Comment Period End | 03/17/08
2nd R&O | 05/20/10 | 75 FR 45058
Next Action Undetermined

Regulatory Flexibility Analysis Required: Yes.

Agency Contact: Jay Whaley, Attorney, Federal Communications Commission, International Bureau, 445 12th Street, SW., Washington, DC 20554, Phone: 202 418-7184, Fax: 202 418-0748, E-mail: jwhaley@fcc.gov.

RIN: 3060-AF93

352. Allocation and Designation of Spectrum in the 36.0-43.5 GHz Band

Legal Authority: 47 U.S.C. 154(i); 47 U.S.C. 301 and 302; 47 U.S.C. 303(e) to 303(g); 47 U.S.C. 303(r); 47 U.S.C. 304; 47 U.S.C. 307

Abstract: This item adopts a plan for nongovernment operations in the 36.0-51.4 GHz portion of the V-band, establishing priorities for different services in different parts of this band.

Timetable:

Action | Date | FR Cite
NPRM | 04/04/97 | 62 FR 16129
R&O | 01/15/99 | 64 FR 2585
Correction | 02/08/99 | 64 FR 6138
Correction | 02/10/99 | 64 FR 6565
Notice of Petition for Recon | 03/22/99 | 64 FR 13796
Order on Recon | 12/01/99
FNPRM | 07/05/01 | 66 FR 35399
Second R&O | 08/25/04 | 69 FR 52198
Next Action Undetermined

Regulatory Flexibility Analysis Required: Yes.

Agency Contact: Sean O'More, Attorney Advisor, Federal Communications Commission, International Bureau, 445 12th Street, SW., Washington, DC 20554, Phone: 202 418-2453, E-mail: sean.omore@fcc.gov.

RIN: 3060-AH23

353. Space Station Licensing Reform (IB Docket No. 02-34)

Legal Authority: 47 U.S.C. 154(i); 47 U.S.C. 157; 47 U.S.C. 303(c); 47 U.S.C. 303(g); et seq.

Abstract: The Commission adopted a Notice of Proposed Rulemaking (NPRM) to streamline its procedures for reviewing satellite license applications. Before 2003, the Commission used processing rounds to review those applications. In a processing round, when an application was filed, the International Bureau (Bureau) issued a public notice establishing a cut-off date for other mutually exclusive satellite applications, and then considered all those applications together. In cases where sufficient spectrum to accommodate all the applications was not available, the Bureau directed the applicants to negotiate a mutually agreeable solution. Those negotiations took a long time, and delayed provision of satellite services to the public.

The NPRM invited comment on two alternatives for expediting the satellite application process. One alternative was to replace the processing round procedure with a “first-come, first-served” procedure that would allow the Bureau to issue a satellite license to the first party filing a complete, acceptable application. The other alternative was to streamline the processing round procedure by adopting one or more of the following proposals: (1) Place a time limit on negotiations; (2) establish criteria to select among competing applicants; (3) divide the available spectrum evenly among the applicants.

In the First Report and Order in this proceeding, the Commission determined that different procedures were better-suited for different kinds of satellite applications. For most geostationary orbit (GSO) satellite applications, the Commission adopted a first-come, first-served approach. For most non-geostationary orbit (NGSO) satellite applications, the Commission adopted a procedure in which the available spectrum is divided evenly among the qualified applicants. The Commission also adopted measures to discourage applicants from filing speculative applications, including a bond requirement, payable if a licensee misses a milestone. The bond amounts originally were $5 million for each GSO satellite, and $7.5 million for each NGSO satellite system. These were interim amounts. Concurrently with the First Report and Order, the Commission adopted an FNPRM to determine whether to revise the bond amounts on a long-term basis.

In the Second Report and Order, the Commission adopted a streamlined procedure for certain kinds of satellite license modification requests.

In the Third Report and Order, the Commission adopted a standardized application form for satellite licenses, and adopted a mandatory electronic filing requirement for certain satellite applications.

In the Fourth Report and Order, the Commission revised the bond amounts based on the record developed in response to FNPRM. The bond amounts are now $3 million for each GSO satellite, and $5 million for each NGSO satellite system.

Timetable:

Action | Date | FR Cite
NPRM | 03/19/02 | 67 FR 12498
NPRM Comment Period End | 07/02/02 |
Second R&O (Release Date) | 06/20/03 | 68 FR 62247
Second FNPRM (Release Date) | 07/08/03 | 68 FR 53702
Third R&O (Release Date) | 07/08/03 | 68 FR 63994
FNPRM | 08/27/03 | 68 FR 51546
First R&O | 08/27/03 | 68 FR 51499
FNPRM Comment Period End | 10/27/03 |
Fourth R&O (Release Date) | 04/16/04 | 69 FR 67790
Fifth R&O, First Order on Recon (Release Date) | 07/06/04 | 69 FR 51586
Next Action Undetermined |  |

Regulatory Flexibility Analysis Required: Yes.

Agency Contact: Fern Jarmulnek, Associate Chief, Satellite and Radio Communication Division, Federal Communications Commission, International Bureau, 445 12th Street SW., Washington, DC 20554, Phone: 202 418-0751, Fax: 202 418-0748, E-mail: fjarmuln@fcc.gov.

RIN: 3060-AH98

354. Mitigation of Orbital Debris (IB Docket No. 02-54)

Legal Authority: 47 U.S.C. 154(i); 47 U.S.C. 157(a); 47 U.S.C. 303(c); 47 U.S.C. 303(f) and 303(g); 47 U.S.C. 303(r)

Abstract: The Commission has adopted rules that require all entities seeking FCC authorization for satellite services to address orbital debris mitigation as part of their application for FCC authorization. Orbital debris consists of artificial objects orbiting the Earth that are not functional spacecraft. In addition, the Commission established requirements for the removal of geostationary spacecraft from operational orbits at the end of their useful lives and amended the Commission's rules regarding orbit-raising maneuvers, the use of inclined orbits, and orbital longitudinal tolerance station-keeping requirements. The Commission indicated that it will seek further comment on the application of the Commission's longitudinal tolerance station-keeping requirements for Fixed-Satellite space stations to space stations in the Mobile-Satellite Service and remote sensing services.

Timetable:

Action | Date | FR Cite
NPRM | 05/03/02 | 67 FR 22376
NPRM Comment Period End | 08/16/02 |
First R&O | 08/27/03 | 68 FR 59127
Second R&O | 09/09/04 | 69 FR 54581
Next Action Undetermined |  |

Regulatory Flexibility Analysis Required: Yes.

Agency Contact: Stephen Duall, Attorney, Federal Communications Commission, International Bureau, 445 12th Street, SW., Washington, DC 20554, Phone: 202 418-1103, Fax: 202 418-0748, E-mail: stephen.duall@fcc.gov.

RIN: 3060-AI06

355. Amendment of the Commission's Rules (IB Docket No. 04-47)

Legal Authority: 47 U.S.C. 34 to 39; 47 U.S.C. 151; 47 U.S.C. 161; 47 U.S.C. 201 to 205; et seq.

Abstract: The FCC amended several rules in the Report and Order. Specifically, the FCC (1) amended the procedures for discontinuing an international service; (2) allowed U.S. carriers to resell the U.S.-inbound service of foreign carriers; and, (3) amended the submarine cable landing licensing procedures to comply with the Coastal Zone Management Act of 1972 (CZMA). The North American Submarine Cable Association filed a petition for reconsideration regarding the amendment to the submarine cable landing licensing rules. In the Order on Reconsideration, the FCC reaffirmed that the CZMA applies to its submarine cable landing licensing and clarified the rules to ensure the rules comply with the CZMA review procedures established by the National Oceanic and Atmospheric Administration, U.S. Department of Commerce.

Timetable:

Action | Date | FR Cite
NPRM | 03/22/04 | 69 FR 13276
NPRM Comment Period End | 06/07/04 |
R&O | 09/25/07 | 72 FR 54363
Petition for Recon | 01/02/08 | 73 FR 187
Next Action Undetermined. |  |

Regulatory Flexibility Analysis Required: Yes.

Agency Contact: David Krech, Attorney Advisor, Federal Communications Commission, International Bureau, 445 12th Street, SW., Washington, DC 20554, Phone: 202 418-1460, Fax: 202 418-2824, E-mail: david.krech@fcc.gov.

RIN: 3060-AI41

356. Reporting Requirements for U.S. Providers of International Telecommunications Services (IB Docket No. 04-112)

Legal Authority: 47 U.S.C. 151; 47 U.S.C. 154; 47 U.S.C. 161; 47 U.S.C. 201 to 205; et seq.

Abstract: FCC is reviewing the reporting requirements to which carriers providing U.S. international services are subject under 47 CFR part 43. FCC proposes to amend 47 CFR 43.61 and 47 CFR 43.82 and to repeal 47 CFR 43.53.

Timetable:

Action | Date | FR Cite
NPRM | 04/12/04 |
NPRM Comment Period End | 08/23/04 | 69 FR 29676
Next Action Undetermined. |  |

Regulatory Flexibility Analysis Required: Yes.

Agency Contact: David Krech, Attorney Advisor, Federal Communications Commission, International Bureau, 445 12th Street, SW., Washington, DC 20554, Phone: 202 418-1460, Fax: 202 418-2824, E-mail: david.krech@fcc.gov.

RIN: 3060-AI42

357. Review of the Spectrum Sharing Plan Among Non-Geostationary Satellite Orbit Mobile Satellite Service Systems in the 1.6/2.4 Ghz Bands (IB Docket No. 02-364)

Legal Authority: 47 U.S.C. 151; 47 U.S.C. 154; 47 U.S.C. 302(a); 47 U.S.C. 303(e); et seq.

Abstract: This docket involves the spectrum sharing plan for the low earth orbit satellite systems in the 1.6 GHz and 2.4 GHz bands (Big LEOs). In November 2007, the Commission resolved the 1.6 GHz spectrum sharing plan between Globalstar Inc. and Iridium Satellite LLC, whereby Globalstar will have exclusive MSS use of 7.775 megahertz of spectrum at 1610-1617.775 MHz, Iridium will have exclusive MSS use of 7.775 megahertz of spectrum at 1618.725-1626.5 MHz, and the two Big LEO operators will share 0.95 megahertz of spectrum at 1617.775-1618.725 MHz. Separately, in April 2006, the Commission affirmed the spectrum sharing plan between Globalstar and the fixed and mobile (except aeronautical mobile) services in the 2495-2500 MHz band in order to accommodate the relocation of Broadband Radio Service Channel 1 to the 2496-2502 MHz band. (Iridium does not operate in the 2.4 GHz band.)

Timetable:

Action | Date | FR Cite
NPRM | 01/29/03 | 68 FR 33666
R&O | 08/09/04 | 69 FR 48157
FNPRM | 08/09/04 | 69 FR 48192
Petitions for Recon | 10/12/04 | 69 FR 60626
First Order on Recon | 06/19/06 | 71 FR 35178
Petitions for Further Recon | 07/27/06 | 71 FR 44029
Second Order on Recon and Second R&O | 12/13/07 | 72 FR 70807
Next Action Undetermined. |  |

Regulatory Flexibility Analysis Required: Yes.

Agency Contact: Howard Griboff, Deputy Chief, Federal Communications Commission, International Bureau, 445 12th Street, SW., Washington, DC 20554, Phone: 202 418-0657, Fax: 202 418-1414, E-mail: howard.griboff@fcc.gov.

RIN: 3060-AI44

358. Amendment of the Commission's Rules To Allocate Spectrum and Adopt Service Rules and Procedures To Govern the Use of Vehicle-Mounted Earth Stations (IB Docket No. 07-101)

Legal Authority: 47 U.S.C. 151; 47 U.S.C. 154(i) and (j); 47 U.S.C. 157(a); 47 U.S.C. 301; 47 U.S.C. 303(c); 47 U.S.C. 303(f); 47 U.S.C. 303(g); 47 U.S.C. 303(r); 47 U.S.C. 303(y); 47 U.S.C. 308

Abstract: The Commission seeks comment on the proposed amendment of parts 2 and 25 of the Commission's rules to allocate spectrum for use with Vehicle-Mounted Earth Stations (VMES) in the Fixed-Satellite Service in the Ku-band uplink at 14.0-14.5 GHz and Ku-band downlink at 11.72-12.2 GHz on a primary basis, and in the extended Ku-band downlink at 10.95-11.2 GHz and 11.45-11.7 GHz on a non-protected basis, and to adopt Ku-band VMES licensing and service rules modeled on the FCC's rules for Ku-band Earth Stations on Vessels (ESVs). The record in this proceeding will provide a basis for Commission action to facilitate introduction of this proposed service.

Timetable:

Action | Date | FR Cite
NPRM | 07/08/07 | 72 FR 39357
NPRM Comment Period End | 09/04/07 |
R&O | 11/04/09 | 74 FR 57092
Petition for Reconsideration | 04/14/10 | 75 FR 19401
Next Action Undetermined. |  |

Regulatory Flexibility Analysis Required: Yes.

Agency Contact: Howard Griboff, Deputy Chief, Federal Communications Commission, International Bureau, 445 12th Street, SW., Washington, DC 20554, Phone: 202 418-0657, Fax: 202 418-1414, E-mail: howard.griboff@fcc.gov.

RIN: 3060-AI90

FEDERAL COMMUNICATIONS COMMISSION (FCC)

International Bureau

Completed Actions

359. Streamlining the Commission's Rules and Regulations for Satellite Application and Licensing Procedures (IB Docket No. 95-117)

Legal Authority: 47 U.S.C. 4; 47 U.S.C. 154; 47 U.S.C. 303; 47 U.S.C. 554; 47 U.S.C. 701 to 744

Abstract: On February 10, 1997, the FCC adopted rules and policies that streamlined the application and licensing requirements of part 25 of its rules, which deals with communication satellites and earth stations. The streamlined rules waived the construction permit requirement for satellite space stations, changed the license term for temporary fixed earth stations; and adjusted or changed the rules concerning minor modifications and basic requirements for satellite service applications. The streamlined rules also resulted in the creation of a new application form, FCC Form 312. Form 312 eliminated from the International Bureau's use of the FCC Form 493, FCC Form 430, FCC Form 702, and FCC Form 704. Petitions for Reconsideration were filed in this matter. In March 1997, the Commission released a Public Notice concerning these petitions. The Commission addressed the issues in the Petitions for Reconsideration in an Order released on October 10, 2008. The docket in this proceeding is now closed.

Timetable:

Action | Date | FR Cite
NPRM | 09/09/95 | 60 FR 46252
R&O, Recon Pending | 02/10/97 | 62 FR 5924
Public Notice/Petitions for Recon | 03/26/97 | 62 FR 14430
Order on Reconsideration | 11/29/08 | 73 FR 70897

Regulatory Flexibility Analysis Required: Yes.

Agency Contact: Steven Spaeth, Assistant Division Chief, Federal Communications Commission, International Bureau, 445 12th Street, SW., Washington, DC 20554, Phone: 202 418-1539, Fax: 202 418-0748, E-mail: steven.spaeth@fcc.gov.

RIN: 3060-AD70

360. Streamlining Earth Station Licensing Rules (IB Docket No. 00-248)

Legal Authority: 47 U.S.C. 701 to 744

Abstract: The Commission has found several cases in which modifying or eliminating rules could facilitate licensing of earth stations, thereby expediting the provision of useful satellite services to the public, without unreasonably increasing the risk of harmful interference to existing earth station or space station operators, or terrestrial wireless operators in shared frequency bands.

Specifically, this Notice of Proposed Rulemaking (NPRM) considers the following rule revisions: (1) Codifying streamlined procedures for case-by-case examination of earth stations using “non-routine” antennas, non-routine power levels, or both; (2) relaxing some current requirements, such as increasing power and power density limits, and allowing some temporary fixed earth stations to begin operation sooner than is now permitted; (3) streamlining the very small aperture terminal (VSAT) rules, and revising the Commission's power level rules to provide for various types of VSAT multiple access methods; (4) adopting a simplified license application form for “routine” earth stations; and (5) other miscellaneous rule revisions. The Commission also invites comment on extending these proposed rules to the KA-band.

On September 26, 2002, the Commission adopted a Further Notice of Proposed Rulemaking in this proceeding. This Further NPRM invited comment on refinements to the proposals in the NPRM to relax some earth station technical requirements, and on an alternative to the VSAT proposals in the NPRM. The Further NPRM also seeks comment on proposals made by commenters in response to the First NPRM.

In the First Report and Order in this proceeding, the Commission extended the license term for earth station licenses from 10 to 15 years.

In the Second Report and Order in this proceeding, the Commission adopted rules allowing unlicensed receive-only earth stations to receive transmissions from non-U.S.-licensed satellites on the Permitted List.

In the Third Report and Order in this proceeding, the Commission adopted a streamlined application form for certain earth station licenses, and adopted a mandatory electronic filing requirement for those earth station applications.

In the Fourth Report and Order in this proceeding, the Commission extended the mandatory electronic filing requirement to all earth station applications.

In the Fifth Report and Order in this proceeding, the Commission adopted the following proposals from the NPRM: (1) Codifying streamlined procedures for non-routine antennas; (2) relaxing power and power density limits, and allowing routine KU-band temporary fixed earth stations to begin operations sooner; (3) revising certain VSAT rules; and (4) other miscellaneous rule revisions. One petition for reconsideration was filed in response to this Order on July 5, 2005.

In the Sixth Report and Order in this proceeding, the Commission adopted revisions to the earth station antenna gain pattern requirements, as proposed in the Further Notice. Two petitions for reconsideration were filed in response to this Order on July 8, 2005.

In the Third Further Notice of Proposed Rulemaking, the Commission invited comment on adopting off-axis EIRP envelops for C-band and KU-band FSS earth stations.

In the Seventh Report and Order in this proceeding, the Commission considered and rejected its proposal in the NPRM to make revisions to part 23 of its rules.

In the Eighth Report and Order in this proceeding, the Commission adopted the proposals in the Third FNPRM, in large part. This proceeding is now closed.

Timetable:

Action | Date | FR Cite
NPRM | 01/08/01 | 66 FR 1283
First R&O | 03/19/02 | 67 FR 12485
FNPRM | 12/24/02 | 67 FR 78399
Second R&O (Release Date) | 06/20/03 | 68 FR 2247
Second FNPRM | 09/12/03 | 68 FR 53702
Third R&O | 11/12/03 | 68 FR 63994
Fourth R&O | 08/06/04 | 69 FR 47790
Fifth R&O | 06/02/05 | 70 FR 32249
Sixth R&O | 06/08/05 | 70 FR 33373
Third FNPRM | 06/08/05 | 70 FR 33426
Seventh R&O | 09/28/05 | 70 FR 56580
Public Notice/Petition for Recon | 10/26/05 | 70 FR 61825
Eighth R&O | 11/24/08 | 73 FR 70897

Regulatory Flexibility Analysis Required: Yes.

Agency Contact: Steven Spaeth, Assistant Division Chief, Federal Communications Commission, International Bureau, 445 12th Street, SW., Washington, DC 20554, Phone: 202 418-1539, Fax: 202 418-0748, E-mail: steven.spaeth@fcc.gov.

RIN: 3060-AH60

FEDERAL COMMUNICATIONS COMMISSION (FCC)

Media Bureau

Long-Term Actions

361. CABLE TELEVISION RATE REGULATION

Legal Authority: 47 U.S.C. 154; 47 U.S.C. 543

Abstract: The Commission has adopted rate regulations to implement section 623 of the 1992 Cable Act to ensure that cable subscribers nationwide enjoy the rates that would be charged by cable systems operating in a competitive environment. Reconsideration was requested. The Fourteenth Order on Reconsideration addresses petitions on issues governing regulated services by cable systems. In a subsequent notice, comment was sought on recalibrating the competitive differential between rates of systems subject to effective competition and noncompetitive systems. In addition, comment was sought as to whether there may be a different approach to establish reasonable rates on the basic service tier.

Timetable:

Action | Date | FR Cite
NPRM | 01/04/93 | 58 FR 48
R&O and FNPRM | 05/21/93 | 58 FR 29736
MO&O and FNPRM | 08/18/93 | 58 FR 43816
Third R&O | 11/30/93 | 58 FR 63087
Order on Recon, Fourth R&O, and Fifth NPRM | 04/15/94 | 59 FR 17943
Third Order on Recon | 04/15/94 | 59 FR 17961
Fifth Order on Recon and FNPRM | 10/13/94 | 59 FR 51869
Fourth Order on Recon | 10/21/94 | 59 FR 53113
Sixth Order on Recon, Fifth R&O, and Seventh NPRM | 12/06/94 | 59 FR 62614
Seventh Order on Recon | 01/25/95 | 60 FR 4863
Ninth Order on Recon | 02/27/95 | 60 FR 10512
Eighth Order on Recon | 03/17/95 | 60 FR 14373
Sixth R&O and Eleventh Order on Recon | 07/12/95 | 60 FR 35854
Thirteenth Order on Recon | 10/05/95 | 60 FR 52106
Twelfth Order on Recon | 10/26/95 | 60 FR 54815
Tenth Order on Recon | 04/08/96 | 61 FR 15388
Order on Recon of the First R&O and FNPRM | 04/15/96 | 61 FR 16447
MO&O | 02/12/97 | 62 FR 6491
Report on Cable Industry Prices | 02/24/97 | 62 FR 8245
R&O | 03/31/97 | 62 FR 15118
Fourteenth Order on Recon | 10/15/97 | 62 FR 53572
NPRM and Order | 09/05/02 | 67 FR 56882
Next Action Undetermined

Regulatory Flexibility Analysis Required: Yes.

Agency Contact: John Norton, Deputy Division Chief, Policy Division, Federal Communications Commission, Media Bureau, 445 12th Street, SW., Washington, DC 20554, Phone: 202 418-7037, TDD Phone: 202 418-7172, Fax: 202 418-1196, E-mail: john.norton@fcc.gov.

RIN: 3060-AF41

362. Cable Television Rate Regulation: Cost of Service

Legal Authority: 47 U.S.C. 154; 47 U.S.C. 543

Abstract: The Commission has established rules pursuant to which cable operators may set rates for regulated cable service in accordance with traditional cost-of-service principles, as modified to take account of unique characteristics of the cable industry. In the latest NPRM, comment was sought on rule changes that may be necessary or desirable in order to account for changes in the regulatory process resulting from the end of the Commission's statutory authority to regulate certain tiers of cable programming service.

Timetable:

Action | Date | FR Cite
NPRM | 07/30/93 | 58 FR 40762
R&O | 04/15/94 | 59 FR 17975
Second NPRM | 04/15/94 | 59 FR 18066
MO&O | 10/14/94 | 59 FR 52087
Second R&O/First Order on Recon/FNPRM | 03/08/96 | 61 FR 9361
Correction | 03/22/96 | 61 FR 11749
NPRM and Order | 09/05/02 | 67 FR 56882
Next Action Undetermined

Regulatory Flexibility Analysis Required: Yes.

Agency Contact: John Norton, Deputy Division Chief, Policy Division, Federal Communications Commission, Media Bureau, 445 12th Street SW., Washington, DC 20554, Phone: 202 418-7037, TDD Phone: 202 418-7172, Fax: 202 418-1196, E-mail: john.norton@fcc.gov.

RIN: 3060-AF48

363. Cable Home Wiring

Legal Authority: 47 U.S.C. 544(i)

Abstract: On October 6, 1997, the FCC adopted a Report and Order and Second Notice of Proposed Rulemaking (FCC 97-376) that amends its cable inside wiring rules to enhance competition in the video distribution marketplace. The Second FNPRM seeks comment on, among other things, whether there are circumstances where the FCC should adopt restrictions on exclusive contracts in order to further promote competition in the multiple dwelling unit marketplace. The 2nd Report and Order addresses multiple dwelling units when the occupant charges video service providers. In the First Order on Reconsideration and the Second Report and Order, the Commission modified its rules in part. The United States Court of Appeals for the District of Columbia Circuit remanded a portion of the Commission decision back to the Commission for further consideration. In September 2004, the Commission issued an FNPRM in response to the courts' decision. The subsequent Report and Order and Declaratory Ruling concluded that cable wiring behind sheet rock is physically inaccessible for determining the demarcation point.

Timetable:

Action | Date | FR Cite
NPRM | 11/17/92 | 57 FR 54209
R&O | 03/02/93 | 58 FR 11970
NPRM | 02/01/96 | 61 FR 3657
First Order on Recon & FNPRM | 02/16/96 | 61 FR 6210
FNPRM | 09/03/97 | 62 FR 46453
R&O and Second FNPRM | 11/14/97 | 62 FR 60165
First Order on Recon and Second R&O | 03/21/03 | 68 FR 13850
FNPRM | 10/15/04 | 69 FR 61193
R&O and Declaratory Ruling | 08/30/07 | 72 FR 50074
Next Action Undetermined

Regulatory Flexibility Analysis Required: Yes.

Agency Contact: John Norton, Deputy Division Chief, Policy Division, Federal Communications Commission, Media Bureau, 445 12th Street SW., Washington, DC 20554, Phone: 202 418-7037, TDD Phone: 202 418-7172, Fax: 202 418-1196, E-mail: john.norton@fcc.gov.

RIN: 3060-AG02

364. Competitive Availability of Navigation Devices (CS Docket No. 97-80)

Legal Authority: 47 U.S.C. 549

Abstract: The Commission has adopted rules to address the mandate expressed in section 629 of the Communications Act to ensure the commercial availability of “navigation devices,” the equipment used to access video programming and other services from multichannel video programming systems.

Specifically, the Commission required MVPDs to make available by, a security element (known as a “cablecard”) separate from the basic navigation device (e.g., cable set-top boxes, digital video recorders, and television receivers with navigation capabilities). The separation of the security element from the host device required by this rule (referred to as the “integration ban”) was designed to enable unaffiliated manufacturers, retailers, and other vendors to commercially market host devices while allowing MVPDs to retain control over their system security. Also, in this proceeding, the Commission adopted unidirectional “plug and play” rules, to govern compatibility between MVPDs and navigation devices manufactured by consumer electronics manufacturers not affiliated with cable operators.

In the most recent FNPRM, the Commission proposed new rules to improve the operation of the CableCard regime.

Timetable:

Action | Date | FR Cite
NPRM | 03/05/97 | 62 FR 10011
R&O | 07/15/98 | 63 FR 38089
Order on Recon | 06/02/99 | 64 FR 29599
FNPRM & Declaratory Ruling | 09/28/00 | 65 FR 58255
FNPRM | 01/16/03 | 68 FR 2278
Order and FNPRM | 06/17/03 | 68 FR 35818
Second R&O | 11/28/03 | 68 FR 66728
FNPRM | 11/28/03 | 68 FR 66776
Order on Recon | 01/28/04 | 69 FR 4081
Second R&O | 06/22/05 | 70 FR 36040
Third FNPRM | 07/25/07 | 72 FR 40818
4th FNPRM | 05/14/10 | 75 FR 27256
Next Action Undetermined.

Regulatory Flexibility Analysis Required: Yes.

Agency Contact: Brendan Murray, Attorney Advisor, Policy Division, Federal Communications Commission, Media Bureau, 445 12th Street SW., Washington, DC 20554, Phone: 202 418-1573, E-mail: brendan.murray@fcc.gov.

RIN: 3060-AG28

365. Digital Audio Broadcasting Systems (MM Docket No. 99-325)

Legal Authority: 47 U.S.C. 154; 47 U.S.C. 303

Abstract: The rulemaking proceeding was initiated to foster the development and implementation of terrestrial digital audio broadcasting (DAB). The transition to DAB promises the benefits that have generally accompanied digitalization—better audio fidelity, more robust transmission systems, and the possibility of new auxiliary services. In the First Report and Order, the Commission selected in-band, on-channel as the technology that will permit AM and FM radio broadcasters to introduce digital operations. Consideration of formal standard-setting procedures and related broadcasting licensing and service rule changes are addressed in a Further Notice of Proposed Rulemaking. Further technical guidance is provided in a Second Report and Order.

Timetable:

Action | Date | FR Cite
NPRM | 11/09/99 | 64 FR 61054
First R&O | 12/23/02 | 67 FR 78193
FNPRM and NOI | 05/14/04 | 69 FR 27815
Second R&O | 08/15/07 | 72 FR 45712
Next Action Undetermined.

Regulatory Flexibility Analysis Required: Yes.

Agency Contact: Peter Doyle, Chief, Audio Division, Media Bureau, Federal Communications Commission, 445 12th Street SW., Washington, DC 20554, Phone: 202 418-2700, E-mail: peter.doyle@fcc.gov.

RIN: 3060-AH40

366. Second Periodic Review of Rules and Policies Affecting the Conversion to DTV

Legal Authority: 47 U.S.C. 4(i) and 4(j); 47 U.S.C. 303(r); 47 U.S.C. 307; 47 U.S.C. 309; 47 U.S.C. 336

Abstract: On January 18, 2001, the Commission adopted a Report and Order (R&O) and Further Notice of Proposed Rulemaking, addressing a number of issues related to the conversion of the nation's broadcast television system from analog to digital television. The Second Report and Order resolved several major technical issues including the issue of receiver performance standards, DTV tuners, and revisions to certain components of the DTV transmission standard. A subsequent NPRM commenced the Commission's second periodic review of the progress of the digital television conversion. The resulting R&O adopted a multi-step process to create a new DTV table of allotments and authorizations. Also in the R&O, the Commission adopted replication and maximization deadlines for DTV broadcasters and updated rules in recognition revisions to broadcast transmission standards.

The Second R&O adopts disclosure requirements for televisions that do not include a digital tuner.

Timetable:

Action | Date | FR Cite
NPRM | 03/23/00 | 65 FR 15600
R&O | 02/13/01 | 66 FR 9973
MO&O | 12/18/01 | 66 FR 65122
Third MO&O and Order on Recon | 10/02/02 | 67 FR 61816
Second R&O and Second MO&O | 10/11/02 | 67 FR 63290
NPRM | 02/18/03 | 68 FR 7737
R&O | 10/04/04 | 69 FR 59500
Second R&O | 05/10/07 | 72 FR 26554
Next Action Undetermined

Regulatory Flexibility Analysis Required: Yes.

Agency Contact: Eloise Gore, Associate Bureau Chief, Federal Communications Commission, Media Bureau, 445 12th Street SW., Washington, DC 20554, Phone: 202 418-1066, TDD Phone: 202 418-7172, Fax: 202 418-1069, E-mail: eloise.gore@fcc.gov.

RIN: 3060-AH54

367. Revision of EEO Rules and Policies (MM Docket No. 98-204)

Legal Authority: 47 U.S.C. 151; 47 U.S.C. 154; 47 U.S.C. 257; 47 U.S.C. 301; 47 U.S.C. 303; 47 U.S.C. 307 to 309; 47 U.S.C. 334; 47 U.S.C. 403; 47 U.S.C. 554

Abstract: FCC authority to govern Equal Employment Opportunity (EEO) responsibilities of cable television operators was codified in the Cable Communications Policy Act of 1984. This authority was extended to television broadcast licensees and other multi-channel video programming distributors in the Cable and Television Consumer Protection Act of 1992. In the Second Report and Order, the FCC adopted new EEO rules and policies. This action was in response to a decision of the U.S. Court of Appeals for the District of Columbia Circuit that found prior EEO rules unconstitutional. The Third Notice of Proposed Rulemaking (NPRM) requests comment as to the applicability of the EEO rules to part-time employees. The Third Report and Order adopted revised forms for broadcast station and MVPDs Annual Employment Report. In the Fourth NPRM, comment was sought regarding public access to the data contained in the forms.

Timetable:

Action | Date | FR Cite
NPRM | 01/14/02 | 67 FR 1704
Second R&O and Third NPRM | 01/07/03 | 68 FR 670
Correction | 01/13/03 | 68 FR 1657
Fourth NPRM | 06/23/04 | 69 FR 34986
Third R&O | 06/23/04 | 69 FR 34950
Next Action Undetermined.

Regulatory Flexibility Analysis Required: Yes.

Agency Contact: Lewis Pulley, Asst. Chief, Policy Division, Media Bureau, Federal Communications Commission, 445 12th Street SW., Washington, DC 20554, Phone: 202 418-1450, E-mail: lewis.pulley@fcc.gov.

RIN: 3060-AH95

368. Broadcast Multiple and Cross-Ownership Limits

Legal Authority: 47 U.S.C. 151; 47 U.S.C. 152(a); 47 U.S.C. 154(i); 47 U.S.C. 303; 47 U.S.C. 307; 47 U.S.C. 309 and 310

Abstract: In 2002, the Commission undertook a comprehensive review of its broadcast multiple and cross-ownership limits examining: Cross-ownership of TV and radio stations; local TV ownership limits; national TV cap; and dual network rule.

The Report and Order replaced the newspaper/broadcast cross-ownership and radio and TV rules with a tiered approach based on the number of television stations in a market. Petitions for Reconsideration are pending. Also, the Third Circuit Court of Appeals remanded portions of the Commission's decisions. In June 2006, the Commission adopted a Further Notice of Proposed Rulemaking initiating the 2006 review of the broadcast ownership rules. The further notice also sought comment on how to address the issues raised by the Third Circuit. Additional questions are raised for comment in a Second Further Notice of Proposed Rulemaking.

In the Report and Order and Order on Reconsideration, the Commission adopted rule changes regarding newspaper/broadcast cross-ownership, but otherwise generally retained the other broadcast ownership rules currently in effect. An appeal of this action is before the Third Circuit.

Timetable:

Action | Date | FR Cite
NPRM | 10/05/01 | 66 FR 50991
R&O | 08/05/03 | 68 FR 46286
Public Notice | 02/19/04 | 69 FR 9216
FNPRM | 08/09/06 | 71 FR 4511
Second FNPRM | 08/08/07 | 72 FR 44539
R&O and Order on Recon | 02/21/08 | 73 FR 9481
Next Action Undetermined.

Regulatory Flexibility Analysis Required: Yes.

Agency Contact: Amy Brett, Asst. Div. Chief, Industry Analysis Div., Federal Communications Commission, Media Bureau, 445 12th Street, SW., Washington, DC 20554, Phone: 202 418-2703, E-mail: amy.brett@fcc.gov.

RIN: 3060-AH97

369. Establishment of Rules for Digital Low Power Television, Television Translator, and Television Booster Stations (MB Docket No. 03-185)

Legal Authority: 47 U.S.C. 309; 47 U.S.C. 336

Abstract: This proceeding initiates the digital television conversion for low power television (LPTV) and television translator stations. The rules and policies adopted as a result of this proceeding provide the framework for these stations' conversion from analog to digital broadcasting. The Report and Order adopts definitions and permissible use provisions for digital TV translator and LPTV stations. The FNPRM considers the remaining issues requiring resolution in order to complete the low power television digital transition.

Timetable:

Action | Date | FR Cite
NPRM | 09/26/03 | 68 FR 55566
NPRM Comment Period End | 11/25/03 |
R&O | 11/29/04 | 69 FR 69325
FNPRM and MO&O | 10/18/10 | 75 FR 63766
Next Action Undetermined.

Regulatory Flexibility Analysis Required: Yes.

Agency Contact: Shaun Maher, Attorney Advisor, Federal Communications Commission, Mass Media Bureau, 445 12th Street, SW., Washington, DC 20554, Phone: 202 418-2324, Fax: 202 418-2827, E-mail: shaun.maher@fcc.gov.

RIN: 3060-AI38

370. Joint Sales Agreements in Local Television Markets (MB Docket No. 04-256)

Legal Authority: 47 U.S.C. 151 to 152(a); 47 U.S.C. 154(i); 47 U.S.C. 303; et seq.

Abstract: A joint sales agreement (JSA) is an agreement with a licensee of a brokered station that authorizes a broker to sell some or all of the advertising time for the brokered station in return for a fee or percentage of revenues paid to the licensee. The Commission has sought comment on whether TV JSAs should be attributed for purposes of determining compliance with the Commission's multiple ownership rules.

Timetable:

Action | Date | FR Cite
NPRM | 08/26/04 | 69 FR 52464
NPRM Comment Period End | 09/27/04 |
Next Action Undetermined. |

Regulatory Flexibility Analysis Required: Yes.

Agency Contact: Amy Brett, Asst. Div. Chief, Industry Analysis Div., Federal Communications Commission, Media Bureau, 445 12th Street, SW., Washington, DC 20554, Phone: 202 418-2703, E-mail: amy.brett@fcc.gov.

RIN: 3060-AI55

371. Revision of Procedures Governing Amendments to FM Table of Allotments and Changes of Community of License in the Radio Broadcast Services (MB Docket No. 05-210)

Legal Authority: 47 U.S.C. 154; 47 U.S.C. 303

Abstract: The rulemaking was initiated to reduce backlog in, and streamline, the FM allotment procedures and, to a lesser extent, streamline certain procedures pertaining to AM applications. Although the Commission has made important changes to streamline the processing of radio broadcast applications, the basic procedures for amending the Table have not changed since 1982. The Notice seeks comment on a number of specific rule and procedural changes in the handling of FM and AM applications and rulemaking petitions to amend the Table. In the area of applications procedures, the Notice seeks comments on various proposals designed to encourage only bona fide proponents to submit petitions and to limit the complexity of such petitions. If these changes are adopted, it will expedite the approval and implementation on new and upgraded radio service to the public. The Report and Order adopted the proposals from the notice. Petitions for reconsideration are pending.

Timetable:

Action | Date | FR Cite
NPRM | 06/22/05 | 70 FR 44537
NPRM Comment Period End | 10/03/05 |
R&O | 12/20/06 | 71 FR 76208
Next Action Undetermined. |

Regulatory Flexibility Analysis Required: Yes.

Agency Contact: Tom Nessinger, Attorney Advisor, Federal Communications Commission, Media Bureau, 445 12th Street, SW., Washington, DC 20554, Phone: 202 418-2709, E-mail: thomas.nessinger@fcc.gov.

RIN: 3060-AI63

372. Digital Television Distributed Transmission System Technologies (MB Docket No. 05-312)

Legal Authority: 47 U.S.C. 151; 47 U.S.C. 154(i) to (j); 47 U.S.C. 157; 47 U.S.C. 301; et seq.

Abstract: A digital television transmission system (DTS) employs multiple synchronized transmitters spread around a station's service area. Such distributed transmitters fill in unserved areas in the parent station's coverage area. The Notice of Proposed Rulemaking (NPRM) examines issues related to the use of DTS and proposes rules for future DTS operation. The Report and Order adopts the technical and licensing rules necessary to implement DTS service.

Timetable:

Action | Date | FR Cite
NPRM | 12/07/05 | 70 FR 72763
NPRM Comment Period End | 02/06/06 |
R&O | 12/05/08 | 73 FR 74047
Next Action Undetermined. |

Regulatory Flexibility Analysis Required: Yes.

Agency Contact: Evan Baranoff, Attorney, Policy Division, Federal Communications Commission, Media Bureau, 445 12th Street, SW., Washington, DC 20554, Phone: 202 418-2120, E-mail: evan.baranoff@fcc.gov.

RIN: 3060-AI68

373. Implementation of the Cable Communications Policy Act of 1984 as Amended by the Cable Television Consumer Protection and Competition Act of 1992 (MB Docket No. 05-311)

Legal Authority: 47 U.S.C. 151; 47 U.S.C. 154(i); 47 U.S.C. 541(a)(1); 47 U.S.C. 556(c)

Abstract: Section 621(a)(1) of the Communications Act of 1934, as amended, states in relevant part that “a franchising authority . . . may not unreasonably refuse to award an additional competitive franchise.” The Notice of Proposed Rulemaking (NPRM) solicits comment on implementation of section 621(a)(1)'s directive, and whether the franchising process unreasonably impedes the achievement of the interrelated Federal goals of enhanced cable competition and accelerated broadband deployment and, if so, how the Commission should act to address that problem.

The subsequent Report and Order found that certain actions by local franchising authorities constitute an unreasonable refusal to award a competitive franchise within the meaning of section 621(a)(1). The item included a Further Notice of Proposed Rulemaking (FNPRM) seeking comment on how the findings should affect existing franchises.

In the Second Report and Order, a number of the rules promulgated in this docket are extended to incumbent cable operators.

Timetable:

Action | Date | FR Cite
NPRM | 12/19/05 | 70 FR 73973
NPRM Comment Period End | 02/13/06 |
R&O and FNPRM | 03/21/07 | 72 FR 13230
FNPRM Comment Period End | 04/20/07 |
Second R&O | 11/23/07 | 72 FR 65670
Next Action Undetermined.

Regulatory Flexibility Analysis Required: Yes.

Agency Contact: Holly Saurer, Attorney Advisor, Policy Division, Federal Communications Commission, Media Bureau, 445 12th Street, SW., Washington, DC 20554, Phone: 202 418-7283, Fax: 202 418-1069, E-mail: holly.saurer@fcc.gov.

RIN: 3060-AI69

374. Program Access Rules—Sunset of Exclusive Contracts Prohibition and Examination of Programming Tying Arrangements (MB Docket Nos. 07-29, 07-198)

Legal Authority: 47 U.S.C. 548

Abstract: The program access provisions of the Communications Act (section 628) generally prohibit exclusive contracts for satellite delivered programming between programmers in which a cable operator has an attributable interest (vertically integrated programmers) and cable operators. This limitation was set to expire on October 5, 2007, unless circumstances in the video programming marketplace indicate that an extension of the prohibition continues “to be necessary to preserve and protect competition and diversity in the distribution of video programming.” The October 2007 Report and Order concluded the prohibition continues to be necessary, and accordingly, retained it until October 5, 2012. The accompanying Notice of Proposed Rulemaking (NPRM) sought comment on revisions to the Commission's program access and retransmission consent rules. The associated Report and Order adopted rules to permit complainants to pursue program access claims regarding terrestrially delivered cable affiliated programming.

Timetable:

Action | Date | FR Cite
NPRM | 03/01/07 | 72 FR 9289
NPRM Comment Period End | 04/02/07 |
R&O | 10/04/07 | 72 FR 56645
NPRM | 10/31/07 | 72 FR 61590
NPRM Comment Period End | 11/30/07 |
R&O | 03/02/10 | 75 FR 9692
Next Action Undetermined

Regulatory Flexibility Analysis Required: Yes.

Agency Contact: David Konczal, Policy Division, Media Bureau, Federal Communications Commission, 445 12th Street, SW., Washington, DC 20554, Phone: 202 418-2228, E-mail: david.konczal@fcc.gov.

RIN: 3060-AI87

375. Third Periodic Review of the Commission's Rules and Policies Affecting the Conversion to Digital Television (MB Docket No. 07-91)

Legal Authority: 47 U.S.C. 151; 47 U.S.C. 154(i); 47 U.S.C. 154(j); 47 U.S.C. 301 to 303; 47 U.S.C. 307 to 309; 47 U.S.C. 312; 47 U.S.C. 316; 47 U.S.C. 318 and 319; 47 U.S.C. 324 and 325; 47 U.S.C. 336 and 337

Abstract: Congress has mandated that after February 17, 2009, full-power broadcast stations must transmit only in digital signals, and may no longer transmit analog signals. This proceeding is the Commission's third periodic review of the transition of the nation's broadcast television system from analog to digital television (DTV). The Commission conducts these periodic reviews in order to assess the progress of the transition and make any necessary adjustments to the Commission's rules and policies to facilitate the introduction of DTV service and the recovery of spectrum at the end of the transition. In this review, the Commission considers how to ensure that broadcasters complete construction of their final post-transition (digital) facilities by the statutory deadline.

Timetable:

Action | Date | FR Cite
NPRM | 07/09/07 | 72 FR 37310
NPRM Comment Period End | 08/08/07 |
R&O | 01/30/08 | 73 FR 5634
Order on Clarification | 07/10/08 | 73 FR 39623
Next Action Undetermined

Regulatory Flexibility Analysis Required: Yes.

Agency Contact: Evan Baranoff, Attorney, Policy Division, Federal Communications Commission, Media Bureau, 445 12th Street, SW., Washington, DC 20554, Phone: 202 418-2120, E-mail: evan.baranoff@fcc.gov.

RIN: 3060-AI89

376. Broadcast Localism (MB Docket No. 04-233)

Legal Authority: 47 U.S.C. 154(i); 47 U.S.C. 303; 47 U.S.C. 532; 47 U.S.C. 536

Abstract: The concept of localism has been a cornerstone of broadcast regulation. The Commission has consistently held that as temporary trustee of the public's airwaves, broadcasters are obligated to operate their stations to serve the public interest. Specifically, broadcasters are required to air programming responsive to the needs and issues of the people in their licensed communities. The Commission opened this proceeding to seek input on a number of issues related to broadcast localism.

Timetable:

Action | Date | FR Cite
Report and NPRM | 02/13/08 | 73 FR 8255
NPRM Comment Period End | 03/14/08
Next Action Undetermined

Regulatory Flexibility Analysis Required: Yes.

Agency Contact: Mary Beth Murphy, Division Chief, Policy Division, Federal Communications Commission, Media Bureau, 445 12th Street, SW., Washington, DC 20554, Phone: 202 418-2132, E-mail: marybeth.murphy@fcc.gov.

RIN: 3060-AJ04

377. Creating a Low Power Radio Service (MM Docket No. 99-25)

Legal Authority: 47 U.S.C. 151 to 152; 47 U.S.C. 154(i); 47 U.S.C. 303; 47 U.S.C. 403; 47 U.S.C. 405

Abstract: This proceeding was initiated to establish a new noncommercial educational low power FM radio service for non-profit community organizations and public safety entities. In January 2000, the Commission adopted a Report and Order establishing two classes of LPFM stations, 100 watt (LP100) and 10 watt (LP10) facilities, with service radii of approximately 3.5 miles and 1-2 miles, respectively. The Report and Order also established ownership and eligibility rules for the LPFM service. The Commission generally restricted ownership to entities with no attributable interest in any other broadcast station or other media. To choose among entities filing mutually exclusive applications for LPFM licenses, the Commission established a point system favoring local ownership and locally originated programming. The Report and Order imposed separation requirements for LPFM with respect to full power stations operating on co-, first- and second-adjacent and intermediate frequency (IF) channels. In December 2000, legislation was enacted that required the Commission to modify its rules to (i) prescribe LPFM station third-adjacent channel interference protection standards and (ii) prohibit any applicant from obtaining an LPFM station license if the applicant previously has engaged in the unlicensed operation of a station. In March 2001, the Commission adopted a Second Report and Order implementing this statute.

In a Further Notice issued in 2005, the Commission reexamined some of its rules governing the LPFM service, noting that the rules may need adjustment in order to ensure that the Commission maximizes the value of the LPFM service without harming the interests of full-power FM stations or other Commission licensees. The Commission sought comment on a number of issues with respect to LPFM ownership restrictions and eligibility.

The Third Report and Order resolves issues raised in the Further Notice. The accompanying Second Further Notice of Proposed Rulemaking (FNPRM) considers rule changes to avoid the potential loss of LPFM stations.

Timetable:

Action | Date | FR Cite
NPRM | 02/16/99 | 64 FR 7577
R&O | 02/15/00 | 65 FR 7616
MO&O and Order on Recon | 11/09/00 | 65 FR 67289
Second R&O | 05/10/01 | 66 FR 23861
Second Order on Recon and FNPRM | 07/07/05 | 70 FR 3918
Third R&O and Second FNPRM | 01/17/08 | 73 FR 3202
Next Action Undetermined

Regulatory Flexibility Analysis Required: Yes.

Agency Contact: Peter Doyle, Chief, Audio Division, Media Bureau, Federal Communications Commission, 445 12th Street, SW., Washington, DC 20554, Phone: 202 418-2700, E-mail: peter.doyle@fcc.gov.

RIN: 3060-AJ07

378. Sponsorship Identification Rules and Embedded Advertising (MB Docket No. 08-90)

Legal Authority: 47 U.S.C. 154(i) and (j); 47 U.S.C. 303(r); 47 U.S.C. 303(a); 47 U.S.C. 317; 47 U.S.C. 405; 47 U.S.C. 508

Abstract: The Commission undertook this proceeding to seek comment on the relationship between the Commission's sponsorship identification rules and the increasing reliance on industry by embedded advertising techniques. Due to recent technological changes that allow consumers to more easily bypass traditional commercial content, content providers may be turning to more subtle and sophisticated means of incorporating commercial messages into programming. The NPRM will seek to determine how embedded advertising affects the efficacy of the sponsorship identification rules in protecting the public's right to know who is paying to air commercials or other programming matter on broadcast outlets and cable television systems.

Timetable:

Action | Date | FR Cite
NPRM and NOI | 07/24/08 | 73 FR 43194
NPRM Comment Period End | 09/22/08
Next Action Undetermined

Regulatory Flexibility Analysis Required: Yes.

Agency Contact: Brendan Murray, Attorney Advisor, Policy Division, Federal Communications Commission, Media Bureau, 445 12th Street, SW., Washington, DC 20554, Phone: 202 418-1573, E-mail: brendan.murray@fcc.gov.

RIN: 3060-AJ10

379. An Inquiry Into the Commission's Policies and Rules Regarding AM Radio Service Directional Antenna Performance Verification (MM Docket No. 93-177)

Legal Authority: 47 U.S.C. 151; 47 U.S.C. 154(i); 47 U.S.C. 303; 47 U.S.C. 308

Abstract: This proceeding is part of a streamlining initiative to simplify the Media Bureau's licensing procedures. The Report and Order in this proceeding simplified traditional proof of performance requirements for directional AM stations. The Second Report and Order further reduces regulatory burdens on AM broadcasters by permitting the use of computer modeling.

The Second Further Notice seeks comment on proposals to synchronize rules regarding tower construction near AM antennas.

Timetable:

Action | Date | FR Cite
NPRM | 07/27/99 | 64 FR 40539
R&O | 04/25/01 | 66 FR 20752
FNPRM | 04/25/01 | 66 FR 20779
Second R&O | 10/30/08 | 73 FR 64558
Second FNPRM | 12/11/08 | 73 FR 75376
Second FNPRM Comment Period End | 01/12/09
Next Action Undetermined

Regulatory Flexibility Analysis Required: Yes.

Agency Contact: Ann Gallagher, Audio Division, Media Bureau, Federal Communications Commission, 445 12th Street, SW., Washington, DC 20554, Phone: 202 418-2716, E-mail: ann.gallagher@fcc.gov.

RIN: 3060-AJ17

380. Amendment of Parts 73 and 74 of the Commission's Rules To Establish Rules for Replacement Digital Low Power Television Translator Stations (MB Docket No. 08-253)

Legal Authority: 47 U.S.C. 151; 47 U.S.C. 154(i) and (j); 47 U.S.C. 157; 47 U.S.C. 301; 47 U.S.C. 302(a); 47 U.S.C. 303; 47 U.S.C. 307 to 309; 47 U.S.C. 312; 47 U.S.C. 316; 47 U.S.C. 318 and 319; 47 U.S.C. 324 and 325; 47 U.S.C. 336 and 337

Abstract: This proceeding was initiated to create a new digital television translator service to permit full-service television stations to continue to provide digital service to viewers within their coverage areas who have lost service as a result of the stations' digital transition.

Timetable:

Action | Date | FR Cite
NPRM | 01/02/09 | 74 FR 61
NPRM Comment Period End | 01/12/09
R&O | 06/02/09 | 74 FR 26300
Next Action Undetermined

Regulatory Flexibility Analysis Required: Yes.

Agency Contact: Barbara A. Kreisman, Chief, Video Division, Media Bureau, Federal Communications Commission, 445 12th Street, SW., Washington, DC 20554, Phone: 202 418-1600, E-mail: barbara.kreisman@fcc.gov.

RIN: 3060-AJ18

381. Policies To Promote Rural Radio Service and To Streamline Allotment and Assignment Procedures (MB Docket No. 09-52)

Legal Authority: 47 U.S.C. 151 and 152; 47 U.S.C. 154(i); 47 U.S.C. 303; 47 U.S.C. 307 and 309(j)

Abstract: This proceeding was commenced to consider a number of changes to the Commission's rules and procedures to carry out the statutory goal of distributing radio service fairly and equitably, and to increase the transparency and efficiency of radio broadcast auction and licensing processes. In the NPRM, comment is sought on specific proposals regarding the procedures used to award commercial broadcast spectrum in the AM and FM broadcast bands. The accompanying Report and Order adopts rules that provide tribes a priority to obtain broadcast radio licenses in tribal communities. The Commission concurrently adopted a Further Notice of Proposed Rulemaking seeking comment on whether to extend the tribal priority to tribes that do not possess tribal land.

Timetable:

Action | Date | FR Cite
NPRM | 05/13/09 | 74 FR 22498
NPRM Comment Period End | 07/10/09
First R&O | 03/04/10 | 75 FR 9797
FNPRM | 03/04/10 | 75 FR 9856
Next Action Undetermined

Regulatory Flexibility Analysis Required: Yes.

Agency Contact: Peter Doyle, Chief, Audio Division, Media Bureau, Federal Communications Commission, 445 12th Street, SW., Washington, DC 20554, Phone: 202 418-2700, E-mail: peter.doyle@fcc.gov.

RIN: 3060-AJ23

382. Promoting Diversification of Ownership in the Broadcast Services (MB Docket No. 07-294)

Legal Authority: 47 U.S.C. 151; 47 U.S.C. 152(a); 47 U.S.C. 154(i) and (j); 47 U.S.C. 257; 47 U.S.C. 303(r); 47 U.S.C. 307 to 310; 47 U.S.C. 336; 47 U.S.C. 534 and 535

Abstract: Diversity and competition are longstanding and important Commission goals. The measures proposed, as well as those adopted in this proceeding, are intended to promote diversity of ownership of media outlets. In the Report and Order and third FNPRM, measures are enacted to increase participation in the broadcasting industry by new entrants and small businesses, including minority- and women-owned businesses. In the Report and Order and fourth FNPRM, the Commission adopts improvements to its data collection in order to obtain an accurate and comprehensive assessment of minority and female broadcast ownership in the United States. The Memorandum Opinion & Order addressed petitions for Reconsideration of the rules, and also sought comment on a proposal to expand the reporting requirements to non-attributable interests.

Timetable:

Action | Date | FR Cite
R&O | 05/16/08 | 73 FR 28361
3rd FNPRM | 05/16/08 | 73 FR 28400
R&O | 05/27/09 | 74 FR 25163
4th FNPRM | 05/27/09 | 74 FR 25305
5th NPRM (release date) | 10/16/09
MO&O | 10/30/09 | 74 FR 56131
Next Action Undetermined

Regulatory Flexibility Analysis Required: Yes.

Agency Contact: Amy Brett, Asst. Div. Chief, Industry Analysis Div., Federal Communications Commission, Media Bureau, 445 12th Street, SW., Washington, DC 20554, Phone: 202 418-2703, E-mail: amy.brett@fcc.gov.

RIN: 3060-AJ27

383. Implementation of Section 203 of the Satellite Television Extension and Localism Act of 2010 (STELA) (MB Docket No. 10-148)

Legal Authority: 47 U.S.C. 340

Abstract: In this proceeding, the Commission modified its satellite television “significantly viewed” rules to implement Section 203 of the Satellite Television Extension and Localism Act of 2010 (STELA). Section 203 of the STELA amends section 340 of the Communications Act, which gives satellite carriers the authority to offer out-of-market but “significantly viewed” broadcast television network stations as part of their local service to subscribers.

Timetable:

Action | Date | FR Cite
NPRM | 07/28/10 | 75 FR 44198
R&O | 11/29/10 | 75 FR 72968
Next Action Undetermined

Regulatory Flexibility Analysis Required: Yes.

Agency Contact: Evan Baranoff, Attorney, Policy Division, Federal Communications Commission, Media Bureau, 445 12th Street, SW., Washington, DC 20554, Phone: 202 418-2120, E-mail: evan.baranoff@fcc.gov.

RIN: 3060-AJ43

FEDERAL COMMUNICATIONS COMMISSION (FCC)

Media Bureau

Completed Actions

384. Direct Broadcast Public Interest Obligations (MM Docket No. 93-25)

Legal Authority: 47 U.S.C. 335

Abstract: The Commission adopted rules in 1998 that implement section 25 of the Cable Television Consumer Protection and Competition Act of 1992, as codified at section 335 of the Communications Act of 1934. Section 335 directs the Commission to impose certain public interest obligations on direct broadcast satellite providers.

Timetable:

Action | Date | FR Cite
NPRM | 03/08/93 | 58 FR 12917
R&O | 02/08/99 | 64 FR 52399
Order on Recon | 04/22/04 | 69 FR 21761
Order on Recon | 04/28/04 | 69 FR 23155

Regulatory Flexibility Analysis Required: Yes.

Agency Contact: Rosalee Chiara, Staff Attorney, Federal Communications Commission, 445 12th Street, SW., Washington, DC 20554, Phone: 202 418-0754, E-mail: rchiara@fcc.gov.

RIN: 3060-AH59

FEDERAL COMMUNICATIONS COMMISSION (FCC)

Office of Managing Director

Long-Term Actions

385. Assessment and Collection of Regulatory Fees

Legal Authority: 47 U.S.C. 159

Abstract: Section 9 of the Communications Act of 1934, as amended, 47 U.S.C. 159, requires the FCC to recover the cost of its activities by assessing and collecting annual regulatory fees from beneficiaries of the activities.

Timetable:

Action | Date | FR Cite
NPRM | 04/06/06 | 71 FR 17410
NPRM Comment Period End | 02/14/06
R&O | 08/02/06 | 71 FR 43842
NPRM | 05/02/07 | 72 FR 24213
NPRM Comment Period End | 05/03/07
R&O | 08/16/07 | 72 FR 45908
FNPRM | 08/16/07 | 72 FR 46010
FNPRM Comment Period End | 09/17/07
NPRM | 05/28/08 | 73 FR 30563
NPRM Comment Period End | 05/30/08
R&O | 08/26/08 | 73 FR 50201
FNPRM | 08/26/08 | 73 FR 50285
FNPRM Comment Period End | 09/25/08
2nd R&O | 05/12/09 | 74 FR 22104
NPRM and Order | 06/02/09 | 74 FR 26329
NPRM Comment Period End | 06/04/09
R&O | 08/11/09 | 74 FR 40089
NPRM | 04/26/10 | 75 FR 21536
NPRM Comment Period End | 05/04/10
R&O | 07/19/10 | 75 FR 41932
Next Action Undetermined

Regulatory Flexibility Analysis Required: Yes.

Agency Contact: Roland Helvajian, Office of the Managing Director, Federal Communications Commission, 445 12th Street, SW., Washington, DC 20554, Phone: 202 418-0444, E-mail: roland.helvajian@fcc.gov.

RIN: 3060-AI79

386. • Amendment of Part 1 of the Commission's Rules, Concerning Practice and Procedure, Amendment of Cores Registration System; MD Docket No. 10-234

Legal Authority: 47 U.S.C. 154(i); 47 U.S.C. 158(c)(2); 47 U.S.C. 159(c)(2); 47 U.S.C. 303(r); 5 U.S.C. 5514; 31 U.S.C. 7701(c)(1)

Abstract: This Notice of Proposed Rulemaking proposes revisions intended to make the Commission's Registration System (CORES) more feature-friendly and improve the Commission's ability to comply with various statutes that govern debt collection and the collection of personal information by the federal government. The proposed modifications to CORES partly include: Requiring entities and individuals to rely primarily upon a single FRN that may, at their discretion, be linked to subsidiary or associated accounts; allowing entities to identify multiple points of contact; eliminating some of our exceptions to the requirement that entities and individuals provide their Taxpayer Identification Number (TIN) at the time of registration; requiring FRN holders to provide their e-mail addresses; modifying CORES log-in procedures; adding attention flags and automated notices that would inform FRN holders of their financial standing before the Commission; and adding data fields to enable FRN holders to indicate their tax-exempt status and notify the Commission of pending bankruptcy proceedings.

Timetable:

Action | Date | FR Cite
NPRM | 02/01/11 | 76 FR 5652
NPRM Comment Period End | 03/03/11
Next Action Undetermined

Regulatory Flexibility Analysis Required: Yes.

Agency Contact: Mr. Warren Firschein, Attorney, Federal Communications Commission, 445 12th Street, SW., Washington, DC 20554, Phone: 202 418-0844, E-mail: warren.firschein@fcc.gov.

RIN: 3060-AJ54

FEDERAL COMMUNICATIONS COMMISSION (FCC)

Public Safety and Homeland Security Bureau

Long-Term Actions

387. Revision of the Rules To Ensure Compatibility With Enhanced 911 Emergency Calling Systems

Legal Authority: 47 U.S.C. 134(i); 47 U.S.C. 151; 47 U.S.C. 201; 47 U.S.C. 208; 47 U.S.C. 215; 47 U.S.C. 303; 47 U.S.C. 309

Abstract: In a series of orders in several related proceedings issued since 1996, the Federal Communications Commission has taken action to improve the quality and reliability of 911 emergency services for wireless phone users. Rules have been adopted governing the availability of basic 911 services and the implementation of enhanced 911 (E911) for wireless services.

Timetable:

Action | Date | FR Cite
FNPRM | 08/02/96 | 61 FR 40374
R&O | 08/02/96 | 61 FR 40348
MO&O | 01/16/98 | 63 FR 2631
Second R&O | 06/28/99 | 64 FR 34564
Third R&O | 11/04/99 | 64 FR 60126
Second MO&O | 12/29/99 | 64 FR 72951
Fourth MO&O | 10/02/00 | 65 FR 58657
FNPRM | 06/13/01 | 66 FR 31878
Order | 11/02/01 | 66 FR 55618
R&O | 05/23/02 | 67 FR 36112
Public Notice | 07/17/02 | 67 FR 46909
Order to Stay | 07/26/02
Order on Recon | 01/22/03 | 68 FR 2914
FNPRM | 01/23/03 | 68 FR 3214
R&O, Second FNPRM | 02/11/04 | 69 FR 6578
Second R&O | 09/07/04 | 69 FR 54037
NPRM | 06/20/07 | 72 FR 33948
NPRM Comment Period End | 09/18/07
R&O | 02/14/08 | 73 FR 8617
Public Notice | 09/25/08 | 73 FR 55473
Comment Period End | 10/18/08
Public Notice | 11/18/09 | 74 FR 59539
Comment Period End | 12/04/09
FNPRM | 11/02/10 | 75 FR 67321
Order, Comment Period Extension | 01/07/11 | 76 FR 1126
Comment Period End | 02/18/11
Next Action Undetermined

Regulatory Flexibility Analysis Required: Yes.

Agency Contact: Tom Beers, Chief, Policy Division, Federal Communications Commission, Public Safety and Homeland Security Bureau, 445 12th Street, SW., Washington, DC 20554, Phone: 202 418-0952, E-mail: tom.beers@fcc.gov.

RIN: 3060-AG34

388. Enhanced 911 Services for Wireline

Legal Authority: 47 U.S.C. 151; 47 U.S.C. 154(i); 47 U.S.C. 201; 47 U.S.C. 222; 47 U.S.C. 251

Abstract: The rules generally will assist State governments in drafting legislation that will ensure that multi-line telephone systems are compatible with the enhanced 911 network.

Timetable:

Action | Date | FR Cite
NPRM | 10/11/94 | 59 FR 54878
FNPRM | 01/23/03 | 68 FR 3214
Second FNPRM | 02/11/04 | 69 FR 6595
R&O | 02/11/04 | 69 FR 6578
Public Notice | 01/13/05 | 70 FR 2405
Comment Period End | 03/29/05
NOI | 01/13/11 | 76 FR 2297
NOI Comment Period End | 03/14/11
Next Action Undetermined

Regulatory Flexibility Analysis Required: Yes.

Agency Contact: Tom Beers, Chief, Policy Division, Federal Communications Commission, Public Safety and Homeland Security Bureau, 445 12th Street, SW., Washington, DC 20554, Phone: 202 418-0952, E-mail: tom.beers@fcc.gov.

RIN: 3060-AG60

389. In the Matter of the Communications Assistance for Law Enforcement Act

Legal Authority: 47 U.S.C. 229; 47 U.S.C. 1001 to 1008

Abstract: All of the decisions in this proceeding thus far are aimed at implementation of provisions of the Communications Assistance for Law Enforcement Act.

Timetable:

Action | Date | FR Cite
NPRM | 10/10/97 | 62 FR 63302
Order | 01/13/98 | 63 FR 1943
FNPRM | 11/16/98 | 63 FR 63639
R&O | 01/29/99 | 64 FR 51462
Order | 03/29/99 | 64 FR 14834
Second R&O | 09/23/99 | 64 FR 51462
Third R&O | 09/24/99 | 64 FR 51710
Order on Recon | 09/28/99 | 64 FR 52244
Policy Statement | 10/12/99 | 64 FR 55164
Second Order on Recon | 05/04/01 | 66 FR 22446
Order | 10/05/01 | 66 FR 50841
Order on Remand | 05/02/02 | 67 FR 21999
NPRM | 09/23/04 | 69 FR 56976
First R&O | 10/13/05 | 70 FR 59704
Second R&O | 07/05/06 | 71 FR 38091
Next Action Undetermined.

Regulatory Flexibility Analysis Required: Yes.

Agency Contact: Tom Beers, Chief, Policy Division, Federal Communications Commission, Public Safety and Homeland Security Bureau, 445 12th Street, SW., Washington, DC 20554, Phone: 202 418-0952, E-mail: tom.beers@fcc.gov.

RIN: 3060-AG74

390. Development of Operational, Technical, and Spectrum Requirements for Public Safety Communications Requirements

Legal Authority: 47 U.S.C. 151; 47 U.S.C. 154; 47 U.S.C. 160; 47 U.S.C. 201 and 202; 47 U.S.C. 303; 47 U.S.C. 337(a); 47 U.S.C. 403

Abstract: This item takes steps toward developing a flexible regulatory framework to meet vital current and future public safety communications needs.

Timetable:

Action | Date | FR Cite
NPRM | 10/09/97 | 62 FR 60199
Second NPRM | 11/07/97 | 62 FR 60199
First R&O | 11/02/98 | 63 FR 58645
Third NPRM | 11/02/98 | 63 FR 58685
MO&O | 11/04/99 | 64 FR 60123
Second R&O | 08/08/00 | 65 FR 48393
Fourth NPRM | 08/25/00 | 65 FR 51788
Second MO&O | 09/05/00 | 65 FR 53641
Third MO&O | 11/07/00 | 65 FR 66644
Third R&O | 11/07/00 | 65 FR 66644
Fifth NPRM | 02/16/01 | 66 FR 10660
Fourth R&O | 02/16/01 | 66 FR 10632
MO&O | 09/27/02 | 67 FR 61002
NPRM | 11/08/02 | 67 FR 68079
R&O | 12/13/02 | 67 FR 76697
NPRM | 04/27/05 | 70 FR 21726
R&O | 04/27/05 | 70 FR 21671
NPRM | 04/07/06 | 71 FR 17786
NPRM | 09/21/06 | 71 FR 55149
Ninth NPRM | 01/10/07 | 72 FR 1201
Ninth NPRM Comment Period End | 02/26/07 |
R&O and FNPRM | 05/02/07 | 72 FR 24238
R&O and FNPRM Comment Period End | 05/23/07 |
Second R&O | 08/24/07 | 72 FR 48814
Second FNPRM | 05/21/08 | 73 FR 29582
Third FNPRM | 10/03/08 | 73 FR 57750
Next Action Undetermined.

Regulatory Flexibility Analysis Required: Yes.

Agency Contact: Jeff Cohen, Senior Legal Counsel, Federal Communications Commission, Public Safety and Homeland Security Bureau, 445 12th Street, SW., Washington, DC 20554, Phone: 202 418-0799, E-mail: jeff.cohen@fcc.gov.

RIN: 3060-AG85

391. 1998 Biennial Regulatory Review—Review of Accounts Settlement In Maritime Mobile and Maritime Mobile-Satellite Radio Services (IB Docket No. 98-96)

Legal Authority: 47 U.S.C. 154(i) and 154(j); 47 U.S.C. 201 to 205; 47 U.S.C. 303(r)

Abstract: The FCC seeks comment regarding Accounts Settlement in the Maritime Mobile and Maritime Mobile Satellite Service (MSS) Radio Services.

Timetable:

Action | Date | FR Cite
NPRM | 07/24/98 | 63 FR 39800
FNPRM | 07/28/99 | 64 FR 40808
R&O | 07/28/99 | 64 FR 40774
Comment Period Extended | 09/03/99 | 64 FR 48337
Next Action Undetermined.

Regulatory Flexibility Analysis Required: Yes.

Agency Contact: Timothy Peterson, Chief of Staff, PSHSB, Federal Communications Commission, Public Safety and Homeland Security Bureau, 445 12th Street, SW., Washington, DC 20554, Phone: 202 418-1575.

RIN: 3060-AH30

392. Implementation of 911 Act

Legal Authority: 47 U.S.C. 151; 47 U.S.C. 154(i) and 154(j); 47 U.S.C. 157; 47 U.S.C. 160; 47 U.S.C. 202; 47 U.S.C. 208; 47 U.S.C. 210; 47 U.S.C. 214; 47 U.S.C. 251(e); 47 U.S.C. 301; 47 U.S.C. 303; 47 U.S.C. 308 to 309(j); 47 U.S.C. 310

Abstract: This proceeding is separate from the Commission's proceeding on Enhanced 911 Emergency Systems (E911) in that it is intended to implement provisions of the Wireless Communications and Public Safety Act of 1999 through the promotion of public safety by the deployment of a seamless, nationwide emergency communications infrastructure that includes wireless communications services. More specifically, a chief goal of the proceeding is to ensure that all emergency calls are routed to the appropriate local emergency authority to provide assistance. The E911 proceeding goes a step further and is aimed at improving the effectiveness and reliability of wireless 911 dispatchers with additional information on wireless 911 calls.

Timetable:

Action | Date | FR Cite
Fourth R&O, Third NPRM, and NPRM | 09/19/00 | 65 FR 56752
Fifth R&O, First R&O, and MO&O | 01/14/02 | 67 FR 1643
Final Rule | 01/25/02 | 67 FR 3621
Next Action Undetermined

Regulatory Flexibility Analysis Required: Yes.

Agency Contact: David H. Siehl, Attorney, Federal Communications Commission, Public Safety and Homeland Security Bureau, 445 12th Street SW., Washington, DC 20554, Phone: 202 418-1313, Fax: 202 418-2816, E-mail: david.siehl@fcc.gov.

RIN: 3060-AH90

393. Commission Rules Concerning Disruptions to Communications

Legal Authority: 47 U.S.C. 151; 47 U.S.C. 154(i); 47 U.S.C. 303(r)

Abstract: The Report and Order extended the Commission's disruption reporting requirements to communications providers who are not wireline carriers. The Commission also streamlined compliance with the reporting requirements through electronic filing with a “fill in the blank” template and by simplifying the application of that rule. In addition, the Commission delegated authority to the Chief, Office of Engineering and Technology, to make the revisions to the filing system and template necessary to improve the efficiency of reporting and to reduce, where reasonably possible, the time for providers to prepare, and for the Commission staff to review, the communications disruption reports required to be filed. Such authority was subsequently delegated to the Chief of the Public Safety and Homeland Security Bureau. These actions will allow the Commission to obtain the necessary information regarding service disruptions in an efficient and expeditious manner and to achieve significant concomitant public interest benefits.

The Commission received nine petitions for reconsideration in this proceeding, which are pending.

The Further Notice of Proposed Rulemaking (NPRM) expands the record in the proceeding to focus specifically on the unique communications needs of airports, including wireless and satellite communications. In this regard, the Commission requested comment on the additional types of airport communications (e.g., wireless, satellite) that should be required to file service disruption reports—particularly from a homeland security and defense perspective. These types of airport communications may include, for example, communications that are provided by ARINC as well as commercial communications (e.g., air-to-ground and ground-to-air telephone communications) as well as intra-airline commercial links. The Commission also requested comment on whether the outage-reporting requirements for special facilities should be extended to cover general aviation airports (GA) and, if so, what the applicable threshold criteria should be.

Timetable:

Action | Date | FR Cite
NPRM | 03/26/04 | 69 FR 15761
FNPRM | 11/26/04 | 69 FR 68859
R&O | 12/03/04 | 69 FR 70316
Announcement of Effective Date and Partial Stay | 12/30/04 | 69 FR 78338
Petition for Recon | 02/15/05 | 70 FR 7737
Amendment of Delegated Authority | 02/21/08 | 73 FR 9462
Public Notice | 08/02/10 |
Next Action Undetermined

Regulatory Flexibility Analysis Required: Yes.

Agency Contact: Lisa Fowlkes, Deputy Bureau Chief, Public Safety and Homeland Security Bureau, Federal Communications Commission, Public Safety and Homeland Security Bureau, 445 12th Street SW., Washington, DC 20554, Phone: 202 418-7452, E-mail: lisa.fowlkes@fcc.gov.

RIN: 3060-AI22

394. E911 Requirements For IP-Enabled Service Providers

Legal Authority: 47 U.S.C. 151; 47 U.S.C. 154(i) and 154(j); 47 U.S.C. 251(e); 47 U.S.C. 303(r)

Abstract: The notice seeks comment on what additional steps the Commission should take to ensure that providers of voice-over Internet protocol services that interconnect with the public switched telephone network provide ubiquitous and reliable enhanced 911 service.

Timetable:

Action | Date | FR Cite
NPRM | 06/29/05 | 70 FR 37307
NPRM Comment Period End | 09/12/05 |
NPRM | 06/20/07 | 72 FR 33948
NPRM Comment Period End | 09/18/07 |
FNPRM, NOI | 11/02/10 | 75 FR 67321
Order, Extension of Comment Period | 01/07/11 | 76 FR 1126
Reply Comment Period End | 02/18/11 |
Next Action Undetermined

Regulatory Flexibility Analysis Required: Yes.

Agency Contact: Tom Beers, Chief, Policy Division, Federal Communications Commission, Public Safety and Homeland Security Bureau, 445 12th Street SW., Washington, DC 20554, Phone: 202 418-0952, E-mail: tom.beers@fcc.gov.

RIN: 3060-AI62

395. Recommendations of the Independent Panel Reviewing the Impact of Hurricane Katrina on Communications Networks

Legal Authority: 47 U.S.C. 151; 47 U.S.C. 154(i); 47 U.S.C. 218; 47 U.S.C. 303(r)

Abstract: In the Order released June 8, 2007 (EB Docket No. 06-119 and WC Docket No. 06-63), the Commission directed the Public Safety and Homeland Security Bureau to implement several of the recommendations made by the Independent Panel reviewing the impact of Hurricane Katrina on Communications Networks (Independent Panel). The Commission also adopted rules requiring some communications providers to have emergency/backup power and requiring certain communications providers to conduct analyses and submit reports on the redundancy and resiliency of their 911 and E911 networks and/or systems. Finally, the Commission extended limited regulatory relief from Section 272 of the Communications Act of 1934, as amended, previously accorded by the Wireline Competition Bureau.

In an Order on Reconsideration released on October 4, 2007, the Commission considered six petitions for reconsideration and/or clarification of the June 2007 Order that adopted the backup power rule (section 12.2 of the Commission's rules). The Order on Reconsideration granted in part and denied in part the petitions. The Commission modified the backup power rule to address several meritorious issues raised by petitioners. This modification will facilitate carrier compliance and reduce the burden on local exchange carriers and commercial mobile radio service providers, while continuing to further important homeland security and public safety goals.

The wireless industry challenged the backup power rule in the U.S. Court of Appeals for the District of Columbia Circuit and, with some wireline providers, challenged the associated information collection before OMB. In February 2008, the Court issued a stay of the rule pending appeal, and, on July 8, 2008, the Court issued an order holding its decision on the challenge to the backup power rule in abeyance pending action by OMB on the information collection associated with the revised rule. In November 2008, OMB rejected the information collection.

As a result of the actions by the Court and OMB, the backup power rule has never gone into effect. In December 2008, the FCC's Office of General Counsel requested that the Court dismiss the pending appeals of the backup power rule and informed the Court that the Commission plans to issue an NPRM to develop a revised rule. On July 31, 2009, the Court dismissed the petitions for review as moot and ordered that the backup power rule by vacated and this mandate was issued until September 18, 2009.

Timetable:

Action | Date | FR Cite
NPRM | 07/07/06 | 71 FR 38564
NPRM Comment Period End | 08/07/06 |
Order | 07/11/07 | 72 FR 37655
Delay of Effective Date of Rule | 08/10/07 | 72 FR 44978
Petitions for Recon | 08/20/07 | 72 FR 46485
Order on Recon | 10/11/07 | 72 FR 57879
Next Action Undetermined

Regulatory Flexibility Analysis Required: Yes.

Agency Contact: Lisa Fowlkes, Deputy Bureau Chief, Public Safety and Homeland Security Bureau, Federal Communications Commission, Public Safety and Homeland Security Bureau, 445 12th Street SW., Washington, DC 20554, Phone: 202 418-7452, E-mail: lisa.fowlkes@fcc.gov.

RIN: 3060-AI78

396. Stolen Vehicle Recovery System (SVRS)

Legal Authority: 47 U.S.C. 151 and 152; 47 U.S.C. 154(i); 47 U.S.C. 301 to 303

Abstract: The Report and Order amends 47 CFR 90.20(e)(6) governing stolen vehicle recovery system operations at 173.075 MHz, by increasing the radiated power limit for narrowband base stations; increasing the power output limit for narrowband base stations; increasing the power output limit for narrowband mobile transceivers; modifying the base station duty cycle; increasing the tracking duty cycle for mobile transceivers; and retaining the requirement for TV channel 7 interference studies and that such studies must be served on TV channel 7 stations.

Timetable:

Action | Date | FR Cite
NPRM | 08/23/06 | 71 FR 49401
NPRM Comment Period End | 10/10/06 |
R&O | 10/14/08 | 73 FR 60631
Next Action Undetermined

Regulatory Flexibility Analysis Required: Yes.

Agency Contact: Zenji Nakazawa, Assoc. Chief, Policy Division, Federal Communications Commission, Public Safety and Homeland Security Bureau, 445 12th Street SW., Washington, DC 20554, Phone: 202 418-7949, E-mail: zenji.nakazaw@fcc.gov.

RIN: 3060-AJ01

397. Commercial Mobile Alert System

Legal Authority: Pub. L. 109-347 title VI; EO 13407; 47 U.S.C. 151; 47 U.S.C. 154(i)

Abstract: In the Notice of Proposed Rulemaking (NPRM), the Commission initiated a comprehensive rulemaking to establish a commercial mobile alert system under which commercial mobile service providers may elect to transmit emergency alerts to the public. The Commission has issued three orders adopting CMAS rules as required by statute. Issues raised in an FNPRM regarding testing requirements for non-commercial educational and public broadcast television stations remain outstanding.

Timetable:

Action | Date | FR Cite
NPRM | 01/03/08 | 73 FR 545
NPRM Comment Period End | 02/04/08 |
First R&O | 07/24/08 | 73 FR 43009
Second R&O | 08/14/08 | 73 FR 47550
FNPRM | 08/14/08 | 73 FR 47568
FNPRM Comment Period End | 09/15/08 |
Third R&O | 09/22/08 | 73 FR 54511
Next Action Undetermined |  |

Regulatory Flexibility Analysis Required: Yes.

Agency Contact: Lisa Fowlkes, Deputy Bureau Chief, Public Safety and Homeland Security Bureau, Federal Communications Commission, Public Safety and Homeland Security Bureau, 445 12th Street SW., Washington, DC 20554, Phone: 202 418-7452, E-mail: lisa.fowlkes@fcc.gov.

RIN: 3060-AJ03

398. Emergency Alert System

Legal Authority: 47 U.S.C. 151 and 152; 47 U.S.C. 154(i) and 154(o); 47 U.S.C. 301 ; 47 U.S.C. 393(r) and 303(v); 47 U.S.C. 307 and 309; 47 U.S.C. 335 and 403; 47 U.S.C. 544(g); 47 U.S.C. 606 and 615

Abstract: This revision of 47 CFR part 11 provides for national-level testing of the Emergency Alert System.

Timetable:

Action | Date | FR Cite
NPRM | 01/12/10 | 75 FR 4760
NPRM Comment Period End | 03/30/10 |
Next Action Undetermined |  |

Regulatory Flexibility Analysis Required: Yes.

Agency Contact: Eric Ehrenreich, Attorney Advisor, Federal Communications Commission, 445 12th Street, SW., Washington, DC 20554, Phone: 202 418-1726, E-mail: eric.ehrenreich@fcc.gov.

RIN: 3060-AJ33

399. • Wireless E911 Location Accuracy Requirements; PS Docket No. 07-114

Legal Authority: 47 U.S.C. 151; 47 U.S.C. 154; 47 U.S.C. 332

Abstract: Related to the proceedings in which the FCC has previously acted to improve the quality of all emergency services, this action requires wireless carriers to take steps to provide more specific automatic location information in connection with 911 emergency calls to Public Safety Answering Points (PSAPs) in areas where wireless carriers have not done so in the past. Wireless licensees must now satisfy amended Enhanced 911 location accuracy standards at either a county-based or a PSAP-based geographic level.

Timetable:

Action | Date | FR Cite
NPRM | 06/20/07 | 72 FR 33948
NPRM Comment Period End | 07/11/07 |
R&O | 02/14/08 | 73 FR 8617
Public Notice | 09/25/08 | 73 FR 55473
Comment Period End | 10/14/08 |
Public Notice | 11/18/09 | 74 FR 59539
Comment Period End | 12/04/09 |
2nd R&O | 11/18/10 | 75 FR 70604
Next Action Undetermined |  |

Regulatory Flexibility Analysis Required: Yes.

Agency Contact: Tom Beers, Chief, Policy Division, Federal Communications Commission, Public Safety and Homeland Security Bureau, 445 12th Street, SW., Washington, DC 20554, Phone: 202 418-0952, E-mail: tom.beers@fcc.gov.

RIN: 3060-AJ52

FEDERAL COMMUNICATIONS COMMISSION (FCC)

Wireless Telecommunications Bureau

Long-Term Actions

400. Implementation of the Communications Act, Amendment of the Commission's Rules—Broadband PCS Competitive Bidding and the Commercial Mobile Radio Service Spectrum Cap

Legal Authority: 47 U.S.C. 154(i); 47 U.S.C. 301 and 302; 47 U.S.C. 303(r); 47 U.S.C. 309(j); 47 U.S.C. 332

Abstract: NPRM to modify the competitive bidding rules for the Broadband PCS F Block. Report and Order, adopted June 21, 1996, modified the PCS/cellular rule and the cellular spectrum cap.

Timetable:

Action | Date | FR Cite
O on Recon of Fifth MO&O and D, E, & F R&O | 11/15/00 | 65 FR 68927
Final Rule | 03/02/01 | 66 FR 13022
Final Rule | 06/04/01 | 66 FR 29911
Third NPRM | 08/27/04 | 69 FR 52632
Third NPRM Comment Period Extended | 10/04/04 | 69 FR 59166
Next Action Undetermined |  |

Regulatory Flexibility Analysis Required: Yes.

Agency Contact: Audrey Bashkin, Staff Attorney, Federal Communications Commission, Wireless Telecommunications Bureau, 445 12th Street SW., Washington, DC 20554, Phone: 202 418-7535, E-mail: abashkin@fcc.gov.

RIN: 3060-AG21

401. Service Rules for the 746 to 764 and 776 to 794 MHZ Bands, and Revisions to the Commission's Rules

Legal Authority: 47 U.S.C. 1; 47 U.S.C. 4(i); 47 U.S.C. 7; 47 U.S.C. 10; 47 U.S.C. 201 and 202; 47 U.S.C. 208; 47 U.S.C. 214; 47 U.S.C. 301; 47 U.S.C. 303; 47 U.S.C. 307 and 308; 47 U.S.C. 309(j) and 309(k); 47 U.S.C. 310 and 311; 47 U.S.C. 315; 47 U.S.C. 317; 47 U.S.C. 324; 47 U.S.C. 331 and 332; 47 U.S.C. 336

Abstract: The Report and Order in this proceeding adopts service rules for licensing and auction of commercial services in spectrum in the 700 MHz band to be vacated by UHF television licensees.

Timetable:

Action | Date | FR Cite
NPRM | 07/07/99 | 64 FR 36686
R&O | 01/20/00 | 65 FR 3139
Second R&O | 04/04/00 | 65 FR 17594
MO&O and FNPRM | 07/12/00 | 65 FR 42879
Second MO&O | 02/06/01 | 66 FR 9035
Third R&O | 02/14/01 | 66 FR 10204
Second MO&O | 02/15/01 | 66 FR 10374
Order on Recon of Third R&O | 10/10/01 | 66 FR 51594
Third MO&O and Order | 07/30/02 | 67 FR 49244
Second FNPRM | 05/21/08 | 73 FR 29582
Next Action Undetermined |  |

Regulatory Flexibility Analysis Required: Yes.

Agency Contact: William Huber, Attorney Advisor, Federal Communications Commission, Wireless Telecommunications Bureau, 445 12th Street, SW., Washington, DC 20554, Phone: 202 418-2109, Fax: 202 418-0890, E-mail: whuber@fcc.gov.

RIN: 3060-AH32

402. Amendment of Parts 13 and 80 of the Commission's Rules Governing Maritime Communications

Legal Authority: 47 U.S.C. 302 to 303

Abstract: This matter concerns the amendment of the rules governing maritime communications in order to consolidate, revise and streamline the regulations as well as address new international requirements and improve the operational ability of all users of marine radios.

Timetable:

Action | Date | FR Cite
NPRM | 03/24/00 | 65 FR 21694
NPRM | 08/17/00 | 65 FR 50173
NPRM | 05/17/02 | 67 FR 35086
Report & Order | 08/07/03 | 68 FR 46957
Second R&O, Sixth R&O, Second FNPRM | 04/06/04 | 69 FR 18007
Comments Due | 06/07/04 |
Reply Comments Due | 07/06/04 |
Second R&O and Sixth R&O | 11/08/04 | 69 FR 64664
NPRM | 11/08/06 | 71 FR 65447
Final Action | 01/25/08 | 73 FR 4475
Petition for Reconsideration | 03/18/08 | 73 FR 14486
4th R&O [Release Date] | 06/10/10 |
Next Action Undetermined |  |

Regulatory Flexibility Analysis Required: Yes.

Agency Contact: Jeff Tobias, Attorney Advisor, Federal Communications Commission, Wireless Telecommunications Bureau, 445 12th Street SW., Washington, DC 20554, Phone: 202 418-0680, E-mail: jeff.tobias@fcc.gov.

RIN: 3060-AH55

403. Competitive Bidding Procedures

Legal Authority: 47 U.S.C. 154; 47 U.S.C. 301 to 303; 47 U.S.C. 309; 47 U.S.C. 332

Abstract: This proceeding proposes resumption of installment payments for broadband Personal Communications Services (PCS), for example, for C and F Block, with payment deadline to be reinstated as of March 31, 1998. The proposal contemplates, inter alia, changes to the FCC's C Block rules to govern re-auction of surrendered spectrum in the C Block. The proposal was released on October 16, 1997, and published in the Federal Register.

Timetable:

Action | Date | FR Cite
Second R&O | 10/24/97 | 62 FR 55348
FNPRM | 10/24/97 | 62 FR 55375
Order on Recon of Second R&O | 04/08/98 | 63 FR 17111
Fourth R&O | 09/23/98 | 63 FR 50791
Second Order on Recon of Second R&O | 05/18/99 | 64 FR 26887
Recon of Fourth R&O | 03/16/00 | 65 FR 14213
FNPRM | 06/13/00 | 65 FR 37092
Sixth R&O and Order on Recon | 09/05/00 | 65 FR 53620
Order on Recon | 02/12/01 | 66 FR 9773
Final Rule | 07/21/03 | 68 FR 42984
Final Rule | 09/30/05 | 70 FR 57183
Next Action Undetermined |  |

Regulatory Flexibility Analysis Required: Yes.

Agency Contact: Audrey Bashkin, Staff Attorney, Federal Communications Commission, Wireless Telecommunications Bureau, 445 12th Street SW., Washington, DC 20554, Phone: 202 418-7535, E-mail: abashkin@fcc.gov.

RIN: 3060-AH57

404. Reexamination of Roaming Obligations of Commercial Mobile Radio Service Providers

Legal Authority: 47 U.S.C. 151; 47 U.S.C. 152(n); 47 U.S.C. 154(i) and 154(j); 47 U.S.C. 201(b); 47 U.S.C. 251(a); 47 U.S.C. 253; 47 U.S.C. 303(r); 47 U.S.C. 332(c)(1)(B); 47 U.S.C. 309

Abstract: This rulemaking considers whether the Commission should adopt an automatic roaming rule for voice services for Commercial Mobile Radio Services and whether the Commission should adopt a roaming rule for mobile data services.

Timetable:

Action | Date | FR Cite
NPRM | 11/21/00 | 65 FR 69891
NPRM | 09/28/05 | 70 FR 56612
NPRM | 01/19/06 | 71 FR 3029
FNPRM | 08/30/07 | 72 FR 50085
Final Rule | 08/30/07 | 72 FR 50064
Final Rule | 04/28/10 | 75 FR 22263
FNPRM | 04/28/10 | 75 FR 22338
Next Action Undetermined |  |

Regulatory Flexibility Analysis Required: Yes.

Agency Contact: Peter Trachtenberg, Assoc. Div. Chief SCPD, WTB, Federal Communications Commission, Wireless Telecommunications Bureau, 445 12th Street SW., Washington, DC 20554, Phone: 202 418-7369, E-mail: peter.trachtenberg@fcc.gov.

Christina Clearwater, Asst. Div. Chief, SCPD, WTB, Federal Communications Commission, Wireless Telecommunications Bureau, 445 12th Street SW., Washington, DC 20554, Phone: 202 418-1893, E-mail: christina.clearwater@fcc.gov.

RIN: 3060-AH83

405. Facilitating the Provision of Spectrum-Based Services to Rural Areas

Legal Authority: Not Yet Determined

Abstract: This rulemaking will facilitate the provision of spectrum-based services to rural areas.

Timetable:

Action | Date | FR Cite
NPRM | 11/12/03 | 68 FR 64050
NPRM Comment Period End | 01/26/04 |
NPRM | 12/15/04 | 69 FR 75174
NPRM Comment Period End | 01/14/05 |
Final Rule | 12/15/04 | 69 FR 75144
Final Rule | 04/27/05 | 70 FR 21652
Next Action Undetermined |  |

Regulatory Flexibility Analysis Required: Yes.

Agency Contact: Paul D'Ari, Spectrum and Competition Policy Division, Wireless Bureau, Federal Communications Commission, 445 12th Street SW., Washington, DC 20554, Phone: 202 418-1550, Fax: 202 418-7447, E-mail: paul.dari@fcc.gov.

RIN: 3060-AI31

406. Improving Public Safety Communications in the 800 MHZ Band Industrial/Land Transportation and Business Channels

Legal Authority: 47 U.S.C. 154(i); 47 U.S.C. 303(f); 47 U.S.C. 303(r); 47 U.S.C. 332

Abstract: The Commission seeks to improve public safety communications in the 800 MHz band and consolidate the 800 MHz Industrial/Land Transportation and Business Pool channels.

Timetable:

Action | Date | FR Cite
NPRM | 04/05/02 | 67 FR 16351
NPRM Comment Period End | 05/06/02 |
Final Rule | 08/19/02 | 67 FR 53754
Proposed Rule | 02/10/03 | 68 FR 6687
Final Rule | 11/22/04 | 69 FR 67823
Final Rule | 11/22/04 | 69 FR 67853
Final Rule | 02/08/05 | 70 FR 6750
Final Rule | 02/08/05 | 70 FR 6761
Final Rule | 04/06/05 | 70 FR 17327
Notice | 06/15/05 | 70 FR 34764
Final Rule | 09/28/05 | 70 FR 56583
Notice | 10/26/05 | 70 FR 61823
Final Rule | 12/28/05 | 70 FR 76704
Proposed Rule | 09/21/06 | 71 FR 55149
Clarification | 06/20/07 | 72 FR 33914
Final Rule | 07/20/07 | 72 FR 39756
Final Rule; Correction | 09/28/07 | 72 FR 54847
Notice | 09/28/07 | 72 FR 55208
Final Rule; Clarification | 10/05/07 | 72 FR 56923
Petition for Recon | 10/01/07 | 72 FR 55772
Proposed Rule | 11/13/07 | 72 FR 63869
Petition for Recon | 11/14/07 | 72 FR 65734
Proposed Rule | 03/31/08 | 73 FR 16822
Final Rule | 06/13/08 | 73 FR 33728
Proposed Rule | 07/13/08 | 73 FR 40274
Petition for Recon | 07/28/08 | 73 FR 4375
Final Rule | 11/17/08 | 73 FR 67794
Final Rule | 02/06/09 | 74 FR 6235
Next Action Undetermined |  |

Regulatory Flexibility Analysis Required: Yes.

Agency Contact: Michael Wilhelm, Federal Communications Commission, 445 12th Street, SW., Washington, DC 20554, Phone: 202 418-0870, E-mail: michael.wilhelm@fcc.gov.

RIN: 3060-AI34

407. Review of Part 87 of the Commission's Rules Concerning Aviation (WT Docket No. 01-289)

Legal Authority: 47 U.S.C. 154; 47 U.S.C. 303; 47 U.S.C. 307(e)

Abstract: This proceeding is intended to streamline, consolidate and revise our part 87 rules governing the Aviation Radio Service. The rule changes are designed to ensure these rules reflect current technological advances.

Timetable:

Action | Date | FR Cite
NPRM | 10/16/01 | 66 FR 64785
NPRM Comment Period End | 03/14/02 |
R&O and FNPRM | 10/16/03 |
FNPRM | 04/12/04 | 69 FR 19140
FNPRM Comment Period End | 07/12/04 |
R&O | 06/14/04 | 69 FR 32577
NPRM | 12/06/06 | 71 FR 70710
NPRM Comment Period End | 03/06/07 |
Final Rule | 12/06/06 | 71 FR 70671
3rd R&O [Release Date] | 06/15/10 |
Stay Order (Release Date) | 01/11/11 |
Next Action Undetermined. |  |

Regulatory Flexibility Analysis Required: Yes.

Agency Contact: Jeff Tobias, Attorney Advisor, Federal Communications Commission, Wireless Telecommunications Bureau, 445 12th Street, SW., Washington, DC 20554, Phone: 202 418-0680, E-mail: jeff.tobias@fcc.gov.

RIN: 3060-AI35

408. Implementation of the Commercial Spectrum Enhancement Act (CSEA) and Modernization of the Commission's Competitive Bidding Rules and Procedures (WT Docket No. 05-211)

Legal Authority: 15 U.S.C. 79; 47 U.S.C. 151; 47 U.S.C. 154(i) and (j); 47 U.S.C. 155; 47 U.S.C. 155(c); 47 U.S.C. 157; 47 U.S.C. 225; 47 U.S.C. 303(r); 47 U.S.C. 307; 47 U.S.C. 309; 47 U.S.C. 309(j); 47 U.S.C. 325(e); 47 U.S.C. 334; 47 U.S.C. 336; 47 U.S.C. 339; 47 U.S.C. 554

Abstract: This proceeding implements rules and procedures needed to comply with the recently enacted Commercial Spectrum Enhancement Act (CSEA). It establishes a mechanism for reimbursing federal agencies out of spectrum auction proceeds for the cost of relocating their operations from certain “eligible frequencies” that have been reallocated from Federal to non-Federal use. It also seeks to improve the Commission's ability to achieve Congress's directives with regard to designated entities and to ensure that, in accordance with the intent of Congress, every recipient of its designated entity benefits is an entity that uses its licenses to directly provide facilities-based telecommunications services for the benefit of the public.

Timetable:

Action | Date | FR Cite
NPRM | 06/14/05 | 70 FR 43372
NPRM Comment Period End | 08/26/05 |
Declaratory Ruling | 06/14/05 | 70 FR 43322
R&O | 01/24/06 | 71 FR 6214
FNPRM | 02/03/06 | 71 FR 6992
FNPRM Comment Period End | 02/24/06 |
Second R&O | 04/25/06 | 71 FR 26245
Order on Recon of Second R&O | 06/02/06 | 71 FR 34272
NPRM | 06/21/06 | 71 FR 35594
NPRM Comment Period End | 08/21/06 |
Reply Comment Period End | 09/19/06 |
Second Order and Recon of Second R&O | 04/04/08 | 73 FR 18528
Next Action Undetermined. |  |

Regulatory Flexibility Analysis Required: Yes.

Agency Contact: Kelly Quinn, Assistant Chief, Auctions and Spectrum Access Division, Federal Communications Commission, 445 12th Street, SW., Washington, DC 20554, Phone: 202 418-7384, E-mail: kelly.quinn@fcc.gov.

RIN: 3060-AI88

409. Facilitating the Provision of Fixed and Mobile Broadband Access, Educational and Other Advanced Services in the 2150-2162 and 2500-2690 MHZ Bands

Legal Authority: 47 U.S.C. 154; 47 U.S.C. 301 to 303; 47 U.S.C. 307; 47 U.S.C. 309; 47 U.S.C. 332; 47 U.S.C. 336 and 337

Abstract: The Commission seeks comment on whether to assign Educational Broadband Service (EBS) spectrum in the Gulf of Mexico. It also seeks comment on how to license unassigned and available EBS spectrum. Specifically, we seek comment on whether it would be in the public interest to develop a scheme for licensing unassigned EBS spectrum that avoids mutual exclusivity; we ask whether EBS eligible entities could participate fully in a spectrum auction; we seek comment on the use of small business size standards and bidding credits for EBS if we adopt a licensing scheme that could result in mutually exclusive applications; we seek comment on the proper market size and size of spectrum blocks for new EBS licenses; and we seek comment on issuing one license to a State agency designated by the Governor to be the spectrum manager, using frequency coordinators to avoid mutually exclusive EBS applications, as well as other alternative licensing schemes. The Commission must develop a new licensing scheme for EBS in order to achieve the Commission's goal of facilitating the development of new and innovative wireless services for the benefit of students throughout the nation.

Timetable:

Action | Date | FR Cite
NPRM | 04/02/03 | 68 FR 34560
NPRM Comment Period End | 09/08/03 |
FNPRM | 07/29/04 | 69 FR 72048
FNPRM Comment Period End | 01/10/03 |
R&O | 07/29/04 | 69 FR 72020
MO&O | 04/27/06 | 71 FR 35178
FNPRM | 03/20/08 | 73 FR 26067
FNPRM Comment Period End | 07/07/08 |
MO&O | 03/20/08 | 73 FR 26032
MO&O | 09/28/09 | 74 FR 49335
FNPRM | 09/28/09 | 74 FR 49356
FNPRM Comment Period End | 10/13/09 |
R&O | 06/03/10 | 75 FR 33729
Next Action Undetermined. |  |

Regulatory Flexibility Analysis Required: Yes.

Agency Contact: John Schauble, Deputy Chief, Broadband Division, WTB, Federal Communications Commission, 445 12th Street, SW., Washington, DC 20554, Phone: 202 418-0797, E-mail: john.schauble@fcc.gov.

RIN: 3060-AJ12

410. Amendment of the Rules Regarding Maritime Automatic Identification Systems (WT Docket No. 04-344)

Legal Authority: 47 U.S.C. 154; 47 U.S.C. 302(a); 47 U.S.C. 303; 47 U.S.C. 306; 47 U.S.C. 307(e); 47 U.S.C. 332; 47 U.S.C. 154(i); 47 U.S.C. 161

Abstract: This action adopts additional measures for domestic implementation of Automatic Identification Systems (AIS), an advanced marine vessel tracking and navigation technology that can significantly enhance our nation's homeland security as well as maritime safety.

Timetable:

Action | Date | FR Cite
Final Rule | 01/29/09 | 74 FR 5117
Final Rule Effective | 03/02/09
Petition for Recon | 04/03/09 | 74 FR 15271
Next Action Undetermined

Regulatory Flexibility Analysis Required: Yes.

Agency Contact: Jeff Tobias, Attorney Advisor, Federal Communications Commission, Wireless Telecommunications Bureau, 445 12th Street, SW., Washington, DC 20554, Phone: 202 418-0680, E-mail: jeff.tobias@fcc.gov.

RIN: 3060-AJ16

411. Service Rules for Advanced Wireless Services in the 2155-2175 MHZ Band

Legal Authority: 47 U.S.C. 151 and 152; 47 U.S.C. 154(i); 47 U.S.C. 157; 47 U.S.C. 160; 47 U.S.C. 201; 47 U.S.C. 214; 47 U.S.C. 301

Abstract: This proceeding explores the possible uses of the 2155-2175 MHz frequency band (AWS-3) to support the introduction of new advanced wireless services, including third generations as well as future generations of wireless systems. Advanced wireless systems could provide for a wide range of voice data and broadband services over a variety of mobile and fixed networks.

The Notice of Proposed Rulemaking (NPRM) sought comment on what service rules should be adopted in the AWS-3 band. We requested comment on rules for licensing this spectrum in a manner that will permit it to be fully and promptly utilized to bring advanced wireless services to American consumers. Our objective is to allow for the most effective and efficient use of the spectrum in this band, while also encouraging development of robust wireless broadband services. We proposed to apply our flexible, market-oriented rules to the band in order to meet this objective.

Thereafter, the Commission released a Further Notice of Proposed Rulemaking (FNPRM), seeking comment on the Commission's proposed AWS-3 rules, which include adding 5 megahertz of spectrum (2175-80 MHz) to the AWS-3 band, and requiring licensees of that spectrum to provide—using up to 25 percent of its wireless network capacity—free, two-way broadband Internet service at engineered data rates of at least 768 kbps downstream.

Timetable:

Action | Date | FR Cite
NPRM | 11/14/07 | 72 FR 64013
NPRM Comment Period End | 01/14/08
FNPRM | 06/25/08 | 73 FR 35995
FNPRM Comment Period End | 08/11/08
Next Action Undetermined.

Regulatory Flexibility Analysis Required: Yes.

Agency Contact: Peter Daronco, Associate Div. Chief, Broadband Div., Federal Communications Commission, Wireless Telecommunications Bureau, 445 12th Street, SW., Washington, DC 20554, Phone: 202 418-7235, E-mail: peter.daronco@fcc.gov.

RIN: 3060-AJ19

412. Service Rules for Advanced Wireless Services in the 1915 to 1920 MHZ, 1995 to 2000 MHZ, 2020 to 2025 MHZ, and 2175 to 2180 MHZ Bands

Legal Authority: 47 U.S.C. 151 and 152; 47 U.S.C. 154(i); 47 U.S.C. 157; 47 U.S.C. 160; 47 U.S.C. 201; 47 U.S.C. 214; 47 U.S.C. 301; . . .

Abstract: This proceeding explores the possible uses of the 1915-1920 MHz, 1995-2000 MHz, 2020-2025 MHz, and 2175-2180 MHz Bands (collectively AWS-2) to support the introduction of new advanced wireless services, including third generations as well as future generations of wireless systems. Advanced wireless systems could provide for a wide range of voice data and broadband services over a variety of mobile and fixed networks.

The Notice of Proposed Rulemaking (NPRM) sought comment on what service rules should be adopted in the AWS-2 band. We requested comment on rules for licensing this spectrum in a manner that will permit it to be fully and promptly utilized to bring advanced wireless services to American consumers. Our objective is to allow for the most effective and efficient use of the spectrum in this band, while also encouraging development of robust wireless broadband services.

Thereafter, the Commission released a Further Notice of Proposed Rulemaking (FNPRM), seeking comment on the Commission's proposed rules for the 1915-1920 MHz and 1995-2000 MHz bands. In addition, the Commission proposed to add 5 megahertz of spectrum (2175-80 MHz band) to the 2155-2175 MHz band, and would require the licensee of the 2155-2180 MHz band to provide—using up to 25 percent of its wireless network capacity—free, two-way broadband Internet service at engineered data rates of at least 768 kbps downstream.

Timetable:

Action | Date | FR Cite
NPRM | 11/02/04 | 69 FR 63489
NPRM Comment Period End | 01/24/05
FNPRM | 06/25/08 | 73 FR 35995
FNPRM Comment Period End | 08/11/08
Next Action Undetermined.

Regulatory Flexibility Analysis Required: Yes.

Agency Contact: Peter Daronco, Associate Div. Chief, Broadband Div., Federal Communications Commission, Wireless Telecommunications Bureau, 445 12th Street, SW., Washington, DC 20554, Phone: 202 418-7235, E-mail: peter.daronco@fcc.gov.

RIN: 3060-AJ20

413. Rules Authorizing the Operation of Low Power Auxiliary Stations in the 698-806 MHZ Band, WT Docket No. 08-166; Public Interest Spectrum Coalition, Petition for Rulemaking Regarding Low Power Auxiliary

Legal Authority: 47 U.S.C. 151 and 152; 47 U.S.C. 154(i) and 154(j); 47 U.S.C. 301 and 302(a); 47 U.S.C. 303; 47 U.S.C. 303(r); 47 U.S.C. 304; 47 U.S.C. 307 to 309; 47 U.S.C. 316; 47 U.S.C. 332; 47 U.S.C. 336 and 337

Abstract: In the Notice of Proposed Rulemaking and Order, to facilitate the DTV transition the Commission tentatively concludes to amend its rules to make clear that the operation of low power auxiliary stations within the 700 MHz Band will no longer be permitted after the end of the DTV transition. The Commission also tentatively concludes to prohibit the manufacture, import, sale, offer for sale, or shipment of devices that operate as low power auxiliary stations in the 700 MHz Band. In addition, for those licensees that have obtained authorizations to operate low power auxiliary stations in spectrum that includes the 700 MHz Band beyond the end of the DTV transition, the Commission tentatively concludes that it will modify these licenses so as not to permit such operations in the 700 MHz Band after February 17, 2009. The Commission also seeks comment on issues raised by the Public Interest Spectrum Coalition (PISC) in its informal complaint and petition for rulemaking.

The Commission also imposes a freeze on the filing of new license applications that seek to operate on any 700 MHz Band frequencies (698-806 MHz) after the end of the DTV transition, February 17, 2009, as well as on granting any request for equipment authorization of low power auxiliary station devices that would operate in any of the 700 MHz Band frequencies. The Commission also holds in abeyance, until the conclusion of this proceeding, any pending license applications and equipment authorization requests that involve operation of low power auxiliary devices on frequencies in the 700 MHz Band after the end of the DTV transition.

On January 15, 2010, the Commission released a Report and Order that prohibits the distribution and sale of wireless microphones that operate in the 700 MHz Band (698-806 MHz, channels 52-69) and includes a number of provisions to clear these devices from that band. These actions help complete an important part of the DTV transition by clearing the 700 MHz Band to enable the rollout of communications services for public safety and the deployment of next generation wireless devices.

On January 15, 2010, the Commission also released a Further Notice of Proposed Rulemaking seeking comment on the operation of low power auxiliary stations, including wireless microphones, in the core TV bands (channels 2-51, excluding channel 37). Among the issues the Commission is considering in the Further Notice are revisions to its rules to expand eligibility for licenses to operate wireless microphones under part 74; the operation of wireless microphones on an unlicensed basis in the core TV bands under part 15; technical rules to apply to low power wireless audio devices, including wireless microphones, operating in the core TV bands on an unlicensed basis under part 15 of the rules; and long term solutions to address the operation of wireless microphones and the efficient use of the core TV spectrum.

Timetable:

Action | Date | FR Cite
NPRM | 09/03/08 | 73 FR 51406
NPRM Comment Period End | 10/20/08
R&O | 01/22/10 | 75 FR 3622
FNPRM | 01/22/10 | 75 FR 3682
FNPRM Comment Period End | 03/22/10
Next Action Undetermined

Regulatory Flexibility Analysis Required: Yes.

Agency Contact: G. William Stafford, Attorney, Federal Communications Commission, 445 12th Street, SW., Washington, DC 20554, Phone: 202 418-0563, Fax: 202 418-3956, E-mail: bill.stafford@fcc.gov.

RIN: 3060-AJ21

414. Amendment of the Commission's Rules To Improve Public Safety Communications in the 800 MHZ Band, and To Consolidate the 800 MHZ and 900 MHZ Business and Industrial/Land Transportation Pool Channels

Legal Authority: 47 U.S.C. 151; 47 U.S.C. 154(i); 47 U.S.C. 303; 47 U.S.C. 309; 47 U.S.C. 332

Abstract: This action adopts rules that retain the current site-based licensing paradigm for the 900 MHz B/ILT “white space”; adopts interference protection rules applicable to all licensees operating in the 900 MHz B/ILT spectrum; and lifts, on a rolling basis, the freeze placed on applications for new 900 MHz B/ILT licenses in September 2004—the lift being tied to the completion of rebanding in each 800 MHz National Public Safety Planning Advisory Committee (NPSPAC) region.

Timetable:

Action | Date | FR Cite
NPRM | 03/18/05 | 70 FR 13143
NPRM Comment Period End | 06/12/05 | 70 FR 23080
Final Rule | 12/16/08 | 73 FR 67794
Petition for Recon | 03/12/09 | 74 FR 10739
Next Action Undetermined

Regulatory Flexibility Analysis Required: Yes.

Agency Contact: Michael Connelly, Attorney Advisor, Federal Communications Commission, Wireless Telecommunications Bureau, 445 12th Street, SW., Washington, DC 20554, Phone: 202 418-0132, E-mail: michael.connelly@fcc.gov.

RIN: 3060-AJ22

415. Amendment of Part 101 To Accommodate 30 MHZ Channels in the 6525-6875 MHZ Band and Provide Conditional Authorization on Channels in the 21.8-22.0 and 23.0-23.2 GHZ Band (WT Docket No. 04-114)

Legal Authority: 47 U.S.C. 151 and 152; 47 U.S.C. 154(i); 47 U.S.C. 157; 47 U.S.C. 160; 47 U.S.C. 201; 47 U.S.C. 214; 47 U.S.C. 301 to 303; 47 U.S.C. 307 to 310; 47 U.S.C. 319; 47 U.S.C. 324; 47 U.S.C. 332 and 333

Abstract: The Commission seeks comments on modifying its rules to authorize channels with bandwidths of as much as 30 MHz in the 6525-6875 MHz band. We also propose to allow conditional authorization on additional channels in the 21.8-22.0 and 23.0-23.2 GHz bands.

Timetable:

Action | Date | FR Cite
NPRM | 06/29/09 | 74 FR 36134
NPRM Comment Period End | 07/22/09
R&O | 06/11/10 | 75 FR 41767
Next Action Undetermined

Regulatory Flexibility Analysis Required: Yes.

Agency Contact: John Schauble, Deputy Chief, Broadband Division, WTB, Federal Communications Commission, 445 12th Street, SW., Washington, DC 20554, Phone: 202 418-0797, E-mail: john.schauble@fcc.gov.

RIN: 3060-AJ28

416. In the Matter of Service Rules for the 698 to 746, 747 to 762 and 777 to 792 MHZ Bands

Legal Authority: 47 U.S.C. 151; 47 U.S.C. 154(i); 47 U.S.C. 303(r); 47 U.S.C. 309

Abstract: This is one of several docketed proceedings involved in the establishment of rules governing wireless licenses in the 698-806 MHz Band (the 700 MHz Band). This spectrum is being vacated by television broadcasters in TV Channels 52-69. It is being made available for wireless services, including public safety and commercial services, as a result of the digital television (DTV) transition. This docket has to do with service rules for the commercial services, and is known as the 700 MHz Commercial Services proceeding.

Timetable:

Action | Date | FR Cite
NPRM | 08/03/06 | 71 FR 48506
NPRM | 09/20/06
FNPRM | 05/02/07 | 72 FR 24238
FNPRM Comment Period End | 05/23/07
R&O | 07/31/07 | 72 FR 48814
Order on Recon | 09/24/07 | 72 FR 56015
Second FNPRM | 05/14/08 | 73 FR 29582
Second FNPRM Comment Period End | 06/20/08
Third FNPRM | 09/05/08 | 73 FR 57750
Third FNPRM Comment Period End | 11/03/08
Second R&O | 02/20/09 | 74 FR 8868
Final Rule | 03/04/09 | 74 FR 8868
Next Action Undetermined

Regulatory Flexibility Analysis Required: Yes.

Agency Contact: Paul D'Ari, Spectrum and Competition Policy Division, Wireless Bureau, Federal Communications Commission, 445 12th Street, SW., Washington, DC 20554, Phone: 202 418-1550, Fax: 202 418-7447, E-mail: paul.dari@fcc.gov.

RIN: 3060-AJ35

417. National Environmental Act Compliance for Proposed Tower Registrations; In the Matter of Effects on Migratory Birds

Legal Authority: 47 U.S.C. 151; 47 U.S.C. 154(i); 47 U.S.C. 303(q); 47 U.S.C. 303(r); 47 U.S.C. 309(g); 42 U.S.C. 4321 et seq.

Abstract: On April 14, 2009, American Bird Conservancy, Defenders of Wildlife, and National Audubon Society filed a Petition for Expedited Rulemaking and Other Relief. The petitioners request that the Commission adopt on an expedited basis a variety of new rules, which they assert are necessary to comply with environmental statutes and their implementing regulations. This proceeding addresses the Petition for Expedited Rulemaking and Other Relief.

Timetable:

Action | Date | FR Cite
NPRM | 11/22/06 | 71 FR 67510
NPRM Comment Period End | 02/20/07
New NPRM Comment Period End | 05/23/07
Next Action Undetermined

Regulatory Flexibility Analysis Required: Yes.

Agency Contact: Jeff Steinberg, Deputy Chief, Spectrum and Competition Div, WTB, Federal Communications Commission, Wireless Telecommunications Bureau, 445 12th Street, SW., Washington, DC 20554, Phone: 202 418-0896.

RIN: 3060-AJ36

418. Amendment of Part 90 of the Commission's Rules

Legal Authority: 47 U.S.C. 154; 47 U.S.C. 303

Abstract: This proceeding considers rule changes impacting miscellaneous part 90 Private Land Mobile Radio rules.

Timetable:

Action | Date | FR Cite
NPRM | 06/13/07 | 72 FR 32582
FNPRM | 04/14/10 | 75 FR 19340
Order on Recon (Release Date) | 06/07/10
Next Action Undetermined

Regulatory Flexibility Analysis Required: Yes.

Agency Contact: Rodney P Conway, Engineer, Federal Communications Commission, Wireless Telecommunications Bureau, 445 12th Street, SW., Washington, DC 20554, Phone: 202 418-2904, Fax: 202 418-1944, E-mail: rodney.conway@fcc.gov.

RIN: 3060-AJ37

419. Amendment of Part 101 of the Commission's Rules for Microwave Use and Broadcast Auxiliary Service Flexibility

Legal Authority: 47 U.S.C. 151 and 152; 47 U.S.C. 154 (i) and 157; 47 U.S.C. 160 and 201; 47 U.S.C. 214; 47 U.S.C. 301 to 303; 47 U.S.C. 307 to 310; 47 U.S.C. 319 and 324; 47 U.S.C. 332 and 333

Abstract: In this document, the Commission commences a proceeding to remove regulatory barriers to the use of spectrum for wireless backhaul and other point-to-point and point-to-multipont communications.

Timetable:

Action | Date | FR Cite
NPRM | 08/05/10 | 75 FR 52185
NPRM Comment Period End | 11/22/10
Next Action Undetermined

Regulatory Flexibility Analysis Required: Yes.

Agency Contact: John Schauble, Deputy Chief, Broadband Division, WTB, Federal Communications Commission, 445 12th Street SW., Washington, DC 20554, Phone: 202 418-0797, E-mail: john.schauble@fcc.gov.

RIN: 3060-AJ47

420. 2004 and 2006 Biennial Regulatory Reviews—Streamlining and Other Revisions of the Commission's Rules Governing Construction, Marking, and Lighting of Antenna Structures

Legal Authority: 47 U.S.C. 154(i)-(j) and 161; 47 U.S.C. 303(q)

Abstract: In this NPRM, in WT Docket No. 10-88, the Commission seeks comment on revisions to part 17 of the Commission's rules governing construction, marking, and lighting of antenna structures. The Commission initiated this proceeding to update and modernize the part 17 rules. These proposed revisions are intended to improve compliance with these rules and allow the Commission to enforce them more effectively, helping to better ensure the safety of pilots and aircraft passengers nationwide. The proposed revisions would also remove outdated and burdensome requirements without compromising the Commission's statutory responsibility to prevent antenna structures from being hazards or menaces to air navigation.

Timetable:

Action | Date | FR Cite
NPRM | 05/21/10 | 75 FR 28517
NPRM Comment Period End | 07/20/10
NPRM Reply Comment Period End | 08/19/10
Next Action Undetermined

Regulatory Flexibility Analysis Required: Yes.

Agency Contact: John Borkowski, Attorney-Advisor, Federal Communications Commission, 2025 M Street, NW., Washington, DC 20554, Phone: 202 634-2443.

RIN: 3060-AJ50

421. • Universal Service Reform Mobility Fund (WT Docket No. 10-208)

Legal Authority: 47 U.S.C. 151; 47 U.S.C. 154(i); 47 U.S.C. 155; 47 U.S.C. 160; 47 U.S.C. 201; 47 U.S.C. 205; 47 U.S.C. 225; 47 U.S.C. 254; 47 U.S.C. 301; 47 U.S.C. 303; 47 U.S.C. 303(c); 47 U.S.C. 303(f); 47 U.S.C. 303(r); 47 U.S.C. 303(y); 47 U.S.C. 309; 47 U.S.C. 310

Abstract: This proceeding proposes the creation of the Mobility Fund to provide an initial infusion of funds toward solving persistent gaps in mobile services through targeted, one-time support for the build-out of current-and next-generation wireless infrastructure in areas where these services are unavailable.

Timetable:

Action | Date | FR Cite
NPRM | 10/14/10 | 75 FR 67060
NPRM Comment Period End | 01/18/11
Next Action Undetermined

Regulatory Flexibility Analysis Required: Yes.

Agency Contact: Scott Mackoul, Attorney Advisor, Federal Communications Commission, Wireless Telecommunications Bureau, 445 12th Street, SW., Washington, DC 20554, Phone: 202 418-0660.

RIN: 3060-AJ58

422. • Fixed and Mobile Services in the Mobile Satellite Service Bands at 1525-1559 MHZ and 1626.5-1660.5 MHZ, 1610-1626.5 MHZ and 2483.5-2500 MHZ, and 2000-2020 MHZ and 2180-2200 MHZ

Legal Authority: 47 U.S.C. 151 and 154; 47 U.S.C. 303 and 310

Abstract: The Commission proposes steps to make additional spectrum available for new investment in mobile broadband networks while ensuring that the United States maintains robust mobile satellite service capabilities. Mobile broadband is emerging as one of America's most dynamic innovation and economic platforms. Yet tremendous demand growth will soon test the limits of spectrum availability. 90 megahertz of spectrum allocated to the Mobile Satellite Service (MSS)—in the 2 GHz band, Big LEO band, and L-band—are potentially available for terrestrial mobile broadband use. The Commission seeks to remove regulatory barriers to terrestrial use, and to promote additional investments, such as those recently made possible by a transaction between Harbinger Capital Partners and SkyTerra Communications, while retaining sufficient market-wide MSS capability. The Commission proposes to add co-primary Fixed and Mobile allocations to the 2 GHz band, consistent with the International Table of Allocations. This allocation modification is a precondition for more flexible licensing of terrestrial services within the band. Second, the Commission proposes to apply the Commission's secondary market policies and rules applicable to terrestrial services to all transactions involving the use of MSS bands for terrestrial services in order to create greater predictability and regulatory parity with bands licensed for terrestrial mobile broadband service. The Commission also requests comment on further steps we can take to increase the value, utilization, innovation, and investment in MSS spectrum generally.

Timetable:

Action | Date | FR Cite
NPRM | 07/15/10 | 75 FR 49871
NPRM Comment Period End | 09/30/10
Next Action Undetermined

Regulatory Flexibility Analysis Required: Yes.

Agency Contact: Jeremy Marcus, Asst. Division Chief, Broadband Div., Federal Communications Commission, Wireless Telecommunications Bureau, 445 12th Street, SW., Washington, DC 20554, Phone: 202 418-1530, Fax: 202 418-1567, E-mail: jeremy.marcus@fcc.gov.

RIN: 3060-AJ59

FEDERAL COMMUNICATIONS COMMISSION (FCC)

Wireless Telecommunications Bureau

Completed Actions

423. 2000 Biennial Regulatory Review Spectrum Aggregation Limits For Commercial Mobile Radio Services

Legal Authority: 47 U.S.C. 151; 47 U.S.C. 154(i); 47 U.S.C. 161; 47 U.S.C. 303(g); 47 U.S.C. 303(r)

Abstract: The Commission has adopted a final rule in a proceeding reexamining the need for Commercial Mobile Radio Services spectrum aggregation limits.

Timetable:

Action | Date | FR Cite
NPRM | 02/12/01 | 66 FR 9798
NPRM Comment Period End | 05/14/01 |
Final Rule | 01/14/02 | 67 FR 1626
Correction to Final Rule | 01/31/02 | 67 FR 4675
Petition for Recon | 03/21/02 | 67 FR 13183

Regulatory Flexibility Analysis Required: Yes.

Agency Contact: Michael J. Rowan, Special Counsel, Federal Communications Commission, 445 12th Street, SW., Washington, DC 20554, Phone: 202 418-1883, Fax: 202 418-7447 E-mail: michael.rowan@fcc.gov.

RIN: 3060-AH81

424. In the Matter of Promoting Efficient Use of Spectrum Through Elimination of Barriers to the Development of Secondary Markets

Legal Authority: 47 U.S.C. 151; 47 U.S.C. 154(i); 47 U.S.C. 157; 47 U.S.C. 160; 47 U.S.C. 201 and 202; 47 U.S.C. 208; 47 U.S.C. 214; 47 U.S.C. 301; 47 U.S.C. 303; 47 U.S.C. 308 to 310

Abstract: The Commission has opened a proceeding to examine actions it may take to remove unnecessary regulatory barriers to the development of more robust secondary markets in radio spectrum usage rights.

Timetable:

Action | Date | FR Cite
NPRM | 12/26/00 | 65 FR 81475
Correction | 01/29/01 | 66 FR 8149
NPRM Comment Period End | 02/09/01 |
NPRM | 11/25/03 | 68 FR 66232
Final Rule | 11/25/03 | 68 FR 66252
NPRM Comment Period End | 01/05/04 |
Final Rule | 02/12/04 | 69 FR 6920
Final Rule | 02/25/04 | 69 FR 8569
Final Rule | 11/15/04 | 69 FR 65544
Final Rule | 12/27/04 | 69 FR 77522
NPRM | 12/27/04 | 69 FR 77560
Final Rule | 08/01/07 | 72 FR 41935
Final Rule | 01/26/09 | 74 FR 4344

Regulatory Flexibility Analysis Required: Yes.

Agency Contact: Paul D'Ari, Spectrum and Competition Policy Division, Wireless Bureau, Federal Communications Commission, 445 12th Street, SW., Washington, DC 20554, Phone: 202 418-1550, Fax: 202 418-7447, E-mail: paul.dari@fcc.gov.

RIN: 3060-AH82

FEDERAL COMMUNICATIONS COMMISSION (FCC)

Wireline Competition Bureau

Long-Term Actions

425. Implementation of the Universal Service Portions of the 1996 Telecommunications Act

Legal Authority: 47 U.S.C. 151 et seq.

Abstract: The goals of Universal Service, as mandated by the 1996 Act, are to promote the availability of quality services at just, reasonable, and affordable rates; increase access to advanced telecommunications services throughout the Nation; advance the availability of such services to all consumers, including those in low income, rural, insular, and high cost areas at rates that are reasonably comparable to those charged in urban areas. In addition, the 1996 Act states that all providers of telecommunications services should contribute to Federal universal service in some equitable and nondiscriminatory manner; there should be specific, predictable, and sufficient Federal and State mechanisms to preserve and advance universal service; all schools, classrooms, health care providers, and libraries should, generally, have access to advanced telecommunications services; and finally, that the Federal-State Joint Board and the Commission should determine those other principles that, consistent with the 1996 Act, are necessary to protect the public interest. More recently, modernization efforts for continuous improvements to the universal service programs are being realized consistent and in keeping with the goals envisioned by the National Broadband Plan.

On February 19, 2010, the Commission released an Order and Notice of Proposed Rulemaking that enabled schools that receive funding from the E-rate program to allow members of the general public to use the schools' Internet access during non-operating hours through funding year 2010 (July 1, 2010 through June 30, 2010) and sought comment on revising its rules to make this change permanent.

On March 18, 2010, the Commission issued a Report & Order and Memorandum Opinion & Order. In this order, the Commission addressed an inequitable asymmetry in the Commission's current rules governing the receipt of universal service high-cost local switching support (LSS) by small incumbent local exchange carriers (LECs). By modifying the Commission's rules to permit incumbent LECs that lose lines to receive additional LSS when they cross a threshold, the order provides LSS to all small LECs on the same basis. Nothing in the order is intended to address the long-term role of LSS in the Commission's high-cost universal service policies, which the Commission is considering as part of comprehensive universal service reform. April 16, 2010, the Commission issued an Order and NPRM addressing high-cost universal service support for non-rural carriers serving insular areas. In the NPRM, the Commission sought comment on amending its rules to provide additional low-income support in Puerto Rico.

On April 21, 2010, the Commission issued a Notice of Inquiry and Notice of Proposed Rulemaking, the first in a series of proceedings to kick off universal service support reform that is key to making broadband service available for millions of Americans who lack access. This NOI and NPRM sought comment on first steps to reform the distribution of universal service high-cost support.

Timetable:

Action | Date | FR Cite
Recommended Decision Federal-State Joint Board, Universal Service | 11/08/96 | 61 FR 63778
First R&O | 05/08/97 | 62 FR 32862
Second R&O | 05/08/97 | 62 FR 32862
Order on Recon | 07/10/97 | 62 FR 40742
R&O and Second Order on Recon | 07/18/97 | 62 FR 41294
Second R&O, and FNPRM | 08/15/97 | 62 FR 47404
Third R&O | 10/14/97 | 62 FR 56118
Second Order on Recon | 11/26/97 | 62 FR 65036
Fourth Order on Recon | 12/30/97 | 62 FR 2093
Fifth Order on Recon | 06/22/98 | 63 FR 43088
Fifth R&O | 10/28/98 | 63 FR 63993
Eighth Order on Recon | 11/21/98
Second Recommended Decision | 11/25/98 | 63 FR 67837
Thirteenth Order on Recon | 06/09/99 | 64 FR 30917
FNPRM | 06/14/99 | 64 FR 31780
FNPRM | 09/30/99 | 64 FR 52738
Fourteenth Order on Recon | 11/16/99 | 64 FR 62120
Fifteenth Order on Recon | 11/30/99 | 64 FR 66778
Tenth R&O | 12/01/99 | 64 FR 67372
Ninth R&O and Eighteenth Order on Recon | 12/01/99 | 64 FR 67416
Nineteenth Order on Recon | 12/30/99 | 64 FR 73427
Twentieth Order on Recon | 05/08/00 | 65 FR 26513
Public Notice | 07/18/00 | 65 FR 44507
Twelfth R&O, MO&O and FNPRM | 08/04/00 | 65 FR 47883
FNPRM and Order | 11/09/00 | 65 FR 67322
FNPRM | 01/26/01 | 66 FR 7867
R&O and Order on Recon | 03/14/01 | 66 FR 16144
NPRM | 05/08/01 | 66 FR 28718
Order | 05/22/01 | 66 FR 35107
Fourteenth R&O and FNPRM | 05/23/01 | 66 FR 30080
FNPRM and Order | 01/25/02 | 67 FR 7327
NPRM | 02/15/02 | 67 FR 9232
NPRM and Order | 02/15/02 | 67 FR 10846
FNPRM and R&O | 02/26/02 | 67 FR 11254
NPRM | 04/19/02 | 67 FR 34653
Order and Second FNPRM | 12/13/02 | 67 FR 79543
NPRM | 02/25/03 | 68 FR 12020
Public Notice | 02/26/03 | 68 FR 10724
Second R&O and FNPRM | 06/20/03 | 68 FR 36961
Twenty-Fifth Order on Recon, R&O, Order, and FNPRM | 07/16/03 | 68 FR 41996
NPRM | 07/17/03 | 68 FR 42333
Order | 07/24/03 | 68 FR 47453
Order | 08/06/03 | 68 FR 46500
Order and Order on Recon | 08/19/03 | 68 FR 49707
Order on Remand, MO&O, FNPRM | 10/27/03 | 68 FR 69641
R&O, Order on Recon, FNPRM | 11/17/03 | 68 FR 74492
R&O, FNPRM | 02/26/04 | 69 FR 13794
R&O, FNPRM | 04/29/04
NPRM | 05/14/04 | 69 FR 3130
NPRM | 06/08/04 | 69 FR 40839
Order | 06/28/04 | 69 FR 48232
Order on Recon & Fourth R&O | 07/30/04 | 69 FR 55983
Fifth R&O and Order | 08/13/04 | 69 FR 55097
Order | 08/26/04 | 69 FR 57289
Second FNPRM | 09/16/04 | 69 FR 61334
Order & Order on Recon | 01/10/05 | 70 FR 10057
Sixth R&O | 03/14/05 | 70 FR 19321
R&O | 03/17/05 | 70 FR 29960
MO&O | 03/30/05 | 70 FR 21779
NPRM & FNPRM | 06/14/05 | 70 FR 41658
Order | 10/14/05 | 70 FR 65850
Order | 10/27/05
NPRM | 01/11/06 | 71 FR 1721
Report Number 2747 | 01/12/06 | 71 FR 2042
Order | 02/08/06 | 71 FR 6485
FNPRM | 03/15/06 | 71 FR 13393
R&O and NPRM | 07/10/06 | 71 FR 38781
Order | 01/01/06 | 71 FR 6485
Order | 05/16/06 | 71 FR 30298
MO&O and FNPRM | 05/16/06 | 71 FR 29843
R&O | 06/27/06 | 71 FR 38781
Public Notice | 08/11/06 | 71 FR 50420
Order | 09/29/06 | 71 FR 65517
Public Notice | 03/12/07 | 72 FR 36706
Public Notice | 03/13/07 | 72 FR 40816
Public Notice | 03/16/07 | 72 FR 39421
Notice of Inquiry | 04/16/07
NPRM | 05/14/07 | 72 FR 28936
Recommended Decision | 11/20/07
Order | 02/14/08 | 73 FR 8670
NPRM | 03/04/08 | 73 FR 11580
NPRM | 03/04/08 | 73 FR 11591
R&O | 05/05/08 | 73 FR 11837
Public Notice | 07/02/08 | 73 FR 37882
NPRM | 08/19/08 | 73 FR 48352
Notice of Inquiry | 10/14/08 | 73 FR 60689
Order on Remand, R&O, FNPRM | 11/12/08 | 73 FR 66821
R&O | 05/22/09 | 74 FR 2395
Order & NPRM | 03/24/10 | 75 FR 10199
R&O and MO&O | 04/08/10 | 75 FR 17872
NOI and NPRM | 05/13/10 | 75 FR 26906
Order and NPRM | 05/28/10 | 75 FR 30024
NPRM | 06/09/10 | 75 FR 32699
NPRM | 08/09/10 | 75 FR 48236
NPRM | 09/21/10 | 75 FR 56494
R&O | 12/03/10 | 75 FR 75393
Order | 01/27/11 | 76 FR 4827
Order (Release Date) | 02/09/11
Next Action Undetermined

Regulatory Flexibility Analysis Required: Yes

Agency Contact: Nakesha Woodward, Program Support Assistant, Federal Communications Commission, 445 12th Street SW., Washington, DC 20554, Phone: 202 418-1502, E-mail: kesha.woodward@fcc.gov.

RIN: 3060-AF85

426. Telecommunications Carriers' Use of Customer Proprietary Network Information and Other Customer Information

Legal Authority: 47 U.S.C. 151; 47 U.S.C. 154; 47 U.S.C. 222; 47 U.S.C. 272; 47 U.S.C. 303(r)

Abstract: The Commission adopted rules implementing the new statutory framework governing carrier use and disclosure of customer proprietary network information (CPNI) created by section 222 of the Communications Act of 1934, as amended. CPNI includes, among other things, to whom, where, and when a customer places a call, as well as the types of service offerings to which the customer subscribes and the extent to which the service is used.

Timetable:

Action | Date | FR Cite
NPRM | 05/28/96 | 61 FR 26483
Public Notice | 02/25/97 | 62 FR 8414
Second R&O and FNPRM | 04/24/98 | 63 FR 20364
Order on Recon | 10/01/99 | 64 FR 53242
Final Rule, Announcement of Effective Date | 01/26/01 | 66 FR 7865
Clarification Order and Second NPRM | 09/07/01 | 66 FR 50140
Third R&O and Third FNPRM | 09/20/02 | 67 FR 59205
NPRM | 03/15/06 | 71 FR 13317
NPRM | 06/08/07 | 72 FR 31782
Final Rule, Announcement of Effective Date | 06/08/07 | 72 FR 31948
Next Action Undetermined.

Regulatory Flexibility Analysis Required: Yes.

Agency Contact: Melissa Kirkel, Attorney-Advisor, WCB, Federal Communications Commission, 445 12th Street SW., Washington, DC 20554, Phone: 202 418-7958, Fax: 202 418-1413, E-mail: melissa.kirkel@fcc.gov.

RIN: 3060-AG43

427. Implementation of the Local Competition Provisions of the Telecommunications Act of 1996

Legal Authority: 47 U.S.C. 151 to 155; 47 U.S.C. 157; 47 U.S.C. 201 to 205; 47 U.S.C. 207 to 209; 47 U.S.C. 218; 47 U.S.C. 251

Abstract: On August 8, 1996, the Commission adopted the Local Competition Second Report and Order (FCC 96-333), implementing the dialing parity, nondiscriminatory access, network disclosure, and numbering administration provisions of the Telecommunications Act of 1996. On July 19, 1999, the Commission released the First Order on Reconsideration (FCC 99-170), denying the petition for reconsideration of the Local Competition Second Report and Order filed by Beehive Telephone Company, Inc., which related to numbering administration.

On September 9, 1999, the Commission released the Second Order on Reconsideration (FCC 99-227), resolving petitions for reconsideration of rules adopted in the Local Competition Second Report and Order to implement the requirement of 47 U.S.C. section 251(b)(3) that LECs provide non-discriminatory access to directory assistance, directory listing, and operator services. At the same time, the Commission released a Notice of Proposed Rulemaking (NPRM) (also FCC 99-227) seeking comment on issues related to developments in, and the convergence of, directory publishing and directory assistance.

On October 21, 1999, the Commission released the Third Order on Reconsideration (FCC 99-243), resolving the remaining petitions for reconsideration regarding numbering administration under 47 U.S.C. section 251(e)(1). On January 23, 2001, the Commission released a First Report and Order (FCC 01-27) resolving issues raised in the September 9, 1999 NPRM and concluding, among other things, that competing directory assistance (DA) providers that are certified as competitive local exchange carriers (competitive LECs), are agents of competitive LECs, or that offer call completion services are entitled to nondiscriminatory access to LEC local DA databases.

On January 9, 2002, the Commission released the Directory Assistance NPRM (FCC 01-384), in which the Commission solicited comment on whether there is sufficient competition in the retail DA market, and if not, what if any action the Commission should take to promote such competition. The Commission sought specific comment on whether alternative dialing methods would promote competition. Proposed methods include: (1) Presubscription to 411; (2) utilizing national 555 numbers; (3) utilizing carrier access codes (1010 numbers); and (4) utilizing 411XX numbers. The Commission also sought comment on whether the 411 dialing code should be eliminated. This proceeding is pending before the Commission.

On January 29, 2002, the Commission released an Order on Reconsideration (FCC 02-11) dismissing petitions for reconsideration or clarification of the Local Competition Second Report and Order regarding dialing parity under 47 U.S.C. section 251(b)(3) and network disclosure under 47 U.S.C. section 251(c)(5).

On May 3, 2005, the Commission released an Order on Reconsideration (FCC 05-93) resolving petitions for reconsideration of the Second Order on Reconsideration and the First Report and Order. The Commission clarified its rules regarding the use of DA data obtained pursuant to section 251(b)(3) of the Act, and denied BellSouth and SBC's joint petition for reconsideration which sought authority to place contractual restrictions on competing DA providers' use of DA information. The Commission reaffirmed that LECs are required to provide nondiscriminatory access to their entire local DA database including local DA data acquired from third parties. The Commission also accepted Qwest's request to withdraw its petition for reconsideration of the First Report and Order, and resolved SBC's petition for reconsideration of the Second Order on Reconsideration.

Timetable:

Action | Date | FR Cite
NPRM | 04/25/96 | 61 FR 18311
NPRM Reply Comment Period End | 06/03/96 |
Second R&O | 09/06/96 | 61 FR 47284
Second Order on Recon | 09/27/99 | 64 FR 51910
NPRM | 09/27/99 | 64 FR 51949
Third Order on Recon | 11/18/99 | 64 FR 62983
First R&O | 02/21/01 | 66 FR 10965
NPRM | 02/14/02 | 67 FR 6902
Order on Recon | 08/17/05 | 70 FR 48290
Next Action Undetermined.

Regulatory Flexibility Analysis Required: Yes.

Agency Contact: Rodney McDonald, Attorney-Advisor, Federal Communications Commission, Wireline Competition Bureau, 445 12th Street SW., Washington, DC 20554, Phone: 202 418-7513, E-mail: rodney.mcdonald@fcc.gov.

RIN: 3060-AG50

428. Local Telephone Networks that LECS Must Make Available to Competitors

Legal Authority: 47 U.S.C. 251

Abstract: The Commission adopted rules applicable to incumbent local exchange carriers (LECs) to permit competitive carriers to access portions of the incumbent LECs' networks on an unbundled basis. Unbundling allows competitors to lease portions of the incumbent LECs' network to provide telecommunications services. These rules are intended to accelerate the development of local exchange competition.

Timetable:

Action | Date | FR Cite
Second FNPRM | 04/26/99 | 64 FR 20238
Fourth FNPRM | 01/14/00 | 65 FR 2367
Errata Third R&O and Fourth FNPRM | 01/18/00 | 65 FR 2542
Second Errata Third R&O and Fourth FNPRM | 01/18/00 | 65 FR 2542
Supplemental Order | 01/18/00 | 65 FR 2542
Third R&O | 01/18/00 | 65 FR 2542
Correction | 04/11/00 | 65 FR 19334
Supplemental Order Clarification | 06/20/00 | 65 FR 38214
Public Notice | 02/01/01 | 66 FR 8555
Public Notice | 03/05/01 | 66 FR 18279
Public Notice | 04/10/01 |
Public Notice | 04/23/01 |
Public Notice | 05/14/01 |
NPRM | 01/15/02 | 67 FR 1947
Public Notice | 05/29/02 |
Public Notice | 08/01/02 |
Public Notice | 08/13/02 |
NPRM | 08/21/03 | 68 FR 52276
R&O and Order on Remand | 08/21/03 | 68 FR 52276
Errata | 09/17/03 |
Report | 10/09/03 | 68 FR 60391
Order | 10/28/03 |
Order | 01/09/04 |
Public Notice | 01/09/04 |
Public Notice | 02/18/04 |
Order | 07/08/04 |
Second R&O | 07/08/04 | 69 FR 43762
Order on Recon | 08/09/04 | 69 FR 54589
Interim Order | 08/20/04 | 69 FR 55111
NPRM | 08/20/04 | 69 FR 55128
Public Notice | 09/10/04 |
Public Notice | 09/13/04 |
Public Notice | 10/20/04 |
Order on Recon | 12/29/04 | 69 FR 77950
Order on Remand | 02/04/04 |
Public Notice | 04/25/05 | 70 FR 29313
Public Notice | 05/25/05 | 70 FR 34765
Next Action Undetermined.

Regulatory Flexibility Analysis Required: Yes.

Agency Contact: Tim Stelzig, Associate Chief, Competition Policy Division, Federal Communications Commission, Wireline Competition Bureau, 445 12th Street SW., Washington, DC 20554, Phone: 202 418-0942, E-mail: tim.stelzig@fcc.gov

RIN: 3060-AH44

429. 2000 Biennial Regulatory Review—Telecommunications Service Quality Reporting Requirements

Legal Authority: 47 U.S.C. 154(i) and 154(j); 47 U.S.C. 201(b); 47 U.S.C. 303(r); 47 U.S.C. 403

Abstract: This NPRM proposes to eliminate our current service quality reports (ARMIS Report 43-05 and 43-06) and replace them with a more consumer-oriented report. The NPRM proposes to reduce the reporting categories from more than 30 to 6, and addresses the needs of carriers, consumers, state public utility commissions, and other interested parties.

Timetable:

Action | Date | FR Cite
NPRM | 12/04/00 | 65 FR 75657
Order | 02/06/02 | 67 FR 5670
Next Action Undetermined.

Regulatory Flexibility Analysis Required: Yes.

Agency Contact: Jeremy Miller, Deputy Chief, Industry Analysis and Technology Div., Federal Communications Commission, Wireline Competition Bureau, 445 12th Street SW., Washington, DC 20554, Phone: 202 418-1507, Fax: 202 418-1413, E-mail: jeremy.miller@fcc.gov.

RIN: 3060-AH72

430. Access Charge Reform and Universal Service Reform

Legal Authority: 47 U.S.C. 151; 47 U.S.C. 154(i) and 154(j); 47 U.S.C. 201 to 205; 47 U.S.C. 254; 47 U.S.C. 403

Abstract: On October 11, 2001, the Commission adopted an Order reforming the interstate access charge and universal service support system for rate-of-return incumbent carriers. The Order adopts three principal reforms. First, the Order modifies the interstate access rate structure for small carriers to align it more closely with the manner in which costs are incurred. Second, the Order removes implicit support for universal service from the rate structure and replaces it with explicit, portable support. Third, the Order permits small carriers to continue to set rates based on the authorized rate of return of 11.25 percent. The Order became effective on January 1, 2002, and the support mechanism established by the Order was implemented beginning July 1, 2002.

The Commission also adopted a Further Notice of Proposed Rulemaking (FNPRM) seeking additional comment on proposals for incentive regulation, increased pricing flexibility for rate-of-return carriers, and proposed changes to the Commission's “all-or-nothing” rule. Comments on the FNPRM were due on February 14, 2002, and reply comments on March 18, 2002.

On February 12, 2004, the Commission adopted a Second Report and Order resolving several issues on which the Commission sought comment in the FNPRM. First, the Commission modified the “all-or-nothing” rule to permit rate-of-return carriers to bring recently acquired price cap lines back to rate-of-return regulation. Second, the Commission granted rate-of-return carriers the authority immediately to provide geographically deaveraged transport and special access rates, subject to certain limitations. Third, the Commission merged Long Term Support (LTS) with Interstate Common Line Support (ICLS).

The Commission also adopted a Second FNPRM seeking comment on two specific plans that propose establishing optional alternative regulation mechanisms for rate-of-return carriers. In conjunction with the consideration of those alternative regulation proposals, the Commission sought comment on modification that would permit a rate-of-return carrier to adopt an alternative regulation plan for some study areas, while retaining rate-of-return regulation for other of its study areas. Comments on the Second FNPRM were due on April 23, 2004, and May 10, 2004.

Timetable:

Action | Date | FR Cite
NPRM | 01/25/01 | 66 FR 7725
NPRM Comment Period End | 02/26/01 |
FNPRM | 11/30/01 | 66 FR 59761
FNPRM Comment Period End | 12/31/01 |
R&O | 11/30/01 | 66 FR 59719
Second FNPRM | 03/23/04 | 69 FR 13794
Second FNPRM Comment Period End | 04/23/04 |
Order | 05/06/04 | 69 FR 25325
Next Action Undetermined

Regulatory Flexibility Analysis Required: Yes.

Agency Contact: Douglas Slotten, Attorney-Advisor, Federal Communications Commission, Wireline Competition Bureau, 445 12th Street SW., Washington, DC 20554, Phone: 202 418-1572, E-mail: douglas.slotten@fcc.gov.

RIN: 3060-AH74

431. Numbering Resource Optimization

Legal Authority: 47 U.S.C. 151; 47 U.S.C. 154; 47 U.S.C. 201 et seq.; 47 U.S.C. 251(e)

Abstract: In 1999, the Commission released the Numbering Resource Optimization Notice of Proposed Rulemaking (Notice) in CC Docket 99-200. The Notice examined and sought comment on several administrative and technical measures aimed at improving the efficiency with which telecommunications numbering resources are used and allocated. It incorporated input from the North American Numbering Council (NANC), a Federal advisory committee, which advises the Commission on issues related to number administration. In the Numbering Resource Optimization First Report and Order and Further Notice of Proposed Rulemaking (NRO First Report and Order), released on March 31, 2000, the Commission adopted a mandatory utilization data reporting requirement, a uniform set of categories of numbers for which carriers must report their utilization, and a utilization threshold framework to increase carrier accountability and incentives to use numbers efficiently. In addition, the Commission adopted a single system for allocating numbers in blocks of 1,000, rather than 10,000, wherever possible, and established a plan for national rollout of thousands-block number pooling. The Commission also adopted numbering resource reclamation requirements to ensure that unused numbers are returned to the North American Numbering Plan (NANP) inventory for assignment to other carriers. Also, to encourage better management of numbering resources, carriers are required, to the extent possible, to first assign numbering resources within thousands blocks (a form of sequential numbering).

In the NRO Second Report and Order, the Commission adopted a measure that requires all carriers to use at least 60 percent of their numbering resources before they may get additional numbers in a particular area. That 60 percent utilization threshold increases to 75 percent over the next 3 years. The Commission also established a 5-year term for the national Pooling Administrator and an auditing program to verify carrier compliance with the Commission's rules. Furthermore, the Commission addressed several issues raised in the Notice, concerning area code relief. Specifically, the Commission declined to amend the existing Federal rules for area code relief or specify any new Federal guidelines for the implementation of area code relief. The Commission also declined to state a preference for either all-services overlays or geographic splits as a method of area code relief. Regarding mandatory nationwide ten-digit dialing, the Commission declined to adopt this measure at the present time. Furthermore, the Commission declined to mandate nationwide expansion of the “D digit” (the “N” of an NXX or central office code) to include 0 or 1, or to grant state commissions the authority to implement the expansion of the D digit as a numbering resource optimization measure at the present time.

In the NRO Third Report and Order, the Commission addressed national thousands-block number pooling administration issues, including declining to alter the implementation date for covered CMRS carriers to participate in pooling. The Commission also addressed Federal cost recovery for national thousands-block number pooling, and continued to require States to establish cost recovery mechanisms for costs incurred by carriers participating in pooling trials. The Commission reaffirmed the Months-To-Exhaust (MTE) requirement for carriers. The Commission declined to lower the utilization threshold established in the Second Report and Order, and declined to exempt pooling carriers from the utilization threshold. The Commission also established a safety valve mechanism to allow carriers that do not meet the utilization threshold in a given rate center to obtain additional numbering resources.

In the NRO Third Report and Order, the Commission lifted the ban on technology-specific overlays (TSOs), and delegated authority to the Common Carrier Bureau, in consultation with the Wireless Telecommunications Bureau, to resolve any such petitions. Furthermore, the Commission found that carriers who violate our numbering requirements, or fail to cooperate with an auditor conducting either a “for cause” or random audit, should be denied numbering resources in certain instances. The Commission also reaffirmed the 180-day reservation period, declined to impose fees to extend the reservation period, and found that State commissions should be allowed password-protected access to the NANPA database for data pertaining to NPAs located within their State.

The measures adopted in the NRO orders will allow the Commission to monitor more closely the way numbering resources are used within the NANP, and will promote more efficient allocation and use of NANP resources by tying a carrier's ability to obtain numbering resources more closely to its actual need for numbers to serve its customers. These measures are designed to create national standards to optimize the use of numbering resources by: (1) Minimizing the negative impact on consumers of premature area code exhausts; (2) ensuring sufficient access to numbering resources for all service providers to enter into or to compete in telecommunications markets; (3) avoiding premature exhaust of the NANP; (4) extending the life of the NANP; (5) imposing the least societal cost possible, and ensuring competitive neutrality, while obtaining the highest benefit; (6) ensuring that no class of carrier or consumer is unduly favored or disfavored by the Commission's optimization efforts; and (7) minimizing the incentives for carriers to build and carry excessively large inventories of numbers.

In NRO Third Order on Recon in CC Docket No. 99-200, Third Further Notice of Proposed Rulemaking in CC Docket No. 99-200 and Second Further Notice of Proposed Rulemaking in CC Docket No, 95-116, the Commission reconsidered its findings in the NRO Third Report and Order regarding the local Number portability (LNP) and thousands-block number pooling requirements for carriers in the top 100 Metropolitan Statistical areas (MSAs). Specifically, the Commission reversed its clarification that those requirements extend to all carriers in the largest 100 MSAs, regardless of whether they have received a request from another carrier to provide LNP. The Commission also sought comment on whether the Commission should again extend the LNP requirements to all carriers in the largest 100 MSAs, regardless of whether they receive a request to provide LNP. The Commission also sought comment on whether all carriers in the top 100 MSAs should be required to participate in thousands-block number pooling, regardless of whether they are required to be LNP capable. In addition, the Commission sought comment on whether all MSAs included in Combined Metropolitan Statistical Areas (CMSAs) on the Census Bureau's list of the largest 100 MSAs should be included on the Commission's list of the top 100 MSAs.

In the NRO Fourth Report and Order and Further Notice of Proposed Rulemaking, the Commission reaffirmed that carriers must deploy LNP in switches within the 100 largest Metropolitan Statistical Areas (MSAs) for which another carrier has made a specific request for the provision of LNP. The Commission delegated the authority to state commissions to require carriers operating within the largest 100 MSAs that have not received a specific request for LNP from another carrier to provide LNP, under certain circumstances and on a case-by-case basis. The Commission concluded that all carriers, except those specifically exempted, are required to participate in thousands-block number pooling in accordance with the national rollout schedule, regardless of whether they are required to provide LNP, including commercial mobile radio service (CMRS) providers that were required to deploy LNP as of November 24, 2003. The Commission specifically exempted from the pooling requirement rural telephone companies and Tier III CMRS providers that have not received a request to provide LNP. The Commission also exempted from the pooling requirement carriers that are the only service provider receiving numbering resources in a given rate center. Additionally, the Commission sought further comment on whether these exemptions should be expanded to include carriers where there are only two service providers receiving numbering resources in the rate center. Finally, the Commission reaffirmed that the 100 largest MSAs identified in the 1990 U.S. Census reports as well as those areas included on any subsequent U.S. Census report of the 100 largest MSAs.

In the NRO Order and Fifth Further Notice of Proposed Rulemaking, the Commission granted petitions for delegated authority to implement mandatory thousands-block pooling filed by the Public Service Commission of West Virginia, the Nebraska Public Service Commission, the Oklahoma Corporation Commission, the Michigan Public Service Commission, and the Missouri Public Service Commission. In granting these petitions, the Commission permitted these states to optimize numbering resources and further extend the life of the specific numbering plan areas. In the Further Notice of Proposed Rulemaking, the Commission sought comment on whether it should delegate authority to all states to implement mandatory thousands-block number pooling consistent with the parameters set forth in the NRO Order.

Timetable:

Action | Date | FR Cite
NPRM | 06/17/99 | 64 FR 32471
R&O and FNPRM | 06/16/00 | 65 FR 37703
Second R&O and Second FNPRM | 02/08/01 | 66 FR 9528
Third R&O and Second Order on Recon | 02/12/02 | 67 FR 643
Third O on Recon and Third FNPRM | 04/05/02 | 67 FR 16347
Fourth R&O and Fourth NPRM | 07/21/03 | 68 FR 43003
Order and Fifth FNPRM | 03/15/06 | 71 FR 13393
Next Action Undetermined.

Regulatory Flexibility Analysis Required: Yes.

Agency Contact: Marilyn Jones, Attorney, Federal Communications Commission, Wireline Competition Bureau, 445 12th Street SW., Washington, DC 20554, Phone: 202 418-2357, Fax: 202 418-2345, E-mail: marilyn.jones@fcc.gov.

RIN: 3060-AH80

432. National Exchange Carrier Association Petition

Legal Authority: 47 U.S.C. 151 and 152; 47 U.S.C. 201 and 202; et seq.

Abstract: In a Notice of Proposed Rulemaking (NPRM) released on July 19, 2004, the Commission initiated a rulemaking proceeding to examine the proper number of end user common line charges (commonly referred to as subscriber line charges or SLCs) that carriers may assess upon customers that obtain derived channel T-1 service where the customer provides the terminating channelization equipment and upon customers that obtain Primary Rate Interface (PRI) Integrated Service Digital Network (ISDN) service.

Timetable:

Action | Date | FR Cite
NPRM | 08/13/04 | 69 FR 50141
NPRM Comment Period End | 11/12/04 |
Next Action Undetermined.

Regulatory Flexibility Analysis Required: Yes.

Agency Contact: Douglas Slotten, Attorney-Advisor, Federal Communications Commission, Wireline Competition Bureau, 445 12th Street SW., Washington, DC 20554, Phone: 202 418-1572, E-mail: douglas.slotten@fcc.gov.

RIN: 3060-AI47

433. IP-Enabled Services

Legal Authority: 47 U.S.C. 151 and 152; et seq.

Abstract: The notice seeks comment on ways in which the Commission might categorize IP-enabled services for purposes of evaluating the need for applying any particular regulatory requirements. It poses questions regarding the proper allocation of jurisdiction over each category of IP-enabled service. The notice then requests comment on whether the services comprising each category constitute “telecommunications services” or “information services” under the definitions set forth in the Act. Finally, noting the Commission's statutory forbearance authority and title I ancillary jurisdiction, the notice describes a number of central regulatory requirements (including, for example, those relating to access charges, universal service, E911, and disability accessibility), and asks which, if any, should apply to each category of IP-enabled services.

On June 16, 2005, the Commission published in the Federal Register notice that public information collections set forth in the First Report and Order were being submitted for review to the office of management and budget.

On July 27, 2005, the Commission published in the Federal Register notice that the information collection requirements adopted in the First Report and Order were approved in OMB No. 3060-1085 and would become effective on July 29, 2005.

On August 31, 2005, the Commission published in the Federal Register notice of the comment cycle for three Petitions for Reconsideration and/or Clarification of the First Report and Order. On July 10, 2006, the Commission published in the Federal Register notice that it had adopted on June 21, 2006, rules that make interim modifications to the existing approach for assessing contributions to the Federal universal service fund (USF or Fund) in order to provide stability while the Commission continues to examine more fundamental reform.

On June 8, 2007, the Commission published in the Federal Register notice that it had adopted on April 2, 2007, an item strengthening the Commission's rules to protect the privacy of customer proprietary network information (CPNI) that is collected and held by providers of communications services, and a further notice of proposed rulemaking seeking comment on what steps the Commission should take, if any, to secure further the privacy of customer information.

On August 6, 2007, the Commission published in the Federal Register notice that it had adopted on May 31, 2007, and item extending the disability access requirements that currently apply to telecommunications service providers and equipment manufacturers under section 255 of the Communications Act of 1934, as amended, to providers of “interconnected voice over Internet Protocol (VoIP) services,” as defined by the Commission, and to manufacturers of specially designed equipment used to provide those services. In addition, the Commission extended the Telecommunications Relay Services (TRS) requirements contained in its regulations to interconnected VoIP providers.

On August 7, 2007, the Commission published in the Federal Register a notice that a petition for reconsideration of the CPNI order described above had been filed.

On August 16, 2007, the Commission published in the Federal Register notice that it had adopted on August 2, 2007, an item amending the Commission's Schedule of Regulatory Fees by, inter alia, incorporating regulatory fee payment obligations for interconnected VoIP service providers, which shall become effective November 15, 2007, which is 90 days from date of notification to Congress.

On November 1, 2007, the Commission gave notice that it granted in part, denied in part, and sought comment on petitions filed by the Voice on the Net Coalition, the United States Telecom Association, and Hamilton Telephone Company seeking a stay or waiver of certain aspects of the Commission's VoIP Telecommunications Relay Services (TRS) Order (72 FR 61813; 72 FR 61882).

On December 13, 2007, the Commission announced the effective date of its revised CPNI rules (72 FR 70808).

On December 6, 2007, OMB approved the public information collection pursuant to the Paperwork Reduction Act of 1995 for the Commission's CPNI rules (72 FR 72358).

On February 21, 2008, the Commission published in the Federal Register notice that the Commission adopted rules extending local number portability obligations and numbering administration support obligations to interconnected VoIP services. The Commission also explained it had responded to the District of Columbia Circuit Court of Appeals stay of the Commission's Intermodal Number Portability Order by publishing a Final Regulatory Flexibility Act (73 FR 9463; R&O 02/21/2008).

On February 21, 2008, the Commission published in the Federal Register notice that it sought comment on other changes to its LNP and numbering related rules, including whether to extend such rules to interconnected VoIP providers (73 FR 9507).

On August 6, 2007, the Commission published in the Federal Register notice that it had extended Telecommunications Relay Services (TRS) regulations to interconnected VoIP providers and extended certain disability access requirements to interconnected VoIP providers and to manufacturers of specially designed equipment used to provide such service (72 FR 43546).

On May 15, 2008, the Commission's Consumer and Governmental Affairs Bureau (CGB) published in the Federal Register notice that it had granted interconnected VoIP providers an extension of time to route 711-dialed calls to an appropriate telecommunications relay service (TRS) center in certain circumstances (73 FR 28057). On July 29, 2009, CGB published notice in the Federal Register that it was granting another extension. (74 FR 37624).

On August 7, 2009, the Commission published a notice in the Federal Register that it had amended its rules so that providers of interconnected VoIP service must comply with the same discontinuance rules as domestic non-dominant telecommunications carriers. (74 FR 39551).

Timetable:

Action | Date | FR Cite
NPRM | 03/29/04 | 69 FR 16193
NPRM Comment Period End | 07/14/04 |
First R&O | 06/03/05 | 70 FR 37273
Public Notice | 06/16/05 | 70 FR 37403
First R&O Effective | 07/29/05 | 70 FR 43323
Public Notice | 08/31/05 | 70 FR 51815
R&O | 07/10/06 | 71 FR 38781
R&O and FNPRM | 06/08/07 | 72 FR 31948
FNPRM Comment Period End | 07/09/07 | 72 FR 31782
R&O | 08/06/07 | 72 FR 43546
Public Notice | 08/07/07 | 72 FR 44136
R&O | 08/16/07 | 72 FR 45908
Public Notice | 11/01/07 | 72 FR 61813
Public Notice | 11/01/07 | 72 FR 61882
Public Notice | 12/13/07 | 72 FR 70808
Public Notice | 12/20/07 | 72 FR 72358
R&O | 02/21/08 | 73 FR 9463
NPRM | 02/21/08 | 73 FR 9507
Order | 05/15/08 | 73 FR 28057
Order | 07/29/09 | 74 FR 37624
R&O | 08/07/09 | 74 FR 39551
Next Action Undetermined

Regulatory Flexibility Analysis Required: Yes.

Agency Contact: Tim Stelzig, Associate Chief, Competition Policy Division, Federal Communications Commission, Wireline Competition Bureau, 445 12th Street SW., Washington, DC 20554, Phone: 202 418-0942, E-mail: tim.stelzig@fcc.gov.

RIN: 3060-AI48

434. Consumer Protection in the Broadband Era

Legal Authority: 47 U.S.C. 151 to 154; 47 U.S.C. 160; 47 U.S.C. 201 to 205; 47 U.S.C. 214; 47 U.S.C. 222; 47 U.S.C. 225; 47 U.S.C. 251 and 252; 47 U.S.C. 254 to 256; 47 U.S.C. 258; 47 U.S.C. 303(R)

Abstract: The Federal Communications Commission initiated this rulemaking in order to develop a framework that ensures that, as the telecommunications industry shifts from narrowband to broadband services, consumer protection needs are met by all providers of broadband Internet access service, regardless of the underlying technology providers use to offer the service. The Commission sought comment on whether adopting regulations, pursuant to its ancillary authority under title I of the Communications Act, to address consumer privacy, unauthorized changes to service, truth-in-billing, network outage reporting, discontinuance of service, rate averaging, and enforcement concerns, would be desirable and necessary as a matter of public policy. The Commission also sought comment on whether it should instead rely on market forces to address some or all of these areas of potential concern. The rulemaking also explores whether there are other areas of consumer protection related to wireline broadband Internet access service for which the Commission should adopt regulations pursuant to its ancillary authority.

Timetable:

Action | Date | FR Cite
NPRM | 10/17/05 | 70 FR 60259
NPRM Comment Period End | 03/01/06 |
Next Action Undetermined

Regulatory Flexibility Analysis Required: Yes.

Agency Contact: William Kehoe, Wireline Competition Bureau, Federal Communications Commission, 445 12th Street SW., Washington, DC 20554, Phone: 202 418-7122, Fax: 202 418-1413, E-mail: william.kehoe@fcc.gov.

RIN: 3060-AI73

435. Establishing Just and Reasonable Rates for Local Exchange Carriers (WC Docket No. 07-135)

Legal Authority: Not Yet Determined

Abstract: The Federal Communications Commission (Commission) is examining whether its existing rules governing the setting of tariffed rates by local exchange carriers (LECs) provide incentives and opportunities for carriers to increase access demand endogenously with the result that the tariff rates are no longer just and reasonable. The Commission tentatively concluded that it must revise its tariff rules so that it can be confident that tariffed rates remain just and reasonable even if a carrier experiences or induces significant increases in access demand. The Commission seeks comment on the types of activities that are causing the increases in interstate access demand and the effects of such demand increases on the cost structures of LECs. The Commission also seeks comment on several means of ensuring just and reasonable rates going forward. The NPRM invites comment on potential traffic stimulation by rate-of-return LECs, price cap LECs, and competitive LECs, as well as other forms of intercarrier traffic stimulation. Comments were received on December 17, 2007, and reply comments were received on January 16, 2008.

On February 8, 2011, the Commission adopted a Further Notice of Proposed Rulemaking seeking comment on proposed rule revisions to address access stimulation. The Commission sought comment on a proposal to require rate-of-return LECs and competitive LECs to file revised tariffs if they enter into or have existing revenue sharing agreements. The proposed tariff filing requirements vary depending on the type of LEC involved. The Commission also sought comment on other record proposals and on possible rules for addressing access stimulation in the context of intra-MTA call terminations by CMRS providers. Comments are due 30 days from publication in the Federal Register and reply comments are due 45 days from publication in the Federal Register.

Timetable:

Action | Date | FR Cite
NPRM | 11/15/07 | 72 FR 64179
NPRM Comment Period End | 12/17/07 |
FNPRM (Adopted Date) | 02/08/11 |
Next Action Undetermined

Regulatory Flexibility Analysis Required: Yes.

Agency Contact: Douglas Slotten, Attorney-Advisor, Federal Communications Commission, Wireline Competition Bureau, 445 12th Street SW., Washington, DC 20554, Phone: 202 418-1572, E-mail: douglas.slotten@fcc.gov.

RIN: 3060-AJ02

436. Jurisdictional Separations

Legal Authority: 47 U.S.C. 151; 47 U.S.C. 154(i) and 154(j); 47 U.S.C. 205; 47 U.S.C. 221(c); 47 U.S.C. 254; 47 U.S.C. 403; 47 U.S.C. 410

Abstract: Jurisdictional separations is the process, pursuant to part 36 of the Commission's rules, by which incumbent local exchange carriers apportion regulated costs between the intrastate and interstate jurisdictions. In 1997, the Commission initiated a proceeding seeking comment on the extent to which legislative changes, technological changes, and market changes warrant comprehensive reform of the separations process. In 2001, the Commission adopted the Federal-State Joint Board on Jurisdictional Separations' recommendation to impose an interim freeze of the part 36 category relationships and jurisdictional cost allocation factors for a period of five years, pending comprehensive reform of the part 36 separations rules. In 2006, the Commission adopted an Order and Further Notice of Proposed Rulemaking, which extended the separations freeze for a period of three years and sought comment on comprehensive reform. In 2009, the Commission adopted a Report and Order extending the separations freeze an additional year to June 2010. In 2010, the Commission adopted a Report and Order extending the separations freeze for an additional year to June 2011.

Timetable:

Action | Date | FR Cite
NPRM | 11/05/97 | 62 FR 59842
NPRM Comment Period End | 12/10/97 |
Order | 06/21/01 | 66 FR 33202
Order and FNPRM | 05/26/06 | 71 FR 29882
Order and FNPRM Comment Period End | 08/22/06 |
Report and Order | 05/15/09 | 74 FR 23955
R&O | 05/25/10 | 75 FR 30301
Next Action Undetermined

Regulatory Flexibility Analysis Required: Yes.

Agency Contact: Ted Burmeister, Federal Communications Commission, 445 12th Street SW., Washington, DC 20554, Phone: 202 418-7389, E-mail: theodore.burmeister@fcc.gov.

RIN: 3060-AJ06

437. Service Quality, Customer Satisfaction, Infrastructure and Operating Data Gathering (WC Docket Nos. 08-190, 07-139, 07-204, 07-273, 07-21)

Legal Authority: 47 U.S.C. 151 to 155; 47 U.S.C. 160 and 161; 47 U.S.C. 20 to 205; 47 U.S.C. 215; 47 U.S.C. 218 to 220; 47 U.S.C. 251 to 271; 47 U.S.C. 303(r) and 332; 47 U.S.C. 403; 47 U.S.C. 502 and 503

Abstract: This NPRM tentatively proposes to collect infrastructure and operating data that is tailored in scope to be consistent with Commission objectives from all facilities-based providers of broadband and telecommunications. Similarly, the NPRM also tentatively proposes to collect data concerning service quality and customer satisfaction from all facilities-based providers of broadband and telecommunications. The NPRM seeks comment on the proposals, on the specific information to be collected, and on the mechanisms for collecting information.

Timetable:

Action | Date | FR Cite
NPRM | 10/15/08 | 73 FR 60997
NPRM Comment Period End | 11/14/08
Reply Comment Period End | 12/15/08
NPRM (Release Date) | 02/08/11
Next Action Undetermined

Regulatory Flexibility Analysis Required: Yes.

Agency Contact: Cathy Zima, Acting Deputy Division Chief, Federal Communications Commission, Wireline Competition Bureau, 445 12th Street, SW., Washington, DC 20554, Phone: 202 418-7380, Fax: 202 418-6768, E-mail: cathy.zima@fcc.gov.

RIN: 3060-AJ14

438. • Form 477; Development of Nationwide Broadband Data to Evaluate Reasonable and Timely Deployment of Advanced Services to all Americans

Legal Authority: 15 U.S.C. 251; 47 U.S.C. 252; 47 U.S.C. 257; 47 U.S.C. 271; 47 U.S.C. 1302; 47 U.S.C. 160(b); 47 U.S.C. 161(a)(2)

Abstract: The NPRM seeks comment on streamlining and reforming the Commission's Form 477 Data Program which is the Commission's primary tool to collect data on broadband and telephone services.

Timetable:

Action | Date | FR Cite
NPRM | 05/16/07 | 72 FR 27519
Order | 07/02/08 | 73 FR 37861
Order | 10/15/08 | 73 FR 60997
NPRM | To Be Determined.

Regulatory Flexibility Analysis Required: Yes.

Agency Contact: Jeremy Miller, Deputy Chief, Industry Analysis and Technology Div., Federal Communications Commission, Wireline Competition Bureau, 445 12th Street, SW., Washington, DC 20554, Phone: 202 418-1507, Fax: 202 418-1413, E-mail: jeremy.miller@fcc.gov.

RIN: 3060-AJ15

439. • Preserving The Open Internet; Broadband Industry Practices

Legal Authority: 47 U.S.C. 151; 47 U.S.C. 152; 47 U.S.C. 154(i)-(j); 47 U.S.C. 201(b)

Abstract: In this Notice of Proposed Rulemaking (NPRM), the Commission considers adopting rules to preserve the open Internet: The Commission proposes draft language to codify the four principles the Commission articulated in the Internet Policy Statement; a fifth principle that would require a broadband Internet access service provider to treat lawful content, applications, and services in a nondiscriminatory manner; and a sixth principle that would require a broadband Internet access service provider to disclose such information concerning network management and other practices as is reasonably required for users and content, application, and service providers to enjoy the protections specified in this rulemaking. The Commission also proposes draft language to make clear that the principles would be subject to reasonable network management and would not supersede any obligation a broadband Internet access service provider may have-or limit its ability-to deliver emergency communications or to address the needs of law enforcement, public safety, or national or homeland security authorities, consistent with applicable law. The draft rules would not prohibit broadband Internet access service providers from taking reasonable action to prevent the transfer of unlawful content, such as the unlawful distribution of copyrighted works. Nor would the draft rules be intended to prevent a provider of broadband Internet access service from complying with other laws. The NPRM seeks comment on a category of “managed” or “specialized” services, how to define such services, and what principles or rules, if any, should apply to them. The NPRM affirms that the six principles the Commission proposes to codify apply to all platforms for broadband Internet access, and seeks comment on how, in what time frames or phases, and to what extent the principles should apply to non-wireline forms of Internet access, including, but not limited to, terrestrial mobile wireless, unlicensed wireless, licensed fixed wireless, and satellite. The NPRM also seeks comment on the enforcement procedures that the Commission should use to ensure compliance with the proposed principles.

Timetable:

Action | Date | FR Cite
NPRM | 11/30/09 | 74 FR 62638
NPRM Comment Period End | 04/26/10
Public Notice | 09/10/10 | 75 FR 55297
Comment Period End | 11/04/10
Order ( Release Date) | 12/23/10
Next Action Undetermined

Regulatory Flexibility Analysis Required: Yes.

Agency Contact: R. Matthew Warner, Attorney Advisor, Federal Communications Commission, 445 12th Street, SW., Washington, DC 20554, Phone: 202 418-2419, E-mail: matthew.warner@fcc.gov.

RIN: 3060-AJ30

440. Local Number Portability Porting Interval and Validation Requirements (WC Docket No 07-244)

Legal Authority: 47 U.S.C. 151; 47 U.S.C. 154(i); 47 U.S.C. 154(j); 47 U.S.C. 251; 47 U.S.C. 303(r)

Abstract: In 2007, the Commission released a Notice of Proposed Rulemaking in WC Docket No. 07-244. The Notice sought comment on whether the Commission should adopt rules specifying the length of the porting intervals or other details of the porting process. It also tentatively concluded that the Commission should adopt rules reducing the porting interval for wireline-to-wireline and intermodal simple port requests, specifically, to a 48-hour porting interval.

In the Local Number Portability Porting Interval and Validation Requirements First Report and Order and Further Notice of Proposed Rulemaking, released on May 13, 2009, the Commission reduced the porting interval for simple wireline and simple intermodal port requests, requiring all entities subject to its local number portability (LNP) rules to complete simple wireline-to-wireline and simple intermodal port requests within one business day. In a related Further Notice of Proposed Rulemaking (FNPRM), the Commission sought comment on what further steps, if any, the Commission should take to improve the process of changing providers.

In the LNP Standard Fields Order, released on May 20, 2010, the Commission adopted standardized data fields for simple wireline and intermodal ports. The Order also adopts the NANC's recommendations for porting process provisioning flows and for counting a business day in the context of number porting.

Timetable:

Action | Date | FR Cite
NPRM | 02/21/08 | 73 FR 9507
R&O and FNPRM | 07/02/09 | 74 FR 31630
R&O | 06/22/10 | 75 FR 35305
Next Action Undetermined

Regulatory Flexibility Analysis Required: Yes.

Agency Contact: Melissa Kirkel, Attorney-Advisor, WCB, Federal Communications Commission, 445 12th Street SW., Washington, DC 20554, Phone: 202 418-7958, Fax: 202 418-1413, E-mail: melissa.kirkel@fcc.gov.

RIN: 3060-AJ32

441. • Electronic Tariff Filing System (ETFS); WC Docket No. 10-141

Legal Authority: 47 U.S.C. 151 and 154; 47 U.S.C. 201 to 205; 47 U.S.C. 218 and 222; 47 U.S.C. 225 to 226; 47 U.S.C. 228 and 254; 47 U.S.C. 403

Abstract: Section 402(b)(1)(A)(iii) of the Telecommunications Act of 1996 added section 204(a)(3) to the Communications Act of 1934, as amended, providing for streamlined tariff filings by local exchange carriers. On September 6, 1996, in an effort to meet the goals of the 1996 Act, the Commission released the Tariff Streamlining NPRM, proposing measures to implement the tariff streamlining requirements of section 204(a)(3). Among other suggestions, the Commission proposed requiring LECs to file tariffs electronically.

The Commission began implementing the electronic filing of tariffs on January 31, 1997, when it released the Streamlined Tariff Order. On November 17, 1997, the Bureau made this electronic system, known as the Electronic Tariff Filing System, available for voluntary filing by incumbent LECs. The Bureau also announced that the use of ETFS would become mandatory for all incumbent LECs in 1998.

On May 28, 1998, in the ETFS Order, the Bureau established July 1, 1998, as the date after which incumbent LECs would be required to use ETFS to file tariffs and associated documents. The Commission deferred consideration of establishing mandatory electronic filing for non-incumbent LECs until the conclusion of a proceeding considering the mandatory detariffing of interstate long distance services.

In contrast to tariff filings by incumbent LECs, tariff filings by nondominant carriers are currently submitted via diskette, CD-ROM and/or paper, which are cumbersome and costly for the carrier, the Commission, and make it difficult for interested parties to review the documents. With this Notice of Proposed Rulemaking the Commission initiates a proceeding to examine whether mandatory electronic filing of tariffs and associated documents should be extended to all tariff filing entities.

Timetable:

Action | Date | FR Cite
NPRM | 08/11/10 | 75 FR 48629
NPRM Comment Period End | 09/10/10
NPRM Reply Comment Period End | 09/27/10
Next Action Undetermined

Regulatory Flexibility Analysis Required: Yes.

Agency Contact: Lynne H. Engledow, Attorney, Federal Communications Commission, Wireline Competition Bureau, 445 12th Street, SW., Washington, DC 20554, Phone: 202 418-1520, Fax: 202 418-1567, E-mail: lynne.engledow@fcc.gov.

RIN: 3060-AJ41

FEDERAL COMMUNICATIONS COMMISSION (FCC)

Wireline Competition Bureau

Completed Actions

442. Implementation of Net 911 Improvement Act

Legal Authority: Pub. L. 110-283

Abstract: On July 23, 2008, the New and Emerging Technologies Act was enacted.

On August 25, 2008, the Commission released an NPRM seeking comment on implementing the NET 911 Improvement Act.

Timetable:

Action | Date | FR Cite
NPRM | 08/28/08 | 73 FR 50741
NPRM Comment Period End | 09/09/08
Order | 07/06/09 | 74 FR 31860

Regulatory Flexibility Analysis Required: Yes.

Agency Contact: R. Matthew Warner, Attorney Advisor, Federal Communications Commission, 445 12th Street, SW., Washington, DC 20554, Phone: 202 418-2419, E-mail: matthew.warner@fcc.gov.

RIN: 3060-AJ09

443. Petition to Establish Procedural Requirements to Govern Proceedings for Forbearance Under Section 10 of the Communications Act of 1934, as Amended (WC Docket No.07-267)

Legal Authority: 47 U.S.C. 151; 47 U.S.C. 154 (i); 47 U.S.C. 154 (j); 47 U.S.C. 155(c); 47 U.S.C. 160; 47 U.S.C. 201; 47 U.S.C. 303(r)

Abstract: This Report and Order implements procedural rules governing petitions for forbearance filed pursuant to section 10 of the Communications Act of 1934, as amended. Pursuant to section 10, the Commission shall forbear from applying any statutory provision or regulation if it determines that: (1) Enforcement of the regulation is not necessary to ensure that the telecommunications carrier's charges, practices, classifications, or regulations are just, reasonable, and not unjustly or unreasonably discriminatory; (2) enforcement of the regulation is not necessary to protect consumers; and (3) forbearance from applying such provision or regulation is consistent with the public interest. In determining whether forbearance is consistent with the public interest, the Commission also must consider whether forbearance from enforcing the provision or regulation will promote competitive market conditions. The Commission must act on forbearance petitions within one year (extended by 90 days, if necessary); if the Commission fails to timely act the petition is deemed granted. In order to act by the deadline, and to present a stable petition for comment, this Order requires that forbearance petitions must be complete as filed. This rule requires forbearance petitioners to state with specificity all relevant provisions, rules, carriers, services, geographic areas, and other factors; to apply each statutory criterion to each rule; to identify needed data that the petitioner lacks; to meet routine filing requirements at 47 CFR section 1.49; and to send the petition to forbearance@fcc.gov, together with supporting data (including market data) and any supporting statements. The Order further clarifies that whenever a petitioner files a petition for forbearance, the petitioner bears the burden of proof with respect to establishing that the statutory criteria for granting forbearance are met. The Order adopts procedures to ensure that forbearance petitions are addressed in a manner that is actively managed, transparent, and fair. Notable among these are rules restricting ex parte communications 14 days before the deadline for Commission action, and limiting unauthorized withdrawals of forbearance petitions after the reply comment date plus 10 business days.

Timetable:

Action | Date | FR Cite
NPRM | 02/06/08 | 73 FR 6888
Final Action | 08/06/09 | 74 FR 39219

Regulatory Flexibility Analysis Required: Yes.

Agency Contact: Jon Reel, Attorney Advisor, Federal Communications Commission, Wireline Competition Bureau, 445 12th Street, SW., Washington, DC 20554, Phone: 202 418-0637, E-mail: jonathan.reel@fcc.gov.

RIN: 3060-AJ31

[FR Doc. 2011-15501 Filed 7-6-11; 8:45 am]

BILLING CODE 6712-01-P